DEPARTMENT OF ENERGY

Privacy Act of 1974; Publication of Compilation of Privacy Act Systems of Records

AGENCY: U.S. Department of Energy.

ACTION: Notice.

SUMMARY: As required by the Privacy Act of 1974, 5 U.S.C. 552a, and the Office of Management and Budget (OMB) Circular A-130, the Department of Energy including the National Nuclear Security Agency (NNSA) (hereinafter referred to collectively as “DOE” or “the Department”) is publishing its compilation of Privacy Act Systems of Records. This notice provides an accurate and complete text of the agency's systems of records, and adopts many of the recommendations that were made to DOE in comments that were submitted concerning proposed amendments to the compilation published by DOE on April 2, 2008.

DATES: The compilation of Privacy Act Systems of Records is effective January 9, 2009. The proposed new system of records will be open for comments until February 18, 2009. A final notice will be published addressing any comments received and adopting the notice.

ADDRESSES: Written comments on the proposed new system of records should be directed to Verlette L. Gatlin, Deputy Director, Office of Information Resources, U.S. Department of Energy, MA-90, 1000 Independence Avenue, SW., Washington, DC 20585, (202) 586-5955.

FOR FURTHER INFORMATION CONTACT: Verlette L. Gatlin, Deputy Director, Office of Information Resources, MA-90, U.S. Department of Energy, 1000 Independence Avenue, SW., Washington, DC 20585, (202) 586-5955, Jerry Hanley, Chief Privacy Officer, Office of Information Resources, MA-90, U.S. Department of Energy, 1000 Independence Avenue, SW., Washington, DC 20585, (202) 586-0483, and Isiah Smith, Deputy Assistant General Counsel for General Law, GC-77, U.S. Department of Energy, 1000 Independence Avenue, SW., Washington DC 20585, (202) 586-8618.

SUPPLEMENTARY INFORMATION:

I. Background

II. Discussion on Comments

III. Proposed New System of Records

IV. Comment Procedures

I. Background

DOE published a notice of its proposed compilation of its Privacy Act systems of records on April 2, 2008, at 73 FR 18044. The notice provided an accurate and complete text for the sixty-two systems of records established by DOE under the Privacy Act. Each system notice provided a description of the system of records, identified the purpose and authority for collecting and maintaining the information, reflected administrative changes that had been made, identified the appropriate DOE locations, and incorporated all routine uses. In addition, the notice proposed amendments to three existing systems of records, added a new routine use to all systems of records, established a new system of records, and deleted a system of records.

In the April 2, 2008 Federal Register Notice, DOE provided a date of April 2, 2008 for the public to comment on the proposed amendments to the Privacy Act compilation. However, on April 9, 2008 at 73 FR 19198, DOE published a notice correcting the comment date to May 9, 2008, effectively providing a 37-day period for the public to comment on the proposed amendments. The Department received numerous internal comments and no public comments. An analysis of the comments and the response by the DOE are provided in this notice.

II. Discussion of Comments

Comment: The Department received a comment stating that the DOE Headquarters, Washington, DC System Location for new system DOE-60 General Correspondence Files, should not be specific to Forrestal Building, and should be changed to the broader U.S. Department of Energy, Headquarters, 1000 Independence Avenue, SW., Washington, DC 20585 to provide broader coverage.

Response: The comment is accurate. The text has been revised accordingly with this notice.

Comment: The Department received several comments related to the Correlations section of the proposed Compilation. One commenter stated that, pursuant to an Office of Science (SC) restructure since the last publication of the Privacy Act Compilation, Field Site Offices may no longer be offices under the Field Location Office organization, but in all instances the Field Site Offices and their M&O Laboratories do maintain records under Field Location Office jurisdiction. Accordingly, in the Correlations section, the title “Correlation of DOE Field Locations and Their Offices” should be changed to “Correlation of DOE Field Locations and Field Site Offices, M&O Laboratories, and Other Offices Maintaining Records under Field Location Jurisdiction.” That commenter also stated that with respect to the offices that constitute the SC Integrated Support Center (Chicago and Oak Ridge), some information is outdated or inconsistent with the SC Integrated Support Center Service Provider Matrix under which they operate. Other commenters suggested additional updates to the Correlation section and provided supplemental information for updating that section.

Response: The comments are accurate. The text has been revised accordingly with this notice.

Comment: The Department received several comments related to System Locations in the proposed Compilation. One commenter stated that Field System Locations in all Field portions of Privacy Act Systems should be the location having jurisdiction over records in the System, i.e. , the location where the jurisdictional System Manager and cognizant Privacy Act Officer reside, not necessarily the physical location of the records. This is especially necessary in the 31 Systems of Records that provide that the System Manager for the Field portion of the System is the Manager (or Field subject matter Manager) of the System Location listed (DOE-1, 3, 5, 8, 13, 14, 16, 26, 28, 31, 33, 34, 35, 38, 41, 43, 44, 45, 46, 48, 50, 51, 52, 55, 56, 60, 63, 75, 77, 81, and 84). Field Locations (the DOE Field Locations listed in the “Correlations” section) should be listed accordingly as the only System Locations for their respective portions of the system, and any correlating Field Site Offices, M&O laboratories, and other offices maintaining records for the Field Location should be removed as System Locations, because they fall under the umbrella of the Field Location and would be listed as such under that Field Location in the Correlations section. Notification and Records Access provisions of those Systems are consistent with this revision, because they direct public and routine users to submit their requests to the Privacy Act Officer at the respective System Location listed. Also, if Field Site Offices, M&O laboratories, and other offices maintaining records for Field Locations were listed as System Locations, the public would be misdirected to submit their requests to locations where no Privacy Act Officer exists. Other commenters requested updates to specific System Locations and provided updated supplemental information for updating System Locations.

Response: The Privacy Act of 1974, 5 U.S.C. 552a Section (e)(4)(A) requires agencies to publish the name of the system and the location where the records are being maintained. On July 9, 1975 at 40 FR 28948, the Office of Management and Budget (OMB) published guidance to agencies implementing the Privacy Act. With respect to section (e)(4)(A), the OMB guidance stated “agencies will specify each city/town and site at which the system of records is located.” This includes the locations where records have been retired and sent to record centers. As currently structured the “Correlation Section” provides the public and routine users with the additional information necessary to determine which Field Location has jurisdiction over the records maintained for and by its correlating Field Site Offices, M&O and Laboratory sites. To determine the appropriate Privacy Act Officer for these locations, the additional information included in the “Correlation Section” and the updated language in the “Notification Procedures” directs the reader to the appropriate site. Although, the requester made a good point, the agency however, is correct providing a listing in the individual notices all of the field locations where records are being maintained. The various system managers for the systems of records were contacted and it was determined that this is consistent with the Privacy Act and the guidance provided by OMB. Therefore, the comment is not being adopted.

Comment: The Department received a comment stating that in DOE-5, Personnel Records of Former Contractor Employees, in the Purpose section, “with” should be added to the last line to now read “associated with their employment.”

Response: The comment is accurate. The text has been revised accordingly with this notice.

Comment: The Department received a comment stating that in the Categories of Individuals Covered section of DOE-11, Emergency Operations Notification Call List, “in DOE-11” should be added to the parenthetical to read (“hereinafter referred to in DOE-11 collectively as “DOE”). The commenter stated that without this change, from that point forward in the Compilation, the term “DOE” would mean DOE and NNSA.

Response: The comment is inaccurate. The text is not being revised because NNSA is a part of DOE.

Comment: The Department received a comment stating that, in spite of the fact that the Categories of Individuals Covered section under DOE-14, Report of Compensation includes DOE employees, the Purpose section only refers to reasonableness of compensation paid to top contractor personnel. If the full scope of data is compensation data on Contractor Key Personnel, DOE employees should not be mentioned in the Categories section. The commenter also stated that “up to $100,000” should be “exceeding $100,000.00,” based upon current salary information.

Response: DOE agrees that the Categories of Individuals section should be revised to include only contractor employees, and the text of that section has been revised accordingly with this notice. DOE also agrees that the Categories of Records section should reflect the appropriate salary dollar threshold. However, based on unique provisions in DOE's contracts with its contractors, contractual salary dollar thresholds may differ. Therefore, DOE has revised with this notice the text of the Categories of Records section to replace “current salary up to $100,000” with “current salary meeting the threshold level for reporting as specified in the respective contract.”

Comment: The Department received a comment stating that the new DOE-60 General Correspondence Files is missing the Purpose section. The commenter also stated that the supplementary information in the Preamble to the notice is inconsistent with the discussion in the Categories of Records in the System section. The Preamble states (1) that records to be maintained in this system “pertain to general correspondence submitted to the Heads of the Departmental Program Offices and the Heads of the Departmental Field Offices,” (2) that the categories of records to be covered by the system include “incoming correspondence that may include name, address, telephone number, organization, date of birth, and supporting documentation”, and (3) that “Files may also contain a copy of any response letters and documentation required to prepare the response.” In contrast, the Categories of Records in the System section description is limited to “Name, address of correspondent, and copies of the agency response.” It doesn't include the balance of the items listed in the supplementary information, and it doesn't restrict the correspondence to “general correspondence submitted to the Heads of the Departmental Program Offices and the Heads of the Departmental Field Offices.” The commenter suggested revising the Categories of Records in the System to provide the additional clarification expressed in supplementary information at the beginning of the proposed Compilation. Also, the commenter stated that like DOE-60, the system DOE-58 General Correspondence Files of Office of Secretary, Deputy Secretary and Under Secretary of Energy, also should include in its Categories of Records in the System section general correspondence submitted to those offices by individuals. DOE-58 currently only includes copies of the agency's response to the individual.

Response: The comments are accurate. The text has been revised accordingly with this notice.

Comment: The Department received a comment stating that the Counterintelligence organizations in the field report directly to the Office of Intelligence and Counterintelligence in Headquarters. The Field Offices and Support/Service Centers do not have responsibility for their records and any FOIA/PA requests should be directed to the Headquarters Counterintelligence Director. Accordingly, in DOE-84 Counterintelligence Investigative Records, the System Manager section should be revised to remove the “Field Offices,” and the Notification Procedures section should be revised to remove the following: “or the Privacy Act Officer at the appropriate address identified above under System Locations. For records maintained by the Laboratory, Site or Area Office, the request should be directed to the Privacy Act Officer that has jurisdiction over that site.”

Response: The system manager(s) section of the notice informs the public of the physical address of the manager of the record. This is in conjunction with the “System Location” section (See comment on “System Locations.”) It is inaccurate to say that these field managers do not have responsibility for these records. As managers of these records they are responsible for the records and must follow the rules set by the Department for collecting, maintaining, safeguarding and storing the records. By removing the field system managers from the notice would be inconsistent with OMB's guidance. Therefore, this portion of the comment will not be adopted.

The Privacy Act does not preclude individuals from submitting requests to those offices where records are maintained. If requests have been misdirected, the Department's regulation implementing the Privacy Act (Title 10 Code of Federal Regulations Section 1008) provides procedures how to process misdirected requests. We have considered the comment and the “Notification Procedures” section will be revised to instruct individuals to submit Privacy Act requests for these records to the Headquarters Privacy Act Officer.

Comment: The Department received a comment stating that if the address of the System Location were included in the Correlation list, it would not have to be repeated each time the System Location is identified in the System.

Response: DOE believes that although there may be some efficiency in the suggested change, such a change would only be applicable to certain locations and would cause potential requesters to take an extra step to locate the information needed to submit a request. Also, not repeating the system locations within the individual notices would not be consistent with OMB's guidance (see comment on “System Locations.”) Therefore, the comment is not being adopted and the text is not being revised.

Comment: The Department received a comment stating that because “Purpose” sections throughout the Compilation provide clarification or add to the “Categories of Records in the System” sections, the commenter suggests adding language to the beginning of each Purpose section to tie the two sections, e.g., “For those records described in Categories of Records in the System, such records are maintained. * * *”

Response: DOE agrees with this suggested administrative change. The text has been revised accordingly with this notice.

Comment: The Department received a comment stating that in all Systems involving records maintained in the Field, it would be clearer to the public if there was a revision to the “Notification Procedures” boilerplate sentence beginning “For the records maintained. * * *” to “For records maintained by the M&O Laboratory or Field Site Office, the request should be directed to the Privacy Act Officer at the System Location listed as having jurisdiction over that site—see the Correlation of DOE Field Locations and Field Site Offices, M&O Laboratories, and Other Offices Maintaining Records under Field Location Jurisdiction at the beginning of this Compilation of Systems of Records.”

Response: DOE agrees with this comment with two minor revisions. (1) Consistent with this commenter's previous comment regarding the organization within the Office of Science, such requests should be directed to the Privacy Act Officer at the System Location listed as having jurisdiction over “the records” for that site; and (2) better direction to requesters can be provided by stating “* * * as listed in the Correlation * * *” rather than “see the Correlation * * *” The text has been revised accordingly with this notice.

Comment: The Department received a comment stating that the “Retrievability” sections in some of the Systems specify that the records in the System are those retrieved by name or other personal identifier (e.g., SSN, badge number). Other Systems indicate that the record MAY BE retrieved by name or personal identifier. The commenter stated that this language is contrary to the Privacy Act and its implementing regulations (10 CFR 1008), which define “System of Records” as “a group of any records under the control of any agency from which information is retrieved by the name of the individual or by some identifying number, symbol, or other identifying particular assigned to the individual.” The commenter stated that the Retrievability sections should be amended to reflect that records in the system ARE retrieved by name and/or whatever other personal identifier(s) are applicable to the system.

Response: The comment is accurate. The text has been revised accordingly with this notice.

Comment: The Department received a comment stating that in the Purpose section of DOE-38 Occupational and Industrial Accident Records, “contract” should be “contractor.”

Response: The comment is accurate. The text has been revised accordingly with this notice.

Comment: The Department received a comment stating that in DOE-24 Land Records System, something is missing in the first sentence of the “Purpose” section, before “grants, licenses.”

Response: After consultation with the Privacy Act Officer and Counsel at one of the System Locations for this system, DOE has determined that there is in fact text missing from the language in the Purpose section of this system. The missing text in the “Purpose” section has been added accordingly with this notice.

Comment: The Department received a comment stating that since “Department of Energy” has been defined in the Introduction as either “DOE” or “Department” there is no need to add the parenthetical in subsequent usage (e.g., DOE-9, Categories of Individuals).

Response: DOE agrees with the suggested administrative changes. The text has been revised throughout the Compilation accordingly with this notice.

III. Proposed New System of Records

DOE-17 DOE Alert System

The Department proposes to establish a new system of records entitled DOE-17 “DOE Alert System.” The Roam Secure Alert Network (RSAN) software is the prime component of the DOE Alert System. It provides the capability to send text messages to text-capable devices of DOE Headquarters employees in the event of an emergency. It is one of numerous communication systems that allow quick, effective, and efficient information dissemination. It is not the primary notification system for an event, however, it can be used to provide additional information following an even occurrence.

The information in the system will pertain to DOE employees and contractor employees. It is a voluntary system that employees sign up to be alerted in case of an event or emergency. The information will be used by the Department to contact only the registered users of the system in case of an event.

The records will be stored as paper records and electronic media. Information is retrieved by the name of the individual. The authorities for the DOE Alert System are Title 42 United States Code (U.S.C.) Section 7101 et seq.; and 50 U.S.C. 2401 et seq.

The Department does not believe the maintenance of this system will have any substantial effect on privacy and other rights of individuals, particularly since the participation in the program is strictly voluntary and the information is provided by the employee. The system is necessary to efficiently administer the program.

IV. Comment Procedure

As provided by 5 U.S.C. 552a(e)(11) interested persons are invited to submit written data, views or comments related to the proposed new system of records to the U.S. Department of Energy, Office of Information Resources, MA-90, 1000 Independence Avenue, SW., Washington, DC 20585. “Comments” should be written on the outside of the envelope and on the documents submitted to DOE with the designation “Department of Energy Privacy Act Systems of Records Proposal.” The comments and all other relevant information will be considered by DOE before the proposed new system of records is adopted in its final form.

A final notice will be published addressing any comments received and adopting the notice upon the expiration of the 40-day advance notice period for informing Congress and the Office of Management and Budget (OMB) of the proposed new system.

The Department is submitting to Congress the report on the new system as required by OMB Circular A-130 concurrently with publication of this Federal Register notice.

Set forth below is the compilation of DOE's Privacy Act Systems of Records that includes a Table of Contents, Correlation of Offices and the text of the individual systems of records.

Issued in Washington, DC on December 17, 2008.
Ingrid Kolb,
Director, Office of Management.

Compilation of Systems of Records

Correlation of DOE Field Locations and Field Site Offices, M&O Laboratories, and Other Offices Maintaining Records Under Field Location Jurisdiction

Bonneville Power Administration

Carlsbad Field Office:

Waste Isolation Pilot Project Office.

Environmental Management Consolidated Business Center:

West Valley Demonstration Project.

Golden Field Office:

National Renewable Energy Laboratory

Idaho Operations Office:

Idaho National Laboratory;

Radiological and Environmental Sciences Laboratory.

National Energy Technology Laboratory (NETL) Pittsburgh:

NETL Albany, OR,

NETL Fairbanks, AK,

NETL Morgantown, WV,

NETL Tulsa, OK.

NNSA Service Center (Albuquerque) (formerly Albuquerque Operations Office):

Kansas City Site Office,

Kansas City Plant,

Lawrence Livermore National Laboratory,

Livermore Site Office,

Los Alamos Site Office,

Los Alamos National Laboratory,

Nevada Site Office (formerly NNSA Service Center (Nevada),

Pantex Site Office,

Pantex Plant,

Sandia Site Office,

Sandia National Laboratory,

NNSA Y-12 Site Office (formerly Y-12 Area Office),

Y-12 National Security Complex (formerly Y-12 Plant).

NNSA Naval Reactors Laboratory Field Office—Pittsburgh Naval Reactors:

Bettis Atomic Power Laboratory,

Naval Reactors Facility, Idaho Falls, ID.

NNSA Naval Reactors Laboratory Field Office—Schenectady Naval Reactors:

Knolls Atomic Power Laboratory,

Kesselring Site.

Office of Repository Development (formerly Yucca Mountain Site Characteristic Office):

Office of Science Chicago Office (formerly Chicago Operations Office):

Ames Site Office,

Ames Laboratory,

Argonne Site Office,

Argonne National Laboratory,

Brookhaven Site Office,

Brookhaven National Laboratory,

Fermi Site Office,

Fermi National Accelerator Laboratory,

Berkeley Site Office,

Lawrence Berkeley National Laboratory,

Princeton Site Office,

Princeton Plasma Physics Laboratory,

New Brunswick Laboratory.

Office of Science Oak Ridge Office (formerly Oak Ridge Operations Office)

Oak Ridge Gaseous Diffusion Plant (K-25),

Oak Ridge National Laboratory (X-10),

Oak Ridge Institute for Science and Education (ORISE),

Melton Valley TRU Waste Storage Facility,

Spallation Neutron Source, Oak Ridge Reservation,

Thomas Jefferson Site Office,

Thomas Jefferson National Accelerator Facility,

Paducah Gaseous Diffusion Plant,

Portsmouth Gaseous Diffusion Plant,

Portsmouth/Paducah Project Office, Lexington, KY,

Horizon Center,

East Tennessee Mechanical Contractors,

Pacific Northwest Site Office,

Pacific Northwest National Laboratory,

Stanford Site Office,

Stanford Linear Accelerator Center.

Richland Operations Office

AdvanceMed Hanford Inc.,

Office of River Protection.

Savannah River Operations Office

Savannah River Site Office (formerly Savannah River Area Office), including Savannah River,

Ecology Laboratory and Savannah River Technology Center,

NNSA Tritium Facility.

Southeastern Power Administration:

Alaska Power Administration.

Southwestern Power Administration

Strategic Petroleum Reserve Project Management Office:

Western Area Power Administration

Colorado River Storage Project Management Center,

Desert Southwest Regional Office,

Rocky Mountain Region,

Sierra Nevada Region,

Upper Great Plains Regional Office.

Table of Contents of All DOE Systems of Records as Adopted or Proposed

DOE-1 Grievance Records

DOE-2 DOE-Personnel Supervisor Maintained Personnel Records

DOE-3 Employee Concerns Program Records

DOE-4 Form EIA-457 Survey Reports, Residential Energy Consumption Survey (RECS)

DOE-5 Personnel Records of Former Contractor Employees

DOE-6 [Deleted-Reserved]

DOE-7 Whistleblower Investigation, Hearings, and Appeals Records

DOE-8 Intergovernmental Personnel Act (IPA) Agreements

DOE-9 Members of DOE Advisory Committees

DOE-10 Energy Employees Occupational Illness Compensation Program Act Files

DOE-11 Emergency Operations Notification Call List

DOE-12 Automated Materials Property System (AMPS)

DOE-13 Payroll and Leave Records

DOE-14 Report of Compensation

DOE-15 Intelligence-Related Access Authorization

DOE-16 Federal Employee Subsidy Program Records

DOE-17 DOE Alert System (Proposed New System—[DOE Number is being reissued]

DOE-18 Financial Accounting System

DOE-19 [Deleted-Reserved]

DOE-20 [Deleted-Reserved]

DOE-21 Asset Readiness Management System (ARMS)

DOE-22 [Deleted-Reserved]

DOE-23 Property Accountability System

DOE-24 Land Records System

DOE-25 U.S. DOE Commuter Locator and Parking Space Information System

DOE 26 Official Travel Records

DOE-27 Foreign Travel Management System (FTMS)

DOE-28 General Training Records

DOE-29 [Deleted-Reserved]

DOE-30 [Deleted-Reserved]

DOE-31 Firearms Qualification Records

DOE-32 [Deleted-Reserved]

DOE-33 Personnel Medical Records

DOE-34 Employee Assistance Program (EAP) Records

DOE-35 Personnel Radiation Exposure Records

DOE-36 [Deleted-Reserved]

DOE-37 [Deleted-Reserved]

DOE-38 Occupational and Industrial Accident Records

DOE-39 [Deleted-Reserved]

DOE-40 [Deleted-Reserved]

DOE-41 Legal Files (Claims, Litigation, Criminal Violations, Patents, and Others)

DOE-42 [Deleted-Reserved]

DOE-43 Personnel Security Clearance Files

DOE-44 Special Access Authorization for Categories of Classified Information

DOE-45 Weapons Data Access Control System (WDACS)

DOE-46 Administrative Review Files

DOE-47 [Deleted-Reserved]

DOE-48 Security Education and/or Infraction Reports

DOE-49 Security Communications File

DOE-50 Human Reliability Program Records

DOE-51 Employee and Visitor Access Control Records

DOE-52 Access Control Records of International Visits, Assignments, and Employment at DOE Facilities and Contractor Sites

DOE-53 Access Authorization for ADP Equipment

DOE-54 Investigative Files of the Inspector General

DOE-55 Freedom of Information and Privacy Act (FOIA/PA) Requests for Records

DOE-56 Congressional Constituent Inquiries

DOE-57 Congressional Profiles

DOE-58 General Correspondence Files of the Office of the Secretary of Energy, Deputy Secretary and Under Secretary of Energy

DOE-59 Mailing Lists for Requesters of Energy-Related Information

DOE-60 General Correspondence Files

DOE-61 Census of High Energy Physicists

DOE-62 Historical Files—Published Information Concerning Selected Persons in the Energy Field

DOE-63 Personal Identity Verification (PIV) Files

DOE-64 [Deleted-Reserved]

DOE-65 [Deleted-Reserved]

DOE-66 Power Sales to Individuals

DOE-67 [Deleted-Reserved]

DOE-68 [Deleted-Reserved]

DOE-69 [Deleted-Reserved]

DOE-70 [Deleted-Reserved]

DOE-71 The Radiation Accident Registry

DOE-72 The DOE Radiation Study Registry

DOE-73 The US-DPTA Registry

DOE-74 [Deleted-Reserved]

DOE-75 Call Detail Records

DOE-76 [Deleted-Reserved]

DOE-77 Physical Fitness Test Records

DOE-78 [Deleted-Reserved]

DOE-79 [Deleted-Reserved]

DOE-80 [Deleted-Reserved]

DOE-81 Counterintelligence Administrative and Analytical Records and Reports

DOE-82 Grant and Contract Records for Research Projects, Science Education, and Related Activities

DOE-83 Allegation-Based Inspection Files of the Office of Inspector General

DOE-84 Counterintelligence Investigative Records

DOE-85 [Reserved]

DOE-86 Human Radiation Experiments Records

DOE-87 [Deleted-Reserved]

DOE-88 Epidemiologic and Other Health Studies, Surveys, and Surveillances

Text of Systems of Records

DOE-1

SYSTEM NAME:

Grievance Records.

SECURITY CLASSIFICATION:

Unclassified.

SYSTEM LOCATION(S):

U.S. Department of Energy, Headquarters, 1000 Independence Avenue, SW., Washington, DC 20585.

U.S. Department of Energy, Alaska Power Administration, Federal Records Center, San Point Way, NE., Seattle, WA 98115.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Bonneville Power Administration, P.O. Box 3621, Portland, OR 97208.

U.S. Department of Energy, Office of Science—Chicago Office, 9800 South Cass Avenue, Argonne, IL 60439.

U.S. Department of Energy, Idaho Operations Office, 1955 Fremont Avenue, Idaho Falls, ID 83415.

U.S. Department of Energy, National Energy Technology Laboratory, P.O. Box 10940, 626 Cochrans Mill Road, Pittsburgh, PA 15236.

U.S. Department of Energy, National Energy Technology Laboratory (Morgantown), P.O. Box 880, Morgantown, WV 26507-0880.

U.S. Department of Energy, National Energy Technology Laboratory (Tulsa), One West Third Street, Suite 1400, Tulsa, OK 74103-3519.

U.S. Department of Energy, National Energy Technology Laboratory (Alaska) 2175 University Avenue South, Suite 201, Fairbanks, AK 99709.

U.S. Department of Energy, National Energy Technology Laboratory, 1450 Queen Avenue, SW., Albany, OR 97321-2198.

U.S. Department of Energy, NNSA Nevada Site Office, P.O. Box 98518, Las Vegas, NV 89193-8518.

U.S. Department of Energy, Office of Science—Oak Ridge Office, P.O. Box 2001, Oak Ridge, TN 37831.

U.S. Department of Energy, Environmental Consolidated Business Center (EMCBC), 250 E. Fifth Street, Suite 500, Cincinnati, OH 45202.

U.S. Department of Energy, Richland Operations Office, P.O. Box 550, Richland, WA 99352.

U.S. Department of Energy, Savannah River Operations Office, P.O. Box A, Aiken, SC 29801.

U.S. Department of Energy, Southeastern Power Administration, 1166 Athens Tech Road, Elberton, GA 30635-6711.

U.S. Department of Energy, Southwestern Power Administration, Williams Tower One, One West Third Street, Tulsa, OK 74103.

U.S. Department of Energy, Strategic Petroleum Reserve Project Management Office, 900 Commerce Road East, New Orleans, LA 70123.

U.S. Department of Energy, Western Area Power Administration, P.O. Box 281213, Lakewood, CO 80228-8213.

U.S. Department of Energy, Office of Repository Development, P.O. Box 364629, North Las Vegas, NV 89036-8629.

CATEGORIES OF INDIVIDUALS COVERED BY THE SYSTEM:

Current and former DOE employees including National Nuclear Security Administration (NNSA) employees, consultants, board members, and applicants.

CATEGORIES OF RECORDS IN THE SYSTEM:

Grievances; names; social security numbers; work and home address; work and home telephone numbers; job titles, series, and grade levels; organization; supervisors' names and telephone numbers; copies of employee records, such as personnel actions, performance appraisals, pay and leave records, and security clearance documents; management reports; witness statements; affidavits; checklists; notes; and relevant correspondence.

AUTHORITY FOR MAINTENANCE OF THE SYSTEM:

42 U.S.C. 7101 et seq.; 50 U.S.C. 2401 et seq.; 5 U.S.C. 7121, and 5 CFR Part 771.

PURPOSE(S):

For those records described in Categories of Records in the System, such records maintained in the system pertain to grievances subject to the negotiated grievance process and the agency's administrative grievance process. The records in this system will be used by management officials in the resolution of employee concerns about working conditions, administration of the agency's grievance process, employee-supervisor relations, work processes, or other similar issues.

ROUTINE USES OF RECORDS MAINTAINED IN THE SYSTEM, INCLUDING CATEGORIES OF USERS AND THE PURPOSES OF SUCH USES:

1. A record from this system may be disclosed as a routine use to union officials acting in their official capacity as a representative of the grievant or affected employees under 5 U.S.C. Chapter 71.

2. A record from this system may be disclosed as a routine use to a member of Congress submitting a request involving a constituent when the constituent has requested assistance from the member concerning the subject matter of the record. The member of Congress must provide a copy of the constituent's request for assistance.

3. A record from this system may be disclosed as a routine use to an appropriate Federal, State, or local agency that is authorized to review and resolve the issue(s) raised in the grievance.

4. A record from this system may be disclosed as a routine use for the purpose of an investigation, settlement of claims, or the preparation and conduct of litigation to (1) a person representing the Department or assisting in such representation; (2) others involved in the matter, their representatives and persons assisting such persons; and (3) witnesses, potential witnesses, their representatives and assistants, and any other persons possessing information pertaining to the matter when it is necessary to obtain information or testimony relevant to the matter.

5. A record from this system may be disclosed as a routine use to a contractor of the Department who is authorized to review and resolve the issue(s) raised in the grievance, including a mediator or arbitrator in the performance of their duties. Those provided information under this routine use are subject to the same limitations applicable to Department officers and employees under the Privacy Act.

6. A record from this system may be disclosed as a routine use when (1) it is suspected or confirmed that the security or confidentiality of information in the system of records has been compromised; (2) the Department has determined that as a result of the suspected or confirmed compromise there is a risk of harm to economic or property interests, identity theft or fraud, or harm to the security integrity of this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by the name of the grievant or complainant or other personal identifier, such as social security number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director of Human Capital Management, U.S. Department of Energy, 1000 Independence Avenue, SW., Washington, DC 20585.

Field Offices: The Human Capital Directors of the “System Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records generally are kept at locations where the work is performed. In accordance with the DOE Privacy Act regulation, proper identification is required before a request is processed.

CONTESTING RECORD PROCEDURES:

Same as Notification Procedures above.

RECORD SOURCE CATEGORIES:

The grievant or complainant, applicable management officials, program office records, congressional offices, and fact finders' notes and reports.

SYSTEM EXEMPTED FROM CERTAIN PROVISIONS OF THE ACT:

None.

DOE-2

SYSTEM NAME:

DOE-Personnel Supervisor Maintained Personnel Records.

SECURITY CLASSIFICATION:

Unclassified.

SYSTEM LOCATION(S):

U.S. Department of Energy, Headquarters, 1000 Independence Avenue, SW., Washington, DC 20585.

U.S. Department of Energy, Alaska Power Administration, Federal Records Center, San Point Way, NE., Seattle, WA 98115.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Bonneville Power Administration, P.O. Box 3621, Portland, OR 97208.

U.S. Department of Energy, Office of Science—Chicago Office, 9800 South Cass Avenue, Argonne, IL 60439.

U.S. Department of Energy, Idaho Operations Office, 1955 Fremont Avenue, Idaho Falls, ID 83415.

U.S. Department of Energy, National Energy Technology Laboratory (Pittsburgh), P.O. Box 10940, 626 Cochrans Mill Road, Pittsburgh, PA 15236.

U.S. Department of Energy, National Energy Technology Laboratory (Morgantown), P.O. Box 880, Morgantown, WV 26507-0880.

U.S. Department of Energy, National Energy Technology Laboratory (Tulsa), One West Third Street, Suite 1400, Tulsa, OK 74103-3519.

U.S. Department of Energy, NNSA Nevada Site Office, P.O. Box 98518, Las Vegas, NV 8913-8518.

U.S. Department of Energy, Office of Science, Oak Ridge Office, P.O. Box 2001, Oak Ridge, TN 37831.

U.S. Department of Energy, Environmental Management Consolidated Business Center (EMCBC), 250 E. Fifth Street, Suite 500, Cincinnati, OH 45202.

U.S. Department of Energy, Richland Operations Office, P.O. Box 550, Richland, WA 99352.

U.S. Department of Energy, Savannah River Operations Office, P.O. Box A, Aiken, SC 29801.

U.S. Department of Energy, Southeastern Power Administration, 1166 Athens Tech Road, Elberton, GA 30635-6711.

U.S. Department of Energy, Southwestern Power Administration, Williams Tower One, One West Third Street, Tulsa, OK 74103.

U.S. Department of Energy, Strategic Petroleum Reserve Project Management Office, 900 Commerce Road East, New Orleans, LA 70123.

U.S. Department of Energy, Western Area Power Administration, P.O. Box 281213, Lakewood, CO 80228-8213.

CATEGORIES OF INDIVIDUALS COVERED BY THE SYSTEM:

Current and former DOE employees including National Nuclear Security Administration (NNSA) employees, who have departed within the last year, assigned military or detailed personnel, and applicants for employment.

CATEGORIES OF RECORDS IN THE SYSTEM:

Name, social security number, copies and summaries of employment history; SF-171; job description; education; address; next of kin; home and work telephone numbers; date of birth; awards and commendations received; participation in professional or community activities; training; earnings and leave data; travel actions; certification or qualification examinations; injury reports; appraisals; copy of ADP-produced Form 702; Form 50; assignment records; security infraction notices; records of supervisor-employee discussions; supervisor observations; reprimands; admonitions; adverse actions; commendations; contingency planning data; security clearance status; and Government property in employee possession.

AUTHORITY FOR MAINTENANCE OF THE SYSTEM:

42 U.S.C. 7101 et seq., and 50 U.S.C. 2401 et seq.

PURPOSE(S):

For those records described in Categories of Records in the System, such records are maintained and used by DOE to maintain a file of personnel information that would allow DOE managers to make informed personnel and management decisions concerning employees.

ROUTINE USES OF RECORDS MAINTAINED IN THE SYSTEM, INCLUDING CATEGORIES OF USERS AND THE PURPOSES OF SUCH USES:

1. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

2. A record from the system may be disclosed as a routine use to DOE contractors in performance of their contracts, and their officers and employees who have a need for the record in the performance of their duties. Those provided information under this routine use are subject to the same limitations applicable to Department officers and employees under the Privacy Act.

3. A record from this system may be disclosed as a routine use to a member of Congress submitting a request involving the constituent when the constituent has requested assistance from the member concerning the subject matter of the record. The member of Congress must provide a copy of the constituent's request for assistance.

4. A record from this system may be disclosed as a routine use when (1) it is suspected or confirmed that the security or confidentiality of information in the system of records has been compromised; (2) the Department has determined that as a result of the suspected or confirmed compromise there is a risk of harm to economic or property interests, identity theft or fraud, or harm to the security integrity of this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters and Field Offices: The immediate supervisor of the subject of the record(s).

NOTIFICATION PROCEDURES:

In accordance with the DOE regulation implementing the Privacy Act, at Title 10, Code of Federal Regulations, part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with DOE Privacy Act regulation, proper identification is required before a request is processed.

CONTESTING RECORD PROCEDURES:

Same as Notification Procedures above.

RECORD SOURCE CATEGORIES:

The subject employee, employee's supervisor(s), personnel action documents, payroll documents, and personnel security documents.

SYSTEM EXEMPTED FROM CERTAIN PROVISION OF THE ACT:

None.

DOE-3

SYSTEM NAME:

Employee Concerns Program Records.

SECURITY CLASSIFICATION:

Unclassified.

SYSTEM LOCATION(S):

U.S. Department of Energy, Headquarters, 1000 Independence Avenue, SW., Washington, DC 20585.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, Office of Science, Chicago Office, 9800 South Cass Avenue, Argonne, IL 60439.

U.S. Department of Energy, Idaho Operations Office, 1955 Fremont Avenue, Idaho Falls, ID 83415.

U.S. Department of Energy, NNSA Nevada Site Office, P.O. Box 98518, Las Vegas, NV 89193-8518.

U.S. Department of Energy, National Energy Technology Laboratory, P.O. Box 10940, 626 Cochrans Mill Road, Pittsburgh, PA 15236.

U.S. Department of Energy, National Energy Technology Laboratory (Morgantown), P.O. Box 880, Morgantown, WV 26507-0880.

U.S. Department of Energy, National Energy Technology Laboratory (Tulsa), One West Third Street, Suite 1400.

U.S. Department of Energy, National Energy Technology Laboratory (Alaska) 2175 University Avenue South, Suite 201, Fairbanks, AK 99709.

U.S. Department of Energy, National Energy Technology Laboratory, 1450 Queen Avenue SW., Albany, OR 97321-2198.

U.S. Department of Energy, Office of Science, Oak Ridge Office, P.O. Box 2001, Oak Ridge, TN 37831.

U.S. Department of Energy, Environmental Management Consolidated Business Center (EMCBC), 250 E. Fifth Street, Cincinnati, OH 45202.

U.S. Department of Energy, Office of River Protection, P.O. Box 550, MS A1-61, Richland, WA 99352.

U.S. Department of Energy, Richland Operations Office, P.O. Box 550, Richland, WA 99352.

U.S. Department of Energy, Savannah River Operations Office, P.O. Box A, Aiken, SC 29801.

U.S. Department of Energy, Southeastern Power Administration, 1166 Athens Tech Road, Elberton, GA 30635-6711.

U.S. Department of Energy, Strategic Petroleum Reserve Project Management Office, 900 Commerce Road East, New Orleans, LA 70123.

U.S. Department of Energy, Southwestern Power Administration, Williams Tower One, One West Third Street, Tulsa, OK 74103.

U.S. Department of Energy, Western Area Power Administration, P.O. Box 281213, Lakewood, CO 80228-8213.

CATEGORIES OF INDIVIDUALS COVERED BY THE SYSTEM:

Current and former DOE employees including National Nuclear Security Administration (NNSA) employees and DOE contractor and subcontractor employees who file concerns or complaints with the DOE Employee Concerns Program offices.

CATEGORIES OF RECORDS IN THE SYSTEM:

Employee concerns, informal whistleblower reprisal complaints, names, social security numbers, work and home addresses and telephone numbers, job titles, series, grade or pay levels; organization; supervisors names and telephone numbers; copies of employee records such as personnel actions, performance appraisals, pay and leave records and security clearance documents; management reports; witness statements; affidavits; checklists; notes; and relevant correspondence.

AUTHORITY FOR MAINTENANCE OF THE SYSTEM:

42 U.S.C. 7101 et seq.; 50 U.S.C. 2401 et seq.; 42 U.S.C. 2201(p); 42 U.S.C. 7254; 42 U.S.C. 5801(a).

RETRIEVABILITY:

Records are retrieved by name and/or social security number.

PURPOSE(S):

For those records described in Categories of Records in the System, such records are maintained and used by the Department to document and resolve employee concerns about environmental, safety and health issues, employee-supervisor relations, work processes and practices, and other work-related issues.

ROUTINE USES OF RECORDS MAINTAINED IN THE SYSTEM, INCLUDING CATEGORIES USERS AND THE PURPOSES OF SUCH USES:

1. A record from this system may be disclosed as a routine use to union officials acting in their official capacity as a representative of the grievant or affected employees under 5 U.S.C. Chapter 71.

2. A record from this system may be disclosed as a routine use to a member of Congress submitting a request involving a constituent when the constituent has requested assistance from the member of Congress with respect to the subject matter of the record. The member of Congress must provide a copy of the constituent's request for assistance.

3. A record from the system may be disclosed as a routine use to the appropriate local, State or Federal agency when records alone or in conjunction with other information, indicates a violation or potential violation of law whether civil, criminal, or regulatory in nature, and whether arising by general statute or particular program pursuant thereto.

4. A record from this system may be disclosed as a routine use for the purpose of an investigation, settlement of claims, or the preparation and conduct of litigation to (1) a person representing the Department or assisting in such representation; (2) others involved in the matter, their representatives and persons assisting such persons; and (3) witnesses, potential witnesses, their representatives and assistants, and any other persons possessing information pertaining to the matter when it is necessary to obtain information or testimony relevant to the matter.

5. A record from this system may be disclosed as a routine use to DOE contractors in performance of their contracts, and their officers and employees who have a need for the record in the performance of their duties. Those provided information under this routine use are subject to the same limitations applicable to Department officers and employees under the Privacy Act.

6. A record from this system may be disclosed as a routine use when (1) it is suspected or confirmed that the security or confidentiality of information in the system of records has been compromised; (2) the Department has determined that as a result of the suspected or confirmed compromise there is a risk of harm to economic or property interests, identity theft or fraud, or harm to the security integrity of this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by the name of the concerned employee or complainant or other personal identifier, such as social security number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE records schedules that have been approved by NARA.

SYSTEM MANAGER(S) AND ADDRESS:

Headquarters: Director, Office of Employee Concerns, U.S. Department of Energy, 1000 Independence Avenue, SW., Washington, DC 20585.

Field Offices: The managers of the Office of Employee Concerns at the “System Locations” listed above are the system managers for their respective portions of this system.

NOTIFICATION PROCEDURES:

In accordance with the DOE regulation implementing the Privacy Act, at Title 10, Code of Federal Regulations, Part 1008, a request by an individual to determine if a system of records contains information about him/her should be directed to the U S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records generally are kept at locations where the work is performed. In accordance with the DOE Privacy Act regulation, proper identification is required before a request is processed.

CONTESTING RECORD PROCEDURES:

Same as Notification Procedures above.

RECORD SOURCE CATEGORIES:

The concerned employee or complainant; applicable management officials; program office records; and congressional offices.

SYSTEM EXEMPTED FROM CERTAIN PROVISIONS OF THE ACT:

The system is exempt under subsections 552a(k)(1), (2) and (5) of the Privacy Act to the extent that information within the system meets the criteria of those subsections of the Act. Such information has been exempted from the provisions of subsections (c)(3); 5 U.S.C. § 552a (d); 5 U.S.C. 552a (e)(1) of the Act; see the Department's Privacy Act regulation at 10 CFR Part 1008.

DOE-4

SYSTEM NAME:

Form EIA-457 Survey Reports, Residential Energy Consumption Survey (RECS).

SECURITY CLASSIFICATION:

Unclassified.

SYSTEM LOCATION(S):

U.S. Department of Energy, Energy Information Administration (EIA), 1000 Independence Avenue, SW., Washington, DC 20585.

CATEGORIES OF INDIVIDUALS COVERED BY THE SYSTEM:

Persons responding to the Form EIA-457, Residential Energy Consumption Survey (RECS).

CATEGORIES OF RECORDS IN THE SYSTEM:

Name, identification number, age, gender, race, ethnicity, home address, home telephone number, income, family size and composition, characteristics of household, characteristics of housing unit, fuels used, household vehicles, name and address of landlord, names and addresses of energy suppliers, and records of energy purchases.

AUTHORITY FOR MAINTENANCE OF THE SYSTEM:

42 U.S.C. 7101 et seq. and 50 U.S.C. 2401 et seq.

PURPOSE(S):

For those records described in Categories of Records in the System, such information is collected and maintained by the DOE to measure the levels of energy consumption by homeowners and the cost of energy consumed. The information also is used for monitoring, analyzing, and modeling changes in the residential sector and its energy consumption.

ROUTINE USES OF RECORDS MAINTAINED IN THE SYSTEM, INCLUDING CATEGORIES OF USERS AND THE PURPOSES OF SUCH USES:

1. A record from the system may be disclosed as a routine use to DOE contractors in performance of their contracts, and their officers and employees who have a need for the record in the performance of their duties.

2. A record may be disclosed to an agent under a written agreement to maintain the confidentiality of the record, to use the information for exclusively statistical purposes, and to use the information consistent with the purpose cited above. Those provided information under the routine uses are subject to the Privacy Act.

3. A record from this system may be disclosed as a routine use to a member of Congress submitting a request involving a constituent when the constituent has requested assistance from the member of Congress with respect to the subject matter of the record. The member of Congress must provide a copy of the constituent's request for assistance.

4. A record from this system may be disclosed as a routine use when (1) it is suspected or confirmed that the security or confidentiality of information in the system of records has been compromised; (2) the Department has determined that as a result of the suspected or confirmed compromise there is a risk of harm to economic or property interests, identity theft or fraud, or harm to the security integrity of this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name and/or identification number.

SAFEGUARDS:

Paper records are maintained in locked cabinets and desks. Electronic records are controlled through established computer center procedures (personnel screening and physical security), and they are password protected. Passwords are known only by authorized system users. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Administrator, Energy Information Administration, U.S. Department of Energy, 1000 Independence Avenue, SW., Washington, DC 20585.

NOTIFICATION PROCEDURES:

In accordance with the DOE regulation implementing the Privacy Act, at Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual and energy supply companies.

SYSTEM EXEMPT FROM CERTAIN PROVISIONS OF THE ACT:

None.

DOE-5

SYSTEM NAME:

Personnel Records of Former Contractor Employees.

SECURITY CLASSIFICATION:

Unclassified.

SYSTEM LOCATION(S):

U.S. Department of Energy, Headquarters, 1000 Independence Avenue, SW., Washington, DC 20585.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Idaho Operations Office, 1955 Fremont Avenue, Idaho Falls, ID 83415.

U.S. Department of Energy, Naval Petroleum Reserves in California, P.O. Box 11, Tupman, CA 93276.

U.S. Department of Energy, Naval Petroleum and Oil Shale Reserves, 907 North Poplar, Suite 150, Casper, WY 82601.

U.S. Department of Energy, Environmental Management Consolidated Business Center (EMCBC), 250 E. Fifth Street, Suite 500, Cincinnati, OH 45202.

U.S. Department of Energy, Grand Junction Office, 2597 B ¾ Road, Grand Junction, CO 81503.

U.S. Department of Energy, Richland Operations Office, P.O. Box 550 Richland, WA 99352.

U.S. Department of Energy, Savannah River Operations Office, P.O. Box A, Aiken, SC 29801.

U.S. Department of Energy, Strategic Petroleum Reserve Project Management Office, 900 Commerce Road East, New Orleans, LA 70123.

CATEGORIES OF INDIVIDUALS COVERED BY THE SYSTEM:

Former employees of companies that currently have or have had a contract with the DOE including the National Nuclear Security Administration (NNSA).

CATEGORIES OF RECORDS IN THE SYSTEM:

Name, employment history, earnings, medical history, and other related information.

AUTHORITY FOR MAINTENANCE OF THE SYSTEM:

42 U.S.C. 7101 et seq., 50 U.S.C. 2401 et seq. and the Memorandum of Understanding between the Department of Energy and the Department of Health and Human Services, 56 FR 9701, March 7, 1991.

PURPOSE(S):

For those records described in Categories of Records in the System, such records are maintained and used by the DOE to verify employment of contractor employees who have worked at a DOE facility or for a prime management and operating contractor for the DOE to settle or pay claims associated with their employment.

ROUTINE USES OF RECORDS MAINTAINED IN THE SYSTEM, INCLUDING CATEGORIES OF USERS AND THE PURPOSES OF SUCH USES:

1. A record from the system may be disclosed as a routine use to the appropriate local, State or Federal agency when records alone or in conjunction with other information, indicates a violation or potential violation of law whether civil, criminal, or regulatory in nature, and whether arising by general statute or particular program pursuant thereto.

2. A record from the system may be disclosed as a routine use to a Federal, State, or local agency to obtain information relevant to a Departmental decision concerning the hiring or retention of an employee, the issuance of a security clearance, the reporting of an investigation of an employee, the letting of a contract, or the issuance of a license, grant, or other benefit. The Department must deem such disclosure to be compatible with the purpose for which the Department collected the information.

3. A record from this system may be disclosed as a routine use for the purpose of an investigation, settlement of claims, or the preparation and conduct of litigation to (1) persons representing the Department in the investigation, settlement or litigation, and to individuals assisting in such representation; (2) others involved in the investigation, settlement, and litigation, and their representatives and individuals assisting those representatives; and (3) witness, potential witness, or their representatives and assistants, and any person possesses information pertaining to the matter when it is necessary to obtain information or testimony relevant to the matter.

4. A record from this system may be disclosed as a routine use in court or administrative proceedings to the tribunals, counsel, other parties, witnesses, and the public (in publicly available pleadings, filings or discussion in open court) when such disclosure: (1) is relevant to, and necessary for, the proceeding; (2) compatible with the purpose for which the Department collected the records; and (3) the proceedings involve:

(a) The Department, its predecessor agencies, current or former contractor of the Department, or other United States Government agencies and their components, or

(b) A current or former employee of the Department and its predecessor agencies, current or former contractors of the Department, or other United States Government agencies and their components, who is acting in an official capacity or in any individual capacity where the Department or other United States Government agency has agreed to represent the employee.

5. A record from the system may be disclosed as a routine use to DOE contractors in performance of their contracts, and their officers and employees who have a need for the record in the performance of their duties. Those provided information under this routine use are subject to the same limitations applicable to DOE officers and employees under the Privacy Act.

6. A record from the system of records may be disclosed to a member of Congress submitting a request involving the constituent when the constituent has requested assistance from the member concerning the subject matter of the record. The member of Congress must provide a copy of the constituent's request for assistance.

7. A record from the system of records may be disclosed to contractor personnel, grantees, and cooperative agreement holders of components of the Department of Health and Human Services, including the National Institute for Occupational Safety and Health and the National Center for Environmental Health of the Centers for Disease Control and Prevention, and the Agency for Toxic Substances and Disease Registry pursuant to Memoranda of Understanding between the Department and the Department of Health and Human Services or its components.

8. A record from the system may be disclosed to contractors, grantees, participants in cooperative agreements, collaborating researchers, or their employees, in performance of health studies or related health or environmental duties pursuant to their contracts, grants, and cooperating or collaborating research agreements. In order to perform such studies, the Department, its contractors, grantees, participants in cooperative agreements, and collaborating researchers may disclose a record to: Federal, State and local health and medical agencies or authorities; subcontractors in order to determine a subject's vital status or cause of death; health care providers to verify a diagnosis or cause of death; or third parties to obtain current addresses for participants in health-related studies, surveys, and surveillance. All recipients of such records are required to comply with the Privacy Act, to follow prescribed measures to protect personal privacy, and to disclose or use personally identifiable information only for the above described research purposes.

9. A record from this system may be disclosed to members of DOE advisory committees, the Department of Health and Human Services Advisory Committee on Projects Related to Department of Energy Facilities, and to designated employees of Federal, State, or local government or government-sponsored entities authorized to provide advice to the DOE concerning health, safety, or environmental issues. All recipients of such records are required to comply with the Privacy Act, to follow prescribed measures to protect personal privacy, and to disclose or use personally identifiable information only for the purpose of providing advice to the DOE or to the Department of Health and Human Services. All recipients of such records are required to comply with the Privacy Act, to follow prescribed measures to protect personal privacy and to disclose or use personally identifiable information only for the purpose of providing advice to the DOE or to the Department of Health and Human Services.

10. A record from this system may be disclosed to Department of Health and Human Services, their contractors, grantees, and cooperative agreement holders, pursuant to the Energy Employees Occupational Illness Compensation Program Act of 2000, to estimate radiation doses and other workplace exposures received by Department of Energy and contractor employees. Those provided information under this routine use are subject to the same limitations applicable to Department officers and employees under the Privacy Act.

11. A record from this system may be disclosed as a routine use when (1) it is suspected or confirmed that the security or confidentiality of information in the system of records has been compromised; (2) the Department has determined that as a result of the suspected or confirmed compromise there is a risk of harm to economic or property interests, identity theft or fraud, or harm to the security integrity of this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records are stored as paper records.

RETRIEVABILITY:

Records are retrieved by the name of the individual.

SAFEGUARDS:

Paper records are maintained in locked cabinets and desks. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Contractor Human Resource Management, U.S. Department of Energy, 1000 Independence Avenue, SW., Washington, DC 20585.

Field Offices: The Human Resource Managers of the “System Locations” listed above are the system managers for their respective portions of the system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The employer of the subject individual.

SYSTEM EXEMPTED FROM CERTAIN PROVISIONS OF THE ACT:

None.

DOE-7

SYSTEM NAME:

Whistleblower Investigation, Hearings, and Appeals Records.

SECURITY CLASSIFICATION:

Classified and unclassified.

SYSTEM LOCATION(S):

Headquarters: U.S. Department of Energy, Office of Hearings and Appeals, 1000 Independence Avenue, SW., Washington, DC 20585-1615.

CATEGORIES OF INDIVIDUALS COVERED BY THE SYSTEM:

Current and former employees of DOE including National Nuclear Security Administration (NNSA) employees, contractors and subcontractors whose complaints are received at the Office of Hearings and Appeals pursuant to Title 10, Code of Federal Regulations, Part 708, and pursuant to Section 3164 of the National Defense Authorization Act for FY 2000, Public Law 106-65, codified at 42 U.S.C. 7239.

CATEGORIES OF RECORDS IN THE SYSTEM:

Whistleblower reprisal complaints; names, social security numbers, case numbers, work and home addresses and telephone numbers, job titles, series, grade or pay levels; organization information; supervisors' names and telephone numbers; copies of employee records such as personnel actions, performance appraisals, pay and leave records, and security clearance documents; management reports; witness statements; affidavits; checklists; notes; reports of investigation; and relevant correspondence.

AUTHORITY FOR MAINTENANCE OF THE SYSTEM:

42 U.S.C. 7101 et seq.; 50 U.S.C. 2401 et seq.; 42 U.S.C. 2201(b), (c), (I), (p), 5814, 5815, 7251, 7254, 7255, 7257; 42 U.S.C. 7239.

PURPOSE(S):

For those records described in Categories of Records in the System, such records are maintained and used by the DOE to document and resolve complaints made by employees of DOE and its contractors and subcontractors who allege retaliation by their employer for disclosure of information concerning danger to public or worker health or safety, substantial violations of law, or gross mismanagement; for participation in Congressional proceedings; or for refusal to participate in dangerous activities.

ROUTINE USES OF RECORDS MAINTAINED IN THE SYSTEM, INCLUDING CATEGORIES OF USERS AND PURPOSES OF SUCH USES:

1. A record from this system may be disclosed to any source from which additional information is requested when necessary to obtain information relevant to the processing of a whistleblower complaint by the Office of Hearings and Appeals. The source will be provided such information from the system of records only to the extent necessary to identify the individual, inform the source of the purpose(s) of the request, and to identify the type of information requested.

2. A record from this system may be disclosed as a routine use to the appropriate local, State or Federal agency in the event that a record within this system of records, alone or in conjunction with other information, indicates a violation or potential violation of law whether civil, criminal, or regulatory in nature, and whether or arising by general statute or particular program pursuant thereto.

3. A record from this system may be disclosed as a routine use for the purpose of an investigation, settlement of claims, or the preparation and conduct of litigation to (1) persons representing the Department or assisting in such representation; (2) others involved in the matter, their representatives and assistants; and (3) any other person possessing information pertaining to the matter, when it is necessary to obtain information or testimony relevant to the matter.

4. A record from this system may be disclosed as a routine use in court or administrative proceedings to the tribunals, counsel, other parties, witnesses, and the public (in publicly available pleadings, filings, or discussion in open court) when such disclosure (1) is relevant to, and necessary for, the proceeding; (2) is compatible with the purpose for which the Department collected the record; and (3) the proceeding involves:

(a) The Department, its predecessor agencies, current or former contractor of the Department, or other United States Government agencies and their components, or

(b) A current or former employee of the Department and its predecessor agencies, current or former contractors of the Department, or United States Government agencies and their components, who is acting in an official capacity, or in any individual capacity where the Department or other United States Government agency has agreed to represent the employee.

5. A record from this system may be disclosed as a routine use to DOE contractors in performance of their contracts, and their officers and employees who have a need for the record in the performance of their duties. Those provided information under this routine use are subject to the same limitations applicable to DOE officers and employees under the Privacy Act.

6. A record from this system may be disclosed as a routine use to a member of Congress submitting a request involving a constituent when the constituent has requested assistance from the member with respect to the subject matter of the record. The member of Congress must provide a copy of the constituent's request for assistance.

7. Decisions, opinions, reports of investigation, orders and other determinations signed by investigators, hearing officers or the Director of the Office of Hearings and Appeals that are records contained in this system of records may be published for the general public, for precedential or educational purposes, in paper format and electronically on the Office of Hearings and Appeals' Web site, the current address of which is http://www.oha.doe.gov.

8. A record from this system may be disclosed as a routine use when (1) it is suspected or confirmed that the security or confidentiality of information in the system of records has been compromised; (2) the Department has determined that as a result of the suspected or confirmed compromise there is a risk of harm to economic or property interests, identity theft or fraud, or harm to the security integrity of this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by complainant's name or other personal identifier or case number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE records schedules that have been approved by NARA.

SYSTEM MANAGER(S) AND ADDRESS:

Director, Office of Hearings and Appeals, U.S. Department of Energy, 1000 Independence Avenue, SW., Washington, DC 20585-1615.

NOTIFICATION PROCEDURES:

In accordance with the DOE regulation implementing the Privacy Act, at Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The complainant; individuals and organizations that have pertinent knowledge about the subject of the complaint; those authorized by the complainant to furnish information; confidential informants; and Congressional offices.

SYSTEM EXEMPTED FROM CERTAIN PROVISIONS OF THE ACT:

The system is exempt under subsections 552a(k)(1), (2) and (5) of the Privacy Act to the extent that information within the system meets the criteria of those subsections of the Act. Such information has been exempted from the provisions of subsections (c)(3); 5 U.S.C. 552a(d); 5 U.S.C. 552a(d) and (e)(1) of the Act; see the DOE Privacy Act regulation at Title 10, Code Federal Regulations, Part 1008.

DOE-8

SYSTEM NAME:

Intergovernmental Personnel Act (IPA) Agreements.

SECURITY CLASSIFICATION:

Unclassified.

SYSTEM LOCATION(S):

U.S. Department of Energy, Headquarters, Forrestal Building, 1000 Independence Avenue, SW., Washington, DC 20585.

U.S. Department of Energy, Headquarters, Germantown, 19901 Germantown Road, Germantown, MD 20585.

U.S. Department of Energy, Alaska Power Administration, Federal Records Center, San Point Way, NE, Seattle, WA 98115.

U.S. Department of Energy, NNSA Service Center Albuquerque, P.O. Box 5400, Albuquerque, NM 87185-5400.

U.S. Department of Energy, NNSA Naval Reactors Field Office, Schenectady Naval Reactors, P.O. Box 1069, Schenectady, NY 12301.

U.S. Department of Energy, Bonneville Power Administration, P.O. Box 3621, Portland, OR 97208.

U.S. Department of Energy, Office of Science, Chicago Office, 9800 South Cass Avenue, Argonne, IL 60439.

U.S. Department of Energy, Environmental Management Consolidated Business Center (EMCBC), 250 E. Fifth Street, Suite 500, Cincinnati, OH 45202.

U.S. Department of Energy, Golden Field Office, 1617 Cole Boulevard, Golden, CO 80401.

U.S. Department of Energy, Idaho Operations Office, 1955 Fremont Avenue, Idaho Falls, ID 83415.

U.S. Department of Energy, National Energy Technology Laboratory (Pittsburgh), P.O. Box 10940, 626 Cochrans Mill Road, Pittsburgh, PA 15236.

U.S. Department of Energy, National Energy Technology Laboratory (Morgantown), P.O. Box 880, Morgantown, WV 26507-0880.

U.S. Department of Energy, Office of Naval Reactors, Crystal City, VA 22202.

U.S. Department of Energy, Office of Science, Oak Ridge Office, P.O. Box 2001, Oak Ridge, TN 37831.

U.S. Department of Energy, Richland Operations Office, P.O. Box 550, Richland, WA 99352.

U.S. Department of Energy, Savannah River Operations Office, P.O. Box A, Aiken, SC 29801.

U.S. Department of Energy, Southeastern Power Administration, 1166 Athens Tech Road, Elberton, GA 30635-6711.

U.S. Department of Energy, Southwestern Power Administration, Williams Tower One, One West Third Street, Tulsa, OK 74103.

U.S. Department of Energy, Strategic Petroleum Reserve Project Management Office, 900 Commerce Road East, New Orleans, LA 70123.

U.S. Department of Energy, Western Area Power Administration, P.O. Box 281213, Lakewood, CO 80228-8213.

CATEGORIES OF INDIVIDUALS COVERED BY THE SYSTEM:

Individuals who are now, or have been, under an IPA agreement to or from the DOE including the National Nuclear Security Administration (NNSA).

CATEGORIES OF RECORDS IN THE SYSTEM:

Name, home and work addresses, social security number, home and work telephone numbers, salary, and related correspondence.

AUTHORITY FOR MAINTENANCE OF THE SYSTEM:

42 U.S.C. 7101 et seq.; 50 U.S.C. 2401 et seq.; 5 U.S.C. Chapter 33, Subchapter VI, and 5 CFR Part 334.

PURPOSE(S):

For those records described in Categories of Records in the System, such records are maintained and used by DOE to provide a basis for payments under the terms of the IPA agreements, provide employment histories, and provide information for reports and program evaluations.

ROUTINE USES OF RECORDS MAINTAINED IN THE SYSTEM, INCLUDING CATEGORIES OF USERS AND THE PURPOSES OF SUCH USES:

1. A record from this system may be disclosed to State and local governments, institutions of higher education, Federally Funded Research and Development Centers, or other “eligible” organizations for the purpose of assigning prospective individuals for temporary periods.

2. A record from the system may be disclosed as a routine use to DOE contractors in performance of their contracts, and their officers and employees who have a need for the record in the performance of their duties. Those provided information under this routine use are subject to the same limitations applicable to Department officers and employees under the Privacy Act.

3. A record from this system may be disclosed as a routine use to a member of Congress submitting a request involving a constituent when the constituent has requested assistance from the member of Congress with respect to the subject matter of the record. The member of Congress must provide a copy of the constituent's request for assistance.

4. A record from this system may be disclosed as a routine use when (1) it is suspected or confirmed that the security or confidentiality of information in the system of records has been compromised; (2) the Department has determined that as a result of the suspected or confirmed compromise there is a risk of harm to economic or property interests, identity theft or fraud, or harm to the security integrity of this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING AND DISPOSING OF RECORDS IN THE SYSTEM:

STORAGE:

Records may be stored as electronic media and paper records.

RETRIEVABILITY:

Records are retrieved by name or social security number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director of Human Capital Management, U.S. Department of Energy, 1000 Independence Avenue, SW., Washington, DC 20585.

Field Offices: The Human Capital Directors at the field locations listed above under “Systems Locations” are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual and current or prospective employer.

SYSTEMS EXEMPTED FROM CERTAIN PROVISIONS OF THE ACT:

None.

DOE-9

SYSTEM NAME:

Members of DOE Advisory Committees.

SECURITY CLASSIFICATION:

Unclassified.

SYSTEM LOCATION(S):

U.S. Department of Energy, Office of the Executive Secretariat, 1000 Independence Avenue, SW., Washington, DC 20585.

CATEGORIES OF INDIVIDUALS COVERED BY THE SYSTEM:

All individuals who are members of DOE including the National Nuclear Security Administration (NNSA) Advisory Committee.

CATEGORIES OF RECORDS IN THE SYSTEM:

Name, biographical information, home address and telephone number, work address and telephone number, type of business or organizational affiliation, present position with business or other organization, number of years in present position, other related experience, congressional district, and photographs.

AUTHORITY FOR MAINTENANCE OF THE SYSTEM:

42 U.S.C. 7101 et seq.; 50 U.S.C. 2401 et seq.; and the Federal Advisory Committee Act, 5 U.S.C. App. 2.

PURPOSE(S):

For those records described in Categories of Records in the System, such records are maintained and used by the DOE to keep a current listing of advisory committee members.

ROUTINE USES OF RECORDS MAINTAINED IN THE SYSTEM, INCLUDING CATEGORIES OF USERS AND THE PURPOSES OF SUCH USES:

1. A record from this system may be disclosed as a routine use to a member of Congress submitting a request involving the constituent when the constituent has requested assistance from the member concerning the subject matter of the record. The member of Congress must provide a copy of the constituent's request for assistance.

2. A record from the system may be disclosed as a routine use to DOE contractors in performance of their contracts, and their officers and employees who have a need for the record in the performance of their duties. Those provided information under this routine use are subject to the same limitations applicable to DOE officers and employees under the Privacy Act.

3. A record from this system may be disclosed as a routine use when (1) it is suspected or confirmed that the security or confidentiality of information in the system of records has been compromised; (2) the Department has determined that as a result of the suspected or confirmed compromise there is a risk of harm to economic or property interests, identity theft or fraud, or harm to the security integrity of this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of the Executive Secretariat, U.S. Department of Energy, 1000 Independence Avenue, SW., Washington, DC 20585.

NOTIFICATION PROCEDURES:

In accordance with the DOE regulation implementing the Privacy Act, Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual, members of Congress, and public interest groups.

SYSTEM EXEMPTED FROM CERTAIN PROVISIONS OF THE ACT:

None.

DOE-10

SYSTEM NAME:

Energy Employees Occupational Illness Compensation Program Act Files.

SECURITY CLASSIFICATION:

None.

SYSTEM LOCATION(S):

U.S. Department of Energy, 1000 Independence Avenue, SW., Washington, DC 20585.

U.S. Department of Energy, 19901 Germantown Road, Germantown, MD 20874-1290.

U.S. Department of Energy, Albany Research Center, 1450 Queen Avenue, SW., Albany, OR 97321.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Amarillo Site Operations, Highway 60, FM2373, Amarillo, TX 79177.

U.S. Department of Energy, Bettis Atomic Power Laboratory, Bechtel Bettis, Inc., 814 Pittsburgh McKeesport Blvd., West Mifflin, PA 15122-0079.

U.S. Department of Energy, Office of Energy, Efficiency and Renewable Energy, Boston Regional Office, John F. Kennedy, Federal Bldg., Room 675, Boston, MA 02203-0002.

U.S. Department of Energy, Bonneville Power Administration, P.O. Box 3621, Portland, OR 97208.

U.S. Department of Energy, Carlsbad Field Office, P.O. Box 3090, Carlsbad, NM 88221.

U.S. Department of Energy, Office of Science, Chicago Office, 9800 South Cass Avenue, Argonne, IL 60439.

U.S. Department of Energy, Office of Energy, Efficiency and Renewable Energy, Denver Regional Office, 1617 Cole Blvd., MS-1721, Golden, CO 80401.

U.S. Department of Energy, Fernald Environmental Management Project, 7400 Wiley Road, Cincinnati, OH 45030.

U.S. Department of Energy, General Atomics Site Office, 3550 General Atomic Court, B-7, Room 119, San Diego, CA 92121.

U.S. Department of Energy, Golden Field Office, 1617 Cole Blvd., Golden, CO 80401.

U.S. Department of Energy, Hanford Environmental Health Foundation, 3080 George Washington Way, Richland, WA 99352.

U.S. Department of Energy, Idaho Operations Office, 1955 Fremont Avenue, Idaho Falls, ID 83415.

U.S. Department of Energy, Idaho National Engineering and Environmental Laboratory, CF 690 MS 4149, Scoville, ID 83415.

U.S. Department of Energy, Kansas City Site Office, 2000 East 95th Street, Kansas City, MO 64141-3202.

U.S. Department of Energy, NNSA Sandia Site Office, Pennsylvania & H Street, Albuquerque, NM 87185-5400.

U.S. Department of Energy, Knolls Atomic Power Laboratory, 2401 River Road, Niskayuna, NY 12309.

U.S. Department of Energy, Lawrence Berkeley National Laboratory, 1 Cyclotron Road, Berkeley, CA 94720.

U.S. Department of Energy, University of California, Livermore Site Office, 7000 East Avenue, P.O. Box 808, L-1, Livermore, CA 94550.

U.S. Department of Energy, Livermore Site Office, Nevada Test Site, University of California, P.O. Box 45, Mercury, NV 89023.

U.S. Department of Energy, Lockheed Idaho Technical Center, 765 Lindsay Blvd., Idaho Falls, ID 84303.

U.S. Department of Energy, The Office of Site Operations, 528 35th Street, Los Alamos, NM 87545.

U.S. Department of Energy, NNSA Los Alamos National Laboratory, SM #30 Bikini Road, Los Alamos, NM 87545.

U.S. Department of Energy, Miamisburg Environmental Management Project, 1 Mound Road, Miamisburg, OH 45343-0066.

U.S. Department of Energy, National Energy Technology Laboratory (Pittsburgh), P.O. Box 10940, 626 Cochrans Mill Road, Pittsburgh, PA 15236.

U.S. Department of Energy, National Energy Technology Laboratory (Morgantown), P.O. Box 880, Morgantown, WV 26507-0880.

U.S. Department of Energy, National Renewable Energy Laboratory Area Office, 1617 Cole Blvd., Golden, CO 80401-3393.

U.S. Department of Energy, NNSA Nevada Site Office, P.O. Box 98518, Las Vegas, NV 89193-8518.

U.S. Department of Energy, Nevada Test Site Mercury, Nevada, Building 111, P.O. Box 677, Mercury, NV 89023-0677.

U.S. Department of Energy, Oak Ridge Institute for Science and Education, 230 Warehouse Road, Bldg. 1916T2, Oak Ridge, TN 37830.

U.S. Department of Energy, Office of Science, Oak Ridge Office, P.O. Box 2001, Oak Ridge, TN 37831.

U.S. Department of Energy, Environmental Management Consolidated Business Center (EMCBC), 250 E. Fifth Street, Suite 500, Cincinnati, OH 45202.

U.S. Department of Energy, Pacific Northwest National Laboratory, 902 Battelle Blvd., P.O. Box 999, Richland, WA 99352.

U.S. Department of Energy, Paducah Site Office, 5600 Hobbs Road, West Paducah, KY 42086.

U.S. Department of Energy, Philadelphia Regional Office, 1880 John F. Kennedy Blvd., Suite 501, Philadelphia, PA 19103-7483.

U.S. Department of Energy, Portsmouth/Paducah Project Office, 3930 U.S. 23, Perimeter Road, Piketon, OH 45661.

U.S. Department of Energy, Radiological & Environmental Health Laboratory, University of California, San Francisco, Box 0750, 3rd Avenue & Parnassos Avenue, San Francisco, CA 94143-0750.

U.S. Department of Energy, Richland Operations Office, P.O. Box 550, Richland, WA 99352.

U.S. Department of Energy, NNSA Sandia Site Office, 1515 Eubank Blvd., SE, Albuquerque, NM 87123.

U.S. Department of Energy, Savannah River Ecology Laboratory, Drawer E, Aiken, SC 29802.

U.S. Department of Energy, Savannah River Operations Office, P.O. Box A, Aiken, SC 29801.

U.S. Department of Energy, Seattle Regional Office, 800 Fifth Avenue, Suite 3950, Seattle, WA 98104.

U.S. Department of Energy, Stanford Linear Accelerator Center, 2575 Sand Hill Road, Menlo Park, CA 94025.

U.S. Department of Energy, Stanford Site Office, 2575 Sand Hill Road, B-41, MS: 8-A, Menlo Park, CA 94025.

U.S. Department of Energy, Stanford Synchrotron Radiology Laboratory, Stanford University, PO Box 4349, MS 69, Stanford, CA 94025.

U.S. Department of Energy, Thomas Jefferson National Accelerator Facility, 12000 Jefferson Avenue, Newport News, VA 23606.

U.S. Department of Energy, Waste Isolation Pilot Project Office, PO Box 3090, Carlsbad, NM 88221.

U.S. Department of Energy, West Valley Demonstration Project, 10282 Rock Springs Road, West Valley, NY 14171-9799.

CATEGORIES OF INDIVIDUALS COVERED BY THE SYSTEM:

This system of records covers individuals or their survivors who claim benefits under the Energy Employees Occupational Illness Compensation Program Act (EEOICPA). These individuals include, but are not limited to, federal employees or survivors of federal employees, employees or survivors of employees of the Department of Energy including the National Nuclear Security Administration (NNSA), its predecessor agencies, and their contractors and subcontractors.

CATEGORIES OF RECORDS IN THE SYSTEM:

This system of records is created by DOE in response to requests from the Department of Labor (DOL), the National Institute for Occupational Safety and Health (NIOSH), and claimants for information for the adjudication of claims. The records are compiled as part of DOE's responsibilities under the EEOICPA.

The system may contain, but is not limited to, the following kinds of records: claim forms filed by or on behalf of claimants or their survivors seeking benefits under the EEOICPA; employment records; exposure records; medical reports; personnel security questionnaires; safety records or other incident reports, including but not limited to area sampling data, accidental releases, explosions, spills, etc.; and correspondence from individuals, the DOL, and the NIOSH.

AUTHORITY FOR MAINTENANCE OF THE SYSTEM:

42 U.S.C. 7101 et seq.; 50 U.S.C. 2401 et seq.; The Energy Employees Occupational Illness Compensation Program Act of 2000, Public Law 106-398.

PURPOSE(S):

For those records described in Categories of Records in the System, such records are collected and maintained as needed by the Department to comply with the provisions of the EEOICPA. These provisions of the Act that govern DOE responsibilities with regard to providing information to NIOSH, and to the DOL include: § 734n(e), § 738o(f), § 7384q(d), § 7384w-1(b) and § 7385c-10(c) and (d).

ROUTINE USERS OF THE RECORDS MAINTAINED IN THE SYSTEM, INCLUDING CATEGORIES OF USERS AND PURPOSES OF SUCH USES:

1. A record from this system may be disclosed as a routine use to DOE contractors (past and present) in performance of their contracts, and their officers and employees who have a need for the record in the performance of their duties. Those provided information under this routine use are subject to the same limitations applicable to Department officers and employees under the Privacy Act.

2. A record from this system may be disclosed as a routine use to DOE financial assistance recipients in performance of their financial assistance agreements, and their officers and employees who have a need for the record in the performance of their duties. Those provided information under this routine use are subject to the same limitations applicable to Department officers and employees under the Privacy Act.

3. A record from this system may be disclosed as a routine use to other state and federal agencies or entities whose mission entails reviewing or managing workers' compensation claims or administering other benefits programs. Those provided information under this routine use are subject to the same limitations applicable to Department officers and employees under the Privacy Act.

4. A record from this system may be disclosed as a routine use to members of a physician's panel(s) established to review and provide a determination regarding whether the illness or death that is the subject of an application for compensation arose out of and in the course of employment by or for DOE. Those provided information under this routine use are subject to the same limitations applicable to Department officers and employees under the Privacy Act.

5. A record from this system may be disclosed as a routine use to medical specialists in fields that include occupational medicine, pulmonology, immunology, toxicology, dermatology, hematology/oncology, rheumatology, neurology, neurotoxicology, psychiatry, psychology, endocrinology, pathology, and any other specialty that the physicians panel member(s) deem necessary to reach a conclusion in a case. Those provided information under this routine use are subject to the same limitations applicable to Department officers and employees under the Privacy Act.

6. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

7. A record from this system may be disclosed as a routine use to the members and the staff of the DOE advisory committee established to provide advice on workers' compensation issues, and the members and the staff of an advisory board on Radiation and Worker Health required to be established under the Energy Employees Occupational Illness Compensation Program Act. All recipients of such records are required to comply with the Privacy Act, to follow prescribed measures to protect personal privacy, and to disclose or use personally identifiable information only for the purpose of providing advice relating to workers' compensation.

8. A record from this system may be disclosed as a routine use for the purpose of an investigation, settlement of claims, or the preparation and conduct of litigation to a (1) persons representing the Department in the investigation, settlement or litigation, and to individuals assisting in such representation; (2) others involved in the investigation, settlement, and litigation, and their representatives and individuals assisting those representatives; (3) witness, potential witness, or their representatives and assistants; and (4) any other person who possesses information pertaining to the matter, when it is necessary to obtain information or testimony relevant to the matter.

9. A record from this system may be disclosed as a routine use to the Department of Justice when DOE determines that an individual may be eligible for compensation under the Radiation Exposure and Compensation Act of 1990 (42 U.S.C. 2210, note, and as further clarified in 28 CFR Part 79), a compensation program administered by the Department of Justice.

10. A record from this system may be disclosed as a routine use to the appropriate local, State or Federal agency when the record alone or in conjunction with other information, indicates a violation or potential violation of law whether civil, criminal, or regulatory in nature.

11. A record from this system may be disclosed to Department of Health and Human Services, their contractors, grantees, and cooperative agreement holders, pursuant to the Energy Employees Occupational Illness Compensation Program Act of 2000, to estimate radiation doses and other workplace exposures received by Department of Energy and contractor employees. Those provided information under this routine use are subject to the same limitations applicable to Department officers and employees under the Privacy Act.

12. A record from this system may be disclosed as a routine use to a member of Congress submitting a request involving the constituent when the constituent has requested assistance from the member concerning the subject matter of the record. The member of Congress must provide a copy of the constituent's request for assistance.

13. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING AND DISPOSING OF RECORDS IN THE SYSTEM:

STORAGE:

Records may be stored as paper records, microfilm, and electronic media.

RETRIEVABILITY:

Records are retrieved by the name of the individual and/or social security number and/or at some locations by employee number.

SAFEGUARDS:

Paper records are maintained in locked cabinets and desks. Electronic records are controlled through established DOE computer center procedures (personnel screening and physical security), and they are password protected. Access is limited to those whose official duties require access to records.

RETENTION AND DISPOSAL:

Records retention and disposal authorities are contained in the National Archives and Records Administration (NARA) General Records Schedule and DOE record schedules that have been approved by NARA.

SYSTEM MANAGER(S) AND ADDRESS:

Headquarters: U.S. Department of Energy, Chief, Health, Safety and Security, Office of Health, Safety and Security, 1000 Independence Avenue, SW., Washington, DC 20585.

Field Offices: The managers of the Office of Health, Safety and Security of “Systems Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” having jurisdiction over the records for that site, as listed in the Correlation. The request should include the requester's complete name, time period for which records are sought, and the office location(s) where the requester believes the records are located.

RECORDS ACCESS PROCEDURES:

Same as Notification Procedures above. Records are generally kept at location where the work is performed. In accordance with the DOE Privacy Act regulation, proper identification is required before a request is processed.

CONTESTING RECORD PROCEDURES:

Same as Notification Procedures.

RECORD SOURCE CATEGORIES:

Records in this systems will be obtained from sources, including, but not limited to the individual who is the subject of the records; physicians and other medical professionals; medical institutions; state and federal workers' compensation offices; family members of the subject; attorneys representing the individual; individuals' employer, including DOE and its contractors and subcontractors; medical laboratories; other state and federal agencies.

SYSTEMS EXEMPTED FROM CERTAIN PROVISIONS OF THE PRIVACY ACT:

None.

DOE-11

SYSTEM NAME:

Emergency Operations Notification Call List.

SECURITY CLASSIFICATION:

Unclassified.

SYSTEM LOCATION(S):

U.S. Department of Energy, NNSA Service Center Albuquerque, P.O. Box 5400, Albuquerque, NM 87185-5400.

U.S. Department of Energy, Bonneville Power Administration, P.O. Box 3621, Portland, OR 97208.

U.S. Department of Energy, Office of Science, Chicago Office, 9800 South Cass Avenue, Argonne, IL 60439.

U.S. Department of Energy, Golden Field Office, 1617 Cole Boulevard, Golden, CO 80401.

U.S. Department of Energy, Headquarters, 1000 Independence Avenue, SW., Washington, DC 20585.

U.S. Department of Energy, Idaho Operations Office, 1955 Fremont Avenue, Idaho Falls, ID 83415.

U.S. Department of Energy, National Energy Technology Laboratory (Pittsburgh), P.O. Box 10940, 626 Cochrans Mill Road, Pittsburgh, PA 15236.

U.S. Department of Energy, National Energy Technology Laboratory (Morgantown), P.O. Box 880, Morgantown, WV 26507-0880.

U.S. Department of Energy, Office of Naval Reactors, Crystal City, VA 22202.

U.S. Department of Energy, NNSA Nevada Site Office, P.O. Box 98518, Las Vegas, NV 89193-8518.

U.S. Department of Energy, Office of Science, Oak Ridge Office, P.O. Box 2001, Oak Ridge, TN 37831.

U.S. Department of Energy, Environmental Management Consolidated Business Center (EMCBC), 250 E. Fifth Street, Suite 500, Cincinnati, OH 45202.

U.S. Department of Energy, Naval Reactors Field Office, Pittsburgh Naval Reactors, P.O. Box 109, Pittsburgh, PA 15122.

U.S. Department of Energy, Richland Operations Office, P.O. Box 550, Richland, WA 99352.

U.S. Department of Energy, Savannah River Operations Office, P.O. Box A, Aiken, SC 29801.

U.S. Department of Energy, Naval Reactors Field Office, Schenectady Naval Reactors Office, P.O. Box 1069, Schenectady, NY 12301.

U.S. Department of Energy, Southeastern Power Administration, 1166 Athens Tech Road, Elberton, GA 30635-6711.

U.S. Department of Energy, Southwestern Power Administration, Williams Tower One, One West Third Street, Tulsa, OK 74103.

U.S. Department of Energy, Strategic Petroleum Reserve Project Management Office, 900 Commerce Road East, New Orleans, LA 70123.

U.S. Department of Energy, Western Area Power Administration, P.O. Box 281213, Lakewood, CO 80228-8213.

U.S. Department of Energy, Office of Repository Development, P.O. Box 364629, North Las Vegas, NV 89036-8629.

CATEGORIES OF INDIVIDUALS COVERED BY THE SYSTEM:

Department of Energy and National Nuclear Security Administration senior officials, office directors, managers, key support staff, and DOE contractors involved in DOE emergency management and operations activities, Continuity of Government activities and Continuity of Operations activities.

CATEGORIES OF RECORDS IN THE SYSTEM:

Name, office telephone number, home telephone number, home address, pager numbers, cellular phone numbers, and electronic mail addresses.

AUTHORITY FOR MAINTENANCE OF THE SYSTEM:

Title 42, United States Code (U.S.C.), Section 7101 et seq.; 50 U.S.C. 2401 et seq.; The Homeland Security Act of 2002; and the Homeland Security Presidential Directive-5 (HSPD-5), “Management of Domestic Incidents.”

PURPOSE(S):

For those records described in Categories of Records in the System, such records are maintained and used by DOE to create a list that will enable 24 hour contact with DOE personnel and contractors in the event of an emergency in order to marshal a coordinated, unified response to catastrophic events that may impact DOE facilities or activities.

ROUTINE USES OF RECORDS MAINTAINED IN THE SYSTEM, INCLUDING CATEGORIES OF USERS AND THE PURPOSES OF SUCH USES:

1. A record from the system may be disclosed as a routine use to DOE contractors in performance of their contracts, and their officers and employees who have a need for the record in the performance of their duties. Those provided information under this routine use are subject to the same limitations applicable to DOE officers and employees under the Privacy Act.

2. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

3. A record of this system may be disclosed as a routine use for the purpose of an investigation, settlement of claims, or the preparation and conduct of litigation to (1) persons representing the Department in the investigation, settlement or litigation, and to individuals assisting in such representation; (2) others involved in the investigation, settlement and litigation, and their representatives and individuals assisting those representatives; (3) witness, potential witness, or their representatives and assistants; and (4) any other person who possesses information pertaining to the matter, when it is necessary to obtain information or testimony relevant to the matter.

POLICIES AND PRACTICES FOR STORING, RETRIEVING, ACCESSING, RETAINING, AND DISPOSING OF RECORDS IN THE SYSTEM:

STORAGE:

Records may be stored as paper records and electronic media.

RETRIEVABILITY:

Records are retrieved by name of the individual.

SAFEGUARDS:

Paper records are maintained in a secure area and locked cabinets and desks. Electronic records are controlled through established DOE computer center procedures (personnel screening and physical security). Passwords are protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters, Deputy Administrator for Defense Nuclear Nonproliferation in the National Nuclear Security Administration, U.S. Department of Energy, 1000 Independence Avenue, SW., Washington, DC 20585.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual.

SYSTEM EXEMPTED FROM CERTAIN PROVISIONS OF THE ACT:

None.

DOE-12

SYSTEM NAME:

Automated Materials and Property Systems (AMPS).

SECURITY CLASSIFICATION:

Unclassified.

SYSTEM LOCATION(S):

U.S. Department of Energy, Headquarters, 1000 Independence Avenue, SW., Washington, DC 20585.

U.S. Department of Energy, Germantown, 19901 Germantown Road, Germantown, MD 20784-1290.

CATEGORIES OF INDIVIDUALS COVERED BY THE SYSTEM:

Current DOE including National Nuclear Security Administration (NNSA) Headquarters employees who purchase supply products at the three Self Service Stores in the Washington, DC area and vicinity.

CATEGORIES OF RECORDS IN THE SYSTEM:

Name of DOE employee, badge number, organization, date of purchase, quantity, and price.

AUTHORITY FOR MAINTENANCE OF THE SYSTEM:

42 U.S.C. 7101 et seq.; 50 U.S.C. 2401 et seq.; 42 U.S.C. 7263, and 42 U.S.C. 5815G.

PURPOSE(S):

For those records described in Categories of Records in the System, such records are maintained and used by the Department for billing purposes under the Working Capital Fund (WFC). The WCF issues bills to Headquarters program offices for both stock and non stock supplies that were purchased for use by employees to perform their duties.

ROUTINE USES OF RECORDS MAINTAINED IN THE SYSTEM INCLUDING CATEGORIES OF USERS AND PURPOSES OF SUCH USES:

1. A record from this system of records may be disclosed as a routine use to DOE contractors in performance of their contracts, and their officers and employees who have a need for the record in the performance of their duties. Those provided information under this routine use are subject to the same limitations applicable to DOE officers and employees under the Privacy Act.

2. A record in this system of records may be disclosed as a routine use to a member of Congress submitting a request involving the constituent when the constituent has requested assistance from the member concerning the subject matter of the record. The member of Congress must provide a copy of the constituent's request for assistance.

3. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING AND DISPOSING OF RECORDS IN THE SYSTEM:

STORAGE:

Records may be stored as paper records and electronic media.

RETRIEVABILITY:

Records are retrieved by name and/or badge number of the DOE employee.

RETENTION AND DISPOSAL:

Records retention and disposal authorities are contained in the National Archives and Records Administration (NARA) General Records Schedule and DOE record schedules that have been approved by NARA.

SYSTEM MANAGER(S) ADDRESS:

Headquarters: Director, Assets Management and Support Services Group, U.S. Department of Energy, 1000 Independence Avenue, SW., Washington, DC 20585.

NOTIFICATION PROCEDURES:

In accordance with the DOE regulation implementing the Privacy Act, at Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notifications procedures above. Records are generally kept at locations where the work is performed. In accordance with the DOE Privacy Act regulation, proper identification is required before a request is processed.

CONTESTING RECORD PROCEDURES:

Same as Notification Procedures above.

RECORD SOURCE CATEGORIES:

Sources of information for the system include: supplies and their respective price lists that are purchased and placed into the supply system for sale; purchases made by DOE employees; and the information contained on the employee's badge.

SYSTEM EXEMPT FROM CERTAIN PROVISIONS OF THE ACT:

None.

DOE-13

SYSTEM NAME:

Payroll and Leave Records.

SECURITY CLASSIFICATION:

Unclassified.

SYSTEM LOCATION(S):

U.S. Department of Energy, Headquarters, 1000 Independence Avenue, SW., Washington, DC 20585.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Atlanta Regional Support Office, 730 Peachtree, NE, Suite 876, Atlanta, GA 30308.

U.S. Department of Energy, Bonneville Power Administration, P.O. Box 3621, Portland, OR 97208.

U.S. Department of Energy, Office of Energy Efficiency and Renewable Energy, Boston Regional Support Office, One Congress Street, Room 1101, Boston, MA 02203-0002.

U.S. Department of Energy, Carlsbad Field Office, P.O. Box 3090, Carlsbad, NM 88221.

U.S. Department of Energy, Office of Science, Chicago Office, 9800 South Cass Avenue, Argonne, IL 60439.

U.S. Department of Energy, Golden Field Office, 1617 Cole Boulevard, Golden, CO 80401.

U.S. Department of Energy, Idaho Operations Office, 1955 Fremont Avenue, Idaho Falls, ID 83415.

U.S. Department of Energy, National Energy Technology Laboratory (Pittsburgh), P.O. Box 10940, 626 Cochrans Mill Road, Pittsburgh, PA 15236.

U.S. Department of Energy, National Energy Technology Laboratory (Morgantown), P.O. Box 880, Morgantown, WV 26507-0880.

U.S. Department of Energy, Naval Petroleum and Oil Shale Reserves, 907 N. Poplar, Suite 150, Casper, WY 82601.

U.S. Department of Energy, Naval Petroleum Reserves in California, 1601 New Stine Road, Suite 240, Bakersfield, CA 93309.

U.S. Department of Energy, Office of Science, Oak Ridge Office, P.O. Box 2001, Oak Ridge, TN 37831.

U.S. Department of Energy, Office of Scientific & Technical Information, P.O. Box 62, Oak Ridge, TN 37831.

U.S. Department of Energy, Environmental Management Consolidated Business Center (EMCBC), 250 E. Fifth Street, Suite 500, Cincinnati, OH 45202.

U.S. Department of Energy, Philadelphia Regional Support Office, 1880 John F. Kennedy Boulevard, Suite 501, Philadelphia, PA 19103-7483.

U.S. Department of Energy, Pittsburgh Naval Reactors Office, P.O. Box 109, West Mifflin, PA 15122-0109.

U.S. Department of Energy, Richland Operations Office, P.O. Box 550, Richland, WA 99352.

U.S. Department of Energy, Savannah River Operations Office, P.O. Box A, Aiken, SC 29801.

U.S. Department of Energy, Seattle Regional Support Office, 800 Fifth Avenue, Suite 3950, Seattle, WA 98104.

U.S. Department of Energy, Schenectady Naval Reactors Office, P.O. Box 1069, Schenectady, NY 12301.

U.S. Department of Energy, Southeastern Power Administration, 1166 Athens Tech Road, Elberton, GA 30635-6711.

U.S. Department of Energy, Southwestern Power Administration, Williams Tower One, One West Third Street, Tulsa, OK 74103.

U.S. Department of Energy, Strategic Petroleum Reserve Project Management Office, 900 Commerce Road East, New Orleans, LA 70123.

U.S. Department of Energy, Western Area Power Administration, P.O. Box 281213, Lakewood, CO 80228-8213.

CATEGORIES OF INDIVIDUALS COVERED BY THE SYSTEM:

DOE including National Nuclear Security Administration (NNSA) personnel and consultants.

CATEGORIES OF RECORDS IN THE SYSTEM:

Time and attendance records, earning records, payroll actions, deduction information requests, authorizations for overtime and night differential, and Office of Personnel Management (OPM) retirement records.

AUTHORITY FOR MAINTENANCE OF THE SYSTEM:

42 U.S.C. 7101 et seq.; 50 U.S.C. 2401 et seq.; Privacy Act of 1974, Public Law 93-579 (5 U.S.C. 552a); General Accounting Office Policy and Procedures Manual; Personal Responsibility and Work Opportunity Reconciliation Act, Public Law 104-193.

PURPOSE(S):

For those records described in Categories of Records in the System, such records are maintained and used by the DOE to document historical information on employee wages, deductions, retirement benefits, and leave.

ROUTINE USES OF RECORDS MAINTAINED IN THE SYSTEM, INCLUDING CATEGORIES OF USERS AND THE PURPOSES OF SUCH USES:

1. A record from this system may be disclosed as a routine use to the Department of Treasury to collect withheld taxes, process payroll payments, and issue savings bonds.

2. A record from this system may be disclosed as a routine use to the Internal Revenue Service to process Federal income tax payments and tax levies.

3. A record from this system may be disclosed as a routine use to state and local governments to process state and local income tax deductions and court ordered child support or alimony payments.

4. A record from this system may be disclosed as a routine use to OPM to establish and maintain retirement records and benefits.

5. A record from this system may be disclosed as a routine use to the Thrift Savings Board to update Section 401K type records and benefits.

6. A record from this system may be disclosed as a routine use to the Social Security Administration to establish Social Security records and benefits.

7. A record from this system may be disclosed as a routine use to the Department of Labor to process workmen's compensation claims.

8. A record from this system may be disclosed as a routine use to the Department of Defense to adjust military retirement.

9. A record from this system may be disclosed as a routine use to financial institutions to credit net check deposits, savings allotments, and discretionary allotments.

10. A record from this system may be disclosed as a routine use to the employee unions to credit accounts for employees with union dues deductions.

11. A record from this system may be disclosed as a routine use to health insurance carriers to process insurance claims.

12. A record from this system may be disclosed as a routine use to the General Accounting Office to verify accuracy and legality of disbursement.

13. A record from this system may be disclosed as a routine use to the Department of Veterans Affairs to evaluate veteran's benefits to which the individual may be entitled.

14. A record from this system may be disclosed as a routine use to States' departments of employment security to determine entitlement to unemployment compensation or other State benefits.

15. A record from the system may be disclosed as a routine use to the appropriate local, State or Federal agency when records alone or in conjunction with other information, indicates a violation or potential violation of law whether civil, criminal, or regulatory in nature, and whether arising by general statute or particular program pursuant thereto.

16. A record from the system may be disclosed as a routine use to a federal, state, or local agency to obtain information relevant to a Departmental decision concerning the hiring or retention of an employee, the issuance of a security clearance, the letting of a contract, or the issuance of a license, grant, or other benefit. The Department must deem such disclosure to be compatible with the purpose for which the Department collected the information.

17. A record from the system may be disclosed as a routine use to DOE contractors in performance of their contracts, and their officers and employees who have a need for the record in the performance of their duties. Those provided information under this routine use are subject to the same limitations applicable to DOE officers and employees under the Privacy Act.

18. A record from this system of records may be disclosed as a routine use to a member of Congress submitting a request involving the constituent when the constituent has requested assistance from the member concerning the subject matter of the record. The member of Congress must provide a copy of the constituent's request for assistance.

19. A record from this system may be disclosed as a routine use to the Office of Child Support Enforcement, Administration for Children and Families, Department of Health and Human Services, Federal Parent Locator System (FPLS) and Federal Tax Offset System to locate individuals and identify their income sources to establish paternity, establish and modify orders of support, and for enforcement action.

20. A record from this system may be disclosed as a routine use to the Office of Child Support Enforcement, Administration for Children and Families, Department of Health and Human Services, FPLS and Federal Tax Offset System, for release to the Social Security Administration to verify social security numbers in connection with the operation of the FPLS by the Office of Child Support Enforcement.

21. A record from this system may be disclosed as a routine use to the Office of Child Support Enforcement, Administration for Children and Families, Department of Health and Human Services, FPLS and Federal Tax Offset System, for release to the Department of Treasury to administer the Earned Income Tax Credit Program (Section 32, Internal Revenue Code of 1986) and verify a claim with respect to employment in a tax return.

22. A record from this system may be disclosed as a routine use to the Defense Finance and Accounting Service (DFAS) so that DFAS may perform payroll processing services for DOE. These services may include the issuance of salary payments to employees and distribution of wages; and the distribution of allotments and deductions to financial and other institutions, many of which are through electronic funds transfer.

23. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name, social security number, and/or payroll number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Financial Accounting, U.S. Department of Energy, 1000 Independence Avenue, SW., Washington, DC 20585.

Field Offices: The Directors, Office of Financial Accounting of the DOE offices of the “System Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual, supervisors, timekeepers, official personnel records, and the Internal Revenue Service.

SYSTEM EXEMPT FROM CERTAIN PROVISIONS OF THE ACT:

None.

DOE-14

SYSTEM NAME:

Report of Compensation.

SECURITY CLASSIFICATION:

Unclassified.

SYSTEM LOCATION(S):

U.S. Department of Energy, Headquarters, 1000 Independence Avenue, SW., Washington, DC 20585.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Office of Science, Chicago Office, 9800 South Cass Avenue, Argonne, IL 60439.

U.S. Department of Energy, Golden Field Office, 1617 Cole Boulevard, Golden, CO 80401.

U.S. Department of Energy, Idaho Operations Office, 1955 Fremont Avenue, Idaho Falls, ID 83415.

U.S. Department of Energy, National Energy Technology Laboratory (Pittsburgh), P.O. Box 10940, 626 Cochrans Mill Road, Pittsburgh, PA 15236.

U.S. Department of Energy, Naval Petroleum Reserves in California, P.O. Box 11, Tupman, CA 93276.

U.S. Department of Energy, Naval Petroleum and Oil Shale Reserves, 907 North Poplar, Suite 150, Casper, WY 82601.

U.S. Department of Energy, Office of Science, Oak Ridge Office, P.O. Box 2001, Oak Ridge, TN 37831.

U.S. Department of Energy, Richland Operations Office, P.O. Box 550, Richland, WA 99352.

U.S. Department of Energy, Savannah River Operations Office, P.O. Box A, Aiken, SC 29801.

U.S. Department of Energy, Strategic Petroleum Reserve Project Management Office, 900 Commerce Road East, New Orleans, LA 70123.

CATEGORIES OF INDIVIDUALS COVERED BY THE SYSTEM:

Contractor employees of DOE, including National Nuclear Security Administration (NNSA) contractor employees, performing and operating onsite service work in the DOE-owned or controlled facilities, including long-term architect-engineering and cost-reimbursement construction contractor employees.

CATEGORIES OF RECORDS IN THE SYSTEM:

Name, job title, contractor, current salary meeting the threshold level for reporting as specified in the respective contract, amount reimbursed, and other compensation (actual and amount reimbursed).

AUTHORITY FOR MAINTENANCE OF THE SYSTEM:

42 U.S.C. 7101 et seq. and 50 U.S.C. 2401 et seq.

PURPOSE(S):

For those records described in Categories of Records in the System, such records are maintained and used by the DOE to aid Managers of Field Offices, Program Secretarial Officers and Headquarters Program Managers in determining the reasonableness of compensation paid to top level contractor employees and to monitor the growth of contractor compensation at all levels.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to (1) persons representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to DOE contractors in performance of their contracts, and their officers and employees who have a need for the record in the performance of their duties. Those provided information under this routine use are subject to the same limitations applicable to DOE officers and employees under the Privacy Act.

4. A record from this system may be disclosed as a routine use to a member of Congress submitting a request involving the constituent when the constituent has requested assistance from the member concerning the subject matter of the record. The member of Congress must provide a copy of the constituent's request for assistance.

5. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as magnetic tape and paper records.

RETRIEVABILITY:

Records are retrieved by name.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Contractor and Resource Management, U.S. Department of Energy, 1000 Independence Avenue, SW., Washington, DC 20585.

Field Offices: Field Directors, Office of Contractor and Resource Management, of the “System Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Contractor salary administrative personnel.

SYSTEMS EXEMPTED FROM CERTAIN PROVISIONS OF THE ACT:

None.

DOE-15

SYSTEM NAME:

Intelligence-Related Access Authorization.

SECURITY CLASSIFICATION:

Classified and unclassified.

SYSTEM LOCATION(S):

U.S. Department of Energy, Office of Intelligence, 1000 Independence Avenue, SW., Washington, DC 20585.

U.S. Department of Energy, Livermore Site Office, 7000 East Avenue, B-261, Livermore, CA 94551.

U.S. Department of Energy, Idaho National Engineering & Environmental Laboratory Systems Analysis Facility, 2271 N. Boulevard, Idaho Falls, ID 83403.

U.S. Department of Energy, Idaho Operations Office, 1955 Freemont Avenue, Idaho Falls, ID 83415.

U.S. Department of Energy, NNSA Service Center (Albuquerque), P.O. Box 5400, Albuquerque, NM 87185-5400.

U.S. Department of Energy, Nevada Site Office, P.O. Box 98518, Las Vegas, NV 89193-8518.

U.S. Department of Energy, Office of Science, Oak Ridge Office, P.O. Box 2001, Oak Ridge, TN 37831.

U.S. Department of Energy, Pacific Northwest National Laboratory, Energy & Environmental Sciences Building (EESB), 3230 Q Avenue, Richland, WA 99352.

U.S. Department of Energy, NNSA Sandia Site Office, Center for National Security & Arms Control, Building 810W, Albuquerque, NM 87185.

U.S. Department of Energy, Remote Sensing Laboratory, EG&G/EM, 4600 N. Hollywood Blvd., Nellis AFB, Bldg 2211, Las Vegas, NV 89191-6403.

U.S. Department of Energy, NNSA Los Alamos National Laboratory, Nonproliferation & National Security, TA-3, Building SM-43, Los Alamos, NM 87544.

U.S. Department of Energy, Savannah River Operations Office, P.O. Box A, Aiken, SC 29801.

U.S. Department of Energy, Special Technologies Laboratory, 5520 Elkwill Street, Santa Barbara, CA 93111.

U.S. Department of Energy, Lockheed Martin Energy Systems, P.O. Box 2003, Blair Road Oak Ridge, TN 37831-7312.

CATEGORIES OF INDIVIDUALS COVERED BY THE SYSTEM:

Current and former DOE employees including National Nuclear Security Administration (NNSA) employees, and contractor employees; applicants for employment at DOE; individuals who may be assigned or detailed to Federal positions at DOE; consultants to DOE.

CATEGORIES OF RECORDS IN THE SYSTEM:

The following information may be maintained in the system:

Results of background investigations, law enforcement records, reports and files; reports on foreign contacts/travel; records, reports and files received from other DOE elements and other Federal agencies related to intelligence activities; polygraph examination records, reports and videotapes of the polygraph session; eligibility evaluation reports; and electronic mail stored on CD.

AUTHORITY FOR MAINTENANCE OF THE SYSTEM:

42 U.S.C. 7101 et seq.; 50 U.S.C., 2401 et seq.; The Atomic Energy Act of 1954, as amended; 42 U.S.C. 7239; Executive Order 12333, United States Intelligence Activities (December 4, 1981); Department of Energy Procedures for Intelligence Activities, approved by the Attorney General under Executive Order 12333 (October 19, 1992); Executive Order 12958, Classified National Security Information (April 17, 1995); Executive Order 12968, Access to Classified Information (August 2, 1995); Presidential Decision Directive-61, U.S. Department of Energy Counterintelligence Program, and DOE Order 5670.1A, Management and Control of Foreign Intelligence.

PURPOSE(S):

For those records described in Categories of Records in the System, such records are maintained and used by the DOE to conduct eligibility determinations, adjudications, revocations and appeals from denials and revocations. Under DOE Order 5670.1A the Director of Intelligence is directed to control access to and use of Sensitive Compartmented Information (SCI) and other classified Intelligence information bearing the Director, Central Intelligence (DCI) authorized control markings; and approve access to SCI in compliance with DCI directives.

ROUTINE USES OF RECORDS MAINTAINED IN THE SYSTEM, INCLUDING CATEGORIES OF USERS AND PURPOSES OF SUCH USES:

1. A record from the system may be disclosed as a routine use to the appropriate local, state or federal agency when records alone or in conjunction with other information, indicates a violation or potential violation of law whether civil, criminal, or regulatory in nature, and whether arising by general statute or particular program pursuant thereto.

2. A record from the system may be disclosed as a routine use to a federal, state or local agency to obtain information relevant to a Departmental decision concerning the hiring or retention of an employee, the issuance of a security clearance, the letting of a contract, or the issuance of a license, grant, or other benefit. The Department must deem such disclosure to be compatible with the purpose for which the Department collected the information.

3. A record from this system may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from this system may be disclosed as a routine use for the purpose of an investigation, settlement of claims, or the preparation and conduct of litigation to (1) a person representing the Department in the investigation, settlement or litigation, and to individuals assisting in such representation; (2) others involved in the investigation, settlement, and litigation, and their representatives and individuals assisting those representatives; and (3) a witness, potential witness, or their representatives and assistants, and any person possessing information pertaining to the matter when it is necessary to obtain information or testimony relevant to the matter, the reporting of an investigation of an employee, the letting of a contract, or the issuance of a license, grant, or other benefit, to the extent that the information is relevant and necessary to the requesting agency's decision on the matter.

5. A record from this system may be disclosed as a routine use in court or administrative proceedings to the tribunals, counsel, other parties, witnesses, and the public (in publicly available pleadings, filings or discussion in open court) when such disclosure: (1) Is relevant to and necessary for, the proceeding; (2) compatible with the purpose for which the Department collected the records; and (3) the proceedings involve:

(a) The Department, its predecessor agencies, current or former contractor of the Department, or other United States Government agencies and their components, or

(b) A current or former employee of the Department and its predecessor agencies, current or former contractors of the Department, or other United States Government agencies and their components, who is acting in an official capacity or in any individual capacity where the Department or other United States Government agency has agreed to represent the employee.

6. A record from this system may be disclosed as a routine use to foreign governments in accordance with treaties, international conventions, or executive agreements.

7. A record from the system may be disclosed as a routine use to DOE contractors in performance of their contracts, and their officers and employees who have a need for the record in the performance of their duties. Those provided information under this routine use are subject to the same limitations applicable to DOE officers and employees under the Privacy Act.

8. A record from the system of records may be disclosed to a member of Congress submitting a request involving the constituent when the constituent has requested assistance from the member concerning the subject matter of the record. The member of Congress must provide a copy of the constituent's request for assistance.

9. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM.

STORAGE:

Records may be stored as paper records, electronic media, and videotapes.

RETRIEVABILITY:

Records are retrieved by name and/or social security number.

SAFEGUARDS:

Paper records and videotapes are maintained in locked cabinets. Electronic records are controlled through established DOE computer center procedures (personnel screening and physical security), secured for classified information and are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Intelligence, U.S. Department of Energy, Forrestal Building, 1000 Independence Avenue, SW., Washington, DC 20585.

Field Offices: The Directors of Field Intelligence Elements of the “System Locations” listed above are the system managers for their respective portions of this system.

NOTIFICATION PROCEDURES:

In accordance with the DOE regulation implementing the Privacy Act, at Title 10, Code of Federal Regulations, Part 1008, a request by an individual to determine if a system of records contains information about him/her should be directed to the Director, Headquarters Freedom of Information Act and Privacy Act Group, U.S. Department of Energy. The request should include the requester's complete name, time period for which records are sought, and the office location(s) where the requester believes the records are located.

RECORDS ACCESS PROCEDURES:

Same as Notification Procedures above. Records are generally kept at locations where work is performed. In accordance with DOE's Privacy Act regulation, proper identification is required before a request is processed.

CONTESTING RECORD PROCEDURES:

Same as Notification Procedures above.

RECORD SOURCE CATEGORIES:

The subject individual, present and former DOE employees and DOE contractor employees; consultants; publicly available material; other agencies within the Intelligence Community; other agencies within the U.S. Government, other offices within the DOE; the FBI, and other Federal, State and local law enforcement agencies; and sources contacted during investigations.

SYSTEM EXEMPTED FROM CERTAIN PROVISIONS OF THE ACT:

This system is exempt pursuant to (k)(1), (2) and (5) of the Privacy Act, 5 U.S.C. 552a, to the extent that information within the system meets the requirements of those subsections of the Act. To the extent the information in this system of records is exempt pursuant to 5 U.S.C. 552a(k)(1), (2) and (5), the system has been further exempted from subsections (c)(3) and (4), (d), (e)(1), (e)(4)(G) and (H) and (f) of 5 U.S.C. 552a under the Privacy Act of 1974. See DOE's Privacy Act Regulation at 10 CFR Part 1008.12.

DOE-16

SYSTEM NAME:

Federal Employee Subsidy Program Records.

SECURITY CLASSIFICATION:

Unclassified.

SYSTEM LOCATION(S):

U.S. Department of Energy, Headquarters, 1000 Independence Avenue, SW., Washington, DC 20585.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Bonneville Power Administration, P.O. Box 3621, Portland, OR 97208.

U.S. Department of Energy, Office of Science, Chicago Office, 9800 South Cass Avenue, Argonne, IL 60439.

U.S. Department of Energy, Golden Field Office, 1617 Cole Boulevard, Golden, CO 80401.

U.S. Department of Energy, Idaho Operations Office, 1955 Fremont Avenue, Idaho Falls, ID 83415.

U.S. Department of Energy, National Energy Technology Laboratory (Pittsburgh), P.O. Box 10940, 626 Cochrans Mill Road, Pittsburgh, PA 15236.

U.S. Department of Energy, Office of Science, Oak Ridge Office, P.O. Box 2001, Oak Ridge, TN 37831.

U.S. Department of Energy, Environmental Management Consolidated Business Center (EMCBC), 250 E. Fifth Street, Suite 500, Cincinnati, OH 45202.

U.S. Department of Energy, Richland Operations Office, P.O. Box 550, Richland, WA 99352.

U.S. Department of Energy, Savannah River Operations Office, P.O. Box A, Aiken, SC 29801.

U.S. Department of Energy, Southeastern Power Administration, 1166 Athens Tech Road, Elberton GA 30635-6711.

U.S. Department of Energy, Southwestern Power Administration, Williams Tower One, One West Third Street, Tulsa, OK 74103.

U.S. Department of Energy, Strategic Petroleum Reserve Project Management Office, 900 Commerce Road East, New Orleans, LA 70123.

U.S. Department of Energy, Western Area Power Administration, P.O. Box 281213, Lakewood, CO 80228-8213.

CATEGORIES OF INDIVIDUALS COVERED BY THE SYSTEM:

Current and former DOE including National Nuclear Security Administration (NNSA) employees, who participate in the child care assistance program and the Transit Subsidy Program (Commuter Choice).

CATEGORIES OF RECORDS IN THE SYSTEM:

(1) Child Care Tuition Assistance-Program Application forms for child care tuition assistance containing personal information, including employee's (parent) name, social security number, grade, home and work telephone numbers, home address, salary and total family income, other child care subsidies, and each child's name and date of birth; earnings statements; income tax returns. (2) Transit Subsidy Program (Commuter Choice)—Application forms that contain personal information, including employee's name, social security number, home and work telephone numbers, home address, and method(s) and cost(s) of commuting; and records of vouchers or payments distributed.

AUTHORITY FOR MAINTENANCE OF THE SYSTEM:

Child Care Tuition Assistance Program—Public Law 106-58, section 643 and E.O. 9397; Transit Subsidy Program (Commuter Choice)—Transportation Equity Act of 1998, E.O. 13150, and 26 CFR Parts 1 and 602.

PURPOSE(S):

For those records described in Categories of Records in the System, such records are used by the Department to determine eligibility for a program, administer the program, make payments to child care providers or providers of transportation and/or parking services, and/or reimburse employees for transportation and/or parking expenses.

OF RECORDS MAINTAINED IN THE SYSTEM, INCLUDING CATEGORIES OF USERS AND THE PURPOSES OF SUCH USES:

1. A record from this system may be disclosed as a routine use to local and state officials and child care providers in determining eligibility for child care tuition assistance that is available through their programs.

2. A record from this system may be disclosed as a routine use to a panel of DOE employees to determine the amount of the child care subsidy with names and social security numbers deleted.

3. A record from this system may be disclosed as a routine use to other agency and/or public transportation officials when they assist in administering the Department's transit subsidy program.

4. A record from this system may be disclosed to union officials acting in their official capacity as a representative of the affected employee under 5 U.S.C. Chapter 71.

5. A record from this system may be disclosed to a member of Congress submitting a request involving a constituent when the constituent has requested assistance from the member concerning the subject of the record; the member must provide a copy of the constituent's request for assistance.

6. A record from this system may be disclosed as a routine use for the purpose to investigate, settle a claim, or prepare and conduct litigation to (a) a person representing the Department or assisting in such representation; (b) others involved in the matter, their representatives, and persons assisting such persons; and (c) witnesses, potential witnesses, their representatives and assistants, and any other persons possessing information pertaining to the matter when it is necessary to obtain information or testimony relevant to the matter.

7. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic data.

RETRIEVABILITY:

Records are retrieved by the name of the applicant or other personal identifier, such as a social security number.

SAFEGUARDS:

Paper records are maintained in locked cabinets and desks. Electronic records are controlled through established computer procedures within DOE and its representatives and they are password protected. Access is limited to those whose official duties require access to the records.

RETENTION AND DISPOSAL:

Records retention and disposal authorities are contained in the National Archives and Records Administration (NARA) General Records Schedule and DOE records schedules that have been approved by NARA.

SYSTEM MANAGER(S) AND ADDRESS(ES):

Headquarters: Director of Human Capital Management, U.S. Department of Energy, 1000 Independence Ave, SW., Washington, DC 20585.

Field Offices: The Human Capital Directors of the “System Locations” listed above are the system managers for their respective portions of this system.

NOTIFICATION PROCEDURES:

In accordance with the DOE regulation implementing the Privacy Act, Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester’s complete name, time period for which records are sought, and the office location(s) where the requester believes the records are located.

RECORD ACCESS PROCEDURES:

Same as Notification procedures above. Records generally are kept at locations where the work is performed. In accordance with the DOE Privacy Act regulation, proper identification is required before a request is processed.

CONTESTING RECORDS PROCEDURES:

Same as Notification procedures above.

RECORD SOURCE CATEGORIES:

The applicant, and applicable management officials, child care subsidy providers, transportation officials, and reports.

SYSTEM EXEMPTED FROM CERTAIN PROVISIONS OF THE ACT:

None.

DOE-17

SYSTEM NAME:

DOE Alert System.

SECURITY CLASSIFICATION:

Unclassified.

SYSTEM LOCATION(S):

U.S. Department of Energy, Headquarters, 1000 Independence Avenue, SW., Washington, DC 20585.

CATEGORIES OF INDIVIDUALS COVERED BY THE SYSTEM:

Current DOE employees and contractor employees including National Nuclear Security Administration (NNSA) employees, consultants, and board members.

CATEGORIES OF RECORDS IN THE SYSTEM:

The records include the name of the individual, work and home electronic mail addresses, work and home telephone numbers, and pager numbers.

AUTHORITY FOR MAINTENANCE OF THE SYSTEM:

42 U.S.C. 7101 et seq.; 50 U.S.C. 2401 et seq.

PURPOSE(S):

For those records described in Categories of Records in the System, such records are used by the Department to alert those employees who have requested and registered to be notified in the event of an emergency at DOE or its facilities.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to (1) persons representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to the appropriate local, state or federal agency when records alone or in conjunction with other information, indicates a violation or potential violation of law whether civil, criminal, or regulatory in nature, and whether arising by general statute or particular program pursuant thereto.

4. A record from this system of records may be disclosed to a member of Congress submitting a request involving the constituent when the constituent has requested assistance from the member with respect to the subject matter of the record. The member of Congress must provide a copy of the constituent's request for assistance.

5. A record from the system may be disclosed as a routine use to DOE contractors in performance of their contracts, and their officers and employees who have a need for the record in the performance of their duties. Those provided information under this routine use are subject to the same limitations applicable to Department officers and employees under the Privacy Act.

6. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by the name of the individual.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS(ES):

Headquarters: Director, Office of Safety and Health, Office of Management and Administration, U.S. Department of Energy, 1000 Independence Avenue, SW., Washington, DC 20585.

NOTIFICATION PROCEDURES:

In accordance with the DOE regulation implementing the Privacy Act, Title 10, Code of Federal Regulations, Part 1008, a request by an individual to determine if a system of records contains information about him/her should be directed to the U.S. Department of Energy, Headquarters, Privacy Act Officer. The request should include the requester’s complete name, time period for which records are sought, and the office location(s) where the requester believes the records are located.

RECORD ACCESS PROCEDURES:

Same as Notification procedures above. Records generally are kept at locations where the work is performed. In accordance with the DOE Privacy Act regulation, proper identification is required before a request is processed.

CONTESTING RECORDS PROCEDURES:

Same as Notification procedures above.

RECORD SOURCE CATEGORIES:

The individual to whom the record pertains provides all information maintained in the system.

SYSTEM EXEMPTED FROM CERTAIN PROVISIONS OF THE ACT:

None.

DOE-18

SYSTEM NAME:

Financial Accounting System.

SECURITY CLASSIFICATION:

Unclassified.

SYSTEM LOCATION(S):

U.S. Department of Energy, Headquarters, 19901 Germantown Road, Germantown, MD, 20874.

U.S. Department of Energy, Headquarters, 1000 Independence Avenue, SW., Washington, DC 20585.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Atlanta Regional Support Office, 730 Peachtree, NE., Suite 876, Atlanta, GA 30308.

U.S. Department of Energy, Bonneville Power Administration, P.O. Box 3621, Portland, OR 97208.

U.S. Department of Energy, Office Energy Efficiency and Renewable Energy, Boston Regional Support Office, One Congress Street, Room 1101, Boston, MA 021144-2021.

U.S. Department of Energy, Carlsbad Field Office, P.O. Box 3090, Carlsbad, NM 88221.

U.S. Department of Energy, Office of Science, Chicago Office, 9800 South Cass Avenue, Argonne, IL 60439.

U.S. Department of Energy, Environmental Management Consolidated Business Center (EMCBC), 250 E. Fifth Street, Suite 500, Cincinnati, OH 45202.

U.S. Department of Energy, Golden Field Office, 1617 Cole Boulevard, Golden, CO 80401.

U.S. Department of Energy, Idaho Operations Office, 1955 Fremont Avenue, Idaho Falls, ID 83415.

U.S. Department of Energy, National Energy Technology Laboratory (Pittsburgh), P.O. Box 10940, 626 Cochrans Mill Road, Pittsburgh, PA 15236.

U.S. Department of Energy, Naval Petroleum and Oil Shale Reserves, 907 N. Poplar, Suite 150, Casper, WY 82601.

U.S. Department of Energy, Naval Petroleum Reserves in California, 1601 New Stine Road, Suite 240, Bakersfield, CA 93309.

U.S. Department of Energy, NNSA Nevada Site Office, P.O. Box 98518, Las Vegas, NV 89193-8518.

U.S. Department of Energy, Office of Science, Oak Ridge Office, P.O. Box 2001, Oak Ridge, TN 37831.

U.S. Department of Energy, Office of Scientific & Technical Information, P.O. Box 62, Oak Ridge, TN 37831.

U.S. Department of Energy, Philadelphia Regional Support Office, 1880 John F. Kennedy Boulevard, Suite 501, Philadelphia, PA 19103-7483.

U.S. Department of Energy, Richland Operations Office, P.O. Box 550, Richland, WA 99352.

U.S. Department of Energy, Savannah River Operations Office, P.O. Box A, Aiken, SC 29801.

U.S. Department of Energy, Seattle Regional Support Office, 800 Fifth Avenue, Suite 3950, Seattle, WA 98104.

U.S. Department of Energy, Southeastern Power Administration, 1166 Athens Tech Road, Elberton, GA 30635-6711.

U.S. Department of Energy, Southwestern Power Administration, Williams Tower One, One West Third Street, Tulsa, OK 74103.

U.S. Department of Energy, Strategic Petroleum Reserve Project Management Office, 900 Commerce Road East, New Orleans, LA 70123.

U.S. Department of Energy, Western Area Power Administration, P.O. Box 281213, Lakewood, CO 80228-8213.

CATEGORIES OF INDIVIDUALS COVERED BY THE SYSTEM:

Employees, former employees, current and former contractor employees, vendors and others who are either due money from or owe money to DOE including the National Nuclear Security Administration (NNSA).

CATEGORIES OF RECORDS IN THE SYSTEM:

Name, address, telephone number, date of birth, employment date, gender, tax payer identification number; amount owed and services or goods received; amounts due; underpayments, overpayments and, or other accounting information; invoice number; servicing bank name and address; account number; amount and status of claim; history of claim, including collection actions taken.

AUTHORITY FOR MAINTENANCE OF THE SYSTEM:

42 U.S.C. 7101 et seq.; 50 U.S.C. 2401 et seq.; the GAO Policy and Procedures Manual; Statement of Federal Financial Accounting Standards published by the Government Accountability Office and the Office of Management and Budget; Debt Collection Improvement Act of 1996, 31 U.S.C. 3512; 5 U.S.C. 5701-09; Federal Property Management Regulations 101-107; Treasury Financial Manual; Executive Order 12009; and Executive Order 9397.

PURPOSE(S):

For those records described in Categories of Records in the System, such records are maintained and used by the DOE to substantiate obligations and payments to individuals for goods and services received by the agency and to record and manage the Department's accounts receivables.

ROUTINE USES OF RECORDS MAINTAINED IN THE SYSTEM, INCLUDING CATEGORIES OF USERS AND THE PURPOSES OF SUCH USES:

1. A record from this system may be disclosed as a routine use to the appropriate local, state or Federal agency when that record alone or in conjunction with other information, indicates a violation or potential violation of law, whether civil, criminal, or regulatory in nature, and whether arising by general statute or particular program thereto.

2. A record from this system may be disclosed as a routine use to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

3. A record from the system may be disclosed as a routine use for the purpose of an investigation, settlement of claims, or the preparation and conduct of litigation to (1) a person representing the Department in the investigation, settlement or litigation, and to individuals assisting in such representation; (2) others involved in the investigation, settlement, and litigation, and their representatives and individuals assisting those representatives; and (3) witness, potential witness, or their representatives and assistants, and any other person who possesses information pertaining to the matter, when it is necessary to obtain information or testimony relevant to the matter.

4. A record from this system may be disclosed as a routine use to other federal agencies, consumer reporting agencies for acquiring credit information, and collection agencies to aid in the collection of outstanding debts owed to the Federal Government.

5. A record from this system may be disclosed as a routine use to Defense Manpower Data Center, Department of Defense, the United States Postal Service, and other federal, state, or local agencies to identify and locate, through computer matching, individuals indebted to DOE who are receiving federal salaries or benefit payments. Information from the match will be used to collect the debts by voluntary repayment, by administrative offset, or by salary offset procedures.

6. A record from the system may be disclosed as a routine use to the Internal Revenue Service (1) to collect the debt by offset against the debtor's tax refunds under the Federal Tax Refund Offset Program, and (2) to obtain the mailing address of a taxpayer to collect a debt owed to the DOE. Subsequent disclosure by DOE to a consumer reporting agency is limited to the purpose of obtaining a commercial credit report on the particular taxpayer. The mailing address information will not be used for any other DOE purpose or disclosed by DOE to another federal, state, or local agency which seeks to locate the same individual for its own debt collection purpose.

7. A record from the system may be disclosed as a routine use to the Department of Treasury for the purpose of administrative offset and debt recovery under section 31001 (m)(1) of the Debt Collection Improvement Act of 1996 (Pub. L. 104-134).

8. A record of this system may be disclosed as a routine use to the Department of Treasury for the purpose of paying creditors for services or goods provided to the Department.

9. A record from this system may be disclosed as a routine use to a “consumer reporting agency” as defined by the Fair Credit Reporting Act, 15 U.S.C. 1681a(f), or the Federal Claims Collections Act of 1966, 31 U.S.C. 3701(a)(3), in accordance with 31 U.S.C. 3711(f).

10. A record from the system may be disclosed as a routine use to DOE contractors in performance of their contracts, and their officers and employees who have a need for the record in the performance of their duties. Those individuals provided information under this routine use are subject to the same limitations applicable to DOE officers and employees under the Privacy Act.

11. A record from this system of records may be disclosed as a routine use to a member of Congress submitting a request involving the constituent when the constituent has requested assistance from the member concerning the subject matter of the record. The member of Congress must provide a copy of the constituent's request for assistance.

12. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records, electronic media and magnetic tapes.

RETRIEVABILITY:

Records are retrieved by name, taxpayer identification number, voucher, invoice, or payment reports.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of the Chief Financial Officer, U.S. Department of Energy, 1000 Independence Avenue, SW., Washington, DC 20585.

Field Offices: The field Chief Financial Officers at the “System Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Subject individual, contracting officer, and accounting records.

SYSTEM EXEMPT FROM CERTAIN PROVISIONS OF THE ACT:

None.

DOE-21

SYSTEM NAME:

Asset Readiness Management System (ARMS).

SECURITY CLASSIFICATION:

Classified and Unclassified.

SYSTEM LOCATION(S):

Headquarters: U.S. Department of Energy, 1000 Independence Avenue, SW., Washington, DC 20585.

CATEGORIES OF INDIVIDUALS COVERED BY THE SYSTEM:

Federal employees including DOE and National Nuclear Security Administration (NNSA) employees, military personnel, and contractors.

CATEGORIES OF RECORDS IN THE SYSTEM:

The following information may be maintained in the system: Name, home address, home and work telephone numbers, e-mail address, social security number, employee number, date of hire, DOE badge number, security clearance number, date of birth, tourist passport number, official passport number, education level, blood type, immunization record, and other medical information.

AUTHORITY OF MAINTENANCE OF THE SYSTEM:

42 U.S.C. 7101 et seq.; 50 U.S.C. 2401 et seq.; Homeland Security Presidential Directive 5 (HSPD-5), “Management of Domestic Incidents,” The Homeland Security Act of 2002, Public Law 107-296, 116 Stat. 2135 (Nov. 25, 2002), Robert T. Stafford Disaster Relief and Emergency Assistance Act, Public Law 106-390, 114 Stat. 1552—1575 (October 30, 2000).

PURPOSE:

For those records described in Categories of Records in the System, such records are maintained and used by the Office of Emergency Response to quantify, monitor, and track readiness of and deploy personnel and equipment as part of a coordinated Federal government response to an emergency involving nuclear and/or radiological materials.

ROUTINE USES OF RECORDS MAINTAINED IN THE SYSTEM, INCLUDING CATEGORIES OF USERS AND THE PURPOSES OF SUCH USES:

1. A record from this system may be disclosed as a routine use to officials of the Federal Bureau of Investigation, Department of Defense, Nuclear Regulatory Commission, Environmental Protection Administration, National Aeronautics Space Administration, Department Homeland Security, and Department of State who have been approved as agents by NNSA Office of Emergency Response for purposes of managing and assessing state of readiness, to obtain visas for official foreign travel, and to provide information to gain access to incident areas controlled by one or more U.S. government agencies under the National Response Plan.

2. A record from this system may be disclosed as a routine use to a DOE contractor employee who has been approved as an agent by NNSA Office of Emergency Response in performance of the contract. Those provided information under this routine use are subject to the same limitations applicable to DOE officers and employees under the Privacy Act.

3. A record from this system may be disclosed to a member of Congress submitting a request involving a constituent when the constituent has requested assistance from the member concerning the subject of the record; the member must provide a copy of the constituent's request for assistance.

4. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING AND DISPOSING OF RECORDS IN THE SYSTEM:

STORAGE:

Records will be stored as electronic records in a computer database.

RETRIEVABILITY:

Records are retrieved by name, employee number, e-mail address, work telephone number, and/or home telephone number.

SAFEGUARDS:

Electronic records are controlled through established DOE computer center procedures (personnel screening and physical security), and they are password protected. Passwords are known only by the system administrator and users of the system. Access is limited to those whose official duties require access to the records.

RETENTION AND DISPOSAL:

Records retention and disposal authorities are contained in the National Archives and Records Administration (NARA) General Records Schedule and DOE record schedules that have been approved by NARA.

SYSTEM MANAGER(S) AND ADDRESS(ES):

Headquarters: U.S. Department of Energy, Director, Office of Emergency Response, National Nuclear Security Administration, 1000 Independence Avenue, SW., Washington, DC 20585.

NOTIFICATION PROCEDURES:

In accordance with the DOE regulation implementing the Privacy Act, at Title 10, Code of Federal Regulations, Part 1008, a request by an individual to determine if a system of records contains information about him/her should be directed to the U.S. Department of Energy, Headquarters, Privacy Act Officer. The request should include the requester's complete name and time period for which records are sought.

RECORD ACCESS PROCEDURES:

Same as Notification Procedures above. In accordance with the DOE Privacy Act regulation, proper identification is required before the request is processed.

CONTESTING RECORD PROCEDURES:

Same as Notification Procedures above.

RECORD SOURCE CATEGORIES:

The subject individual and site training records.

SYSTEM EXEMPTED FROM CERTAIN PROVISIONS OF THE PRIVACY ACT:

None.

DOE-23

SYSTEM NAME:

Property Accountability System.

SECURITY CLASSIFICATION:

Unclassified.

SYSTEM LOCATION(S):

U.S. Department of Energy, Headquarters, 1000 Independence Avenue, SW., Washington, DC 20585.

U.S. Department of Energy, Bonneville Power Administration, P.O. Box 3621, Portland, OR 97208.

U.S. Department of Energy, National Energy Technology Laboratory (Pittsburgh), P.O. Box 10940, 626 Cochrans Mill Road, Pittsburgh, PA 15236.

U.S. Department of Energy, Richland Operations Office, P.O. Box 550, Richland, WA 99352.

U.S. Department of Energy, Southeastern Area Power Administration, 2 S. Public Square, Elberton, GA 30635-2496.

U.S. Department of Energy, Southwestern Power Administration, Williams Tower One, One West Third Street, Tulsa, OK 74103.

U.S. Department of Energy, Western Area Power Administration, P.O. Box 281213, Lakewood, CO 80228-8213.

CATEGORIES OF INDIVIDUALS COVERED BY THE SYSTEM:

DOE including National Nuclear Security Administration (NNSA) employees, and contractor employees authorized to be custodians of controlled DOE equipment.

CATEGORIES OF RECORDS IN THE SYSTEM:

Item description, date of purchase, acquire date, purchase price, purchase order number, vendor and manufacturer, model/serial/license number, property tag identification, status/date, condition of property, operation number, high risk field, disposal code, responsible officer, the name and employee identification and position numbers of employees assigned equipment, account numbers, organization, organization code, and location.

AUTHORITY FOR MAINTENANCE OF THE SYSTEM:

42 U.S.C. 7101 et seq.; 50 U.S.C. 2401 et seq.; Federal Property and Administrative Services Act of 1949, Section 202(b), 40 U.S.C. 483(b); and 41 CFR 109, Federal Property Management Regulation (FPMR), Subchapter E, Part 109.

PURPOSE(S):

For those records described in Categories of Records in the System, such records are maintained and used by the DOE (a) to provide inventories to satisfy other Federal Procurement Management Regulation requirements; (b) to maintain a record of location of emergency equipment; (c) to control equipment assignments authorized under union contracts; (d) to provide management information necessary for the budgeting and allocation of equipment; and (e) to provide evidence of assignment, location, and value in the event that government property is stolen.

ROUTINE USES OF RECORDS MAINTAINED IN THE SYSTEM, INCLUDING CATEGORIES OF USERS AND THE PURPOSES OF SUCH USES:

1. A record from this system may be disclosed as a routine use to any law enforcement agency as needed to provide evidence of assignment, location, and value in the event that Government property is stolen.

2. A record from the system may be disclosed as a routine use to the appropriate local, state or federal agency when records alone or in conjunction with other information, indicates a violation or potential violation of law whether civil, criminal, or regulatory in nature, and whether arising by general statute or particular program pursuant thereto.

3. A record from this system may be disclosed as a routine use for the purpose of an investigation, settlement of claims, or the preparation and conduct of litigation to (1) persons representing the Department in the investigation, settlement or litigation, and to individuals assisting in such representation; (2) others involved in the investigation, settlement, and litigation, and their representatives and individuals assisting those representatives; and (3) witness, potential witness, or their representatives and assistants, and any other person who possess information pertaining to the matter when it is necessary to obtain information or testimony relevant to the matter.

4. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity or in any individual capacity where the Department or other United States Government agency has agreed to represent the employee.

5. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

6. A record from this system may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

7. A record from the system may be disclosed as a routine use to DOE contractors in performance of their contracts, and their officers and employees who have a need for the record in the performance of their duties. Those provided information under this routine use are subject to the same limitations applicable to DOE officers and employees under the Privacy Act.

8. A record from this system of records may be disclosed as a routine use to a member of Congress submitting a request involving the constituent when the constituent has requested assistance from the member concerning the subject matter of the record. The member of Congress must provide a copy of the constituent's request for assistance.

9. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING AND DISPOSING OF RECORDS IN THE SYSTEM:

STORAGE:

Records may be stored as paper records, microfilm, and electronic media.

RETRIEVABILITY:

Records are retrieved by tag number, license number, custodian name, employee identification number, position number, accounting information, catalog number, contract number, make, model, security logon identification, serial number, and/or storage location.

SAFEGUARDS:

Paper records and microfilm are maintained in secured areas and/or maintained in locked cabinets and desks. Electronic records are controlled through established DOE computer center procedures (personnel screening and physical security), and they are password protected. Passwords are protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Management, U.S. Department of Energy, 1000 Independence Avenue, SW., Washington, DC 20585.

Field Offices: The Managers of the “System Locations” listed above are the system managers for their respective portions of the system.

NOTIFICATION PROCEDURES:

In accordance with the DOE regulation implementing the Privacy Act, at Title 10, Code of Federal Regulations, Part 1008, a request by an individual to determine if a system of records contains information about him/her should be directed to the U.S. Department of Energy, Headquarters Privacy Act Officer, or the Privacy Act Officer at the appropriate address identified above under “System Locations.” The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Information in this system comes from the Payroll/Personnel system application, various internal forms, accountable property representative and employees, data processing personnel, and supply officers.

SYSTEM EXEMPTED FROM CERTAIN PROVISIONS OF THE ACT:

None.

DOE-24

SYSTEM NAME:

Land Records System.

SECURITY CLASSIFICATION:

Unclassified.

SYSTEM LOCATION(S):

U.S. Department of Energy, Bonneville Power Administration, P.O. Box 3621, Portland, OR 97208

U.S. Department of Energy, Southwestern Power Administration: One West Third Street, Tulsa, OK 74103

U.S. Department of Energy, Western Area Power Administration, P.O. Box 281213, Lakewood, CO 80228-8213

CATEGORIES OF INDIVIDUALS COVERED BY THE SYSTEM:

Individuals from whom or to whom Southwestern Power Administration, Western Area Power Administration and Bonneville Power Administration have acquired or given interests in land.

CATEGORIES OF RECORDS IN THE SYSTEM:

Individual, agency, and/or company names; description of land tract, type of agreement; rights granted or received; history of the transaction, and IRS Form 1099 information.

AUTHORITY FOR MAINTENANCE OF THE SYSTEM:

42 U.S.C. 7101 et seq. and 50 U.S.C. 2401 et seq.

PURPOSE(S):

For those records described in Categories of Records in the System, such records are maintained and used by the DOE to track and manage land rights information resulting from property right acquisitions, licenses, transfer, exchanges, permits, outgrants, encroachments and disposals in support of Southwestern Power Administration, Western Power Administration and Bonneville Power Administration construction and maintenance programs, right-of-way tracking for transmission line vegetation management, and line maintenance.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to (1) a person representing the Department or assisting in such representation; (2) others involved in the matter, their representatives and persons assisting such persons; and (3) witnesses, potential witnesses, their representatives and assistants, and any other persons possessing information pertaining to the matter when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractor of the Department, or other United States Government agencies and their components, or

(b) A current or former employee of the Department and its predecessor agencies, current or former contractors of the Department, or other United States Government agencies and their components, who is acting in an official capacity or in any individual capacity where the Department or other United States Government agency has agreed to represent the employee.

3. A record from the system may be disclosed as a routine use to DOE contractors in performance of their contracts, and their officers and employees who have a need for the record in the performance of their duties. Those provided information under this routine use are subject to the same limitations applicable to DOE officers and employees under the Privacy Act.

4. A record from the system may be disclosed as a routine use to the Internal Revenue Service to provide notification of individuals who have received payment exceeding $600 on any one land right transaction.

5. A record from the system may be disclosed as a routine use to the Department of Justice to provide support of land right condemnation actions.

6. A record from the system may be disclosed as a routine use to courts and attorneys for the purpose of land right settlement disputes or litigation.

7. A record from the system may be disclosed as a routine use to the appropriate local, state or federal agency when records alone or in conjunction with other information, indicates a violation or potential violation of law whether civil, criminal, or regulatory in nature, and whether arising by general statute or particular program pursuant thereto.

8. A record from this system may be disclosed to a member of Congress submitting a request involving a constituent when the constituent has requested assistance from the member concerning the subject of the record; the member must provide a copy of the constituent's request for assistance.

9. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records, microfilm, and electronic media.

RETRIEVABILITY:

Records are retrieved by line identification, personal identification, cross referenced by name of landowner, grantee, or grantor.

SAFEGUARDS:

Paper records and microfilm are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Field Offices: The Managers and Directors of the “System Locations” listed above are the system managers for their respective portions of this system.

NOTIFICATION PROCEDURES:

In accordance with the DOE regulation implementing the Privacy Act, at Title 10, Code of Federal Regulations, Part 1008, a request by an individual to determine if a system of records contains information about him/her should be directed to the Privacy Act Officer at the Power Administrations identified above under “System Locations.” The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Information in this system comes from individual landowners, grantees, or grantors; agency officials; and State and local authorities.

SYSTEM EXEMPTED FROM CERTAIN PROVISIONS OF THE ACT:

None

DOE-25

SYSTEM NAME:

U.S. Commuter Locator and Parking Space Information System.

SECURITY CLASSIFICATION:

Unclassified.

SYSTEM LOCATION(S):

Headquarters: U.S. Department of Energy, 1000 Independence Avenue, SW., Washington, DC 20585.

CATEGORIES OF INDIVIDUALS COVERED BY THE SYSTEM:

All DOE including National Nuclear Security Administration (NNSA) employees, and contractor employees who apply as members of a car pool or van pool for parking spaces managed and controlled by DOE under the general direction of the General Services Administration.

CATEGORIES OF RECORDS IN THE SYSTEM:

Name of driver and car or van pool members, Federal service computation date, payroll and other assigned number, office address and telephone number, home addresses, home telephone numbers, make and year of automobile, State of registration, tag number of vehicles, number of days per week in the car pool or van pool, and other car pooling or van pooling information.

AUTHORITY FOR MAINTENANCE OF THE SYSTEM:

42 U.S.C. 7101 et seq.; 50 U.S.C. 2401 et seq.; Executive Order 12778; DOE HQ 0344.1 Parking.

PURPOSE(S):

For those records described in Categories of Records in the System, such records are maintained and used by DOE to maintain information of existing car pools, van pools, and other categories of parking, in order to keep a current record on employees who commute to work.

ROUTINE USES OF RECORDS MAINTAINED IN THE SYSTEM, INCLUDING CATEGORIES OF USERS AND THE PURPOSES OF SUCH USES:

1. A record from this system may be disclosed as a routine use to the Council of Governments for commuter connections.

2. A record from this system may be disclosed as a routine use to individuals seeking to car pool or van pool operating from their community or residential area.

3. A record from the system may be disclosed as a routine use to DOE contractors in performance of their contracts, and their officers and employees who have a need for the record in the performance of their duties. Those provided information under this routine use are subject to the same limitations applicable to DOE officers and employees under the Privacy Act.

4. A record from the system may be disclosed as a routine use to the appropriate local, state or federal agency when records alone or in conjunction with other information, indicates a violation or potential violation of law whether civil, criminal, or regulatory in nature, and whether arising by general statute or particular program pursuant thereto.

5. A record from this system may be disclosed to a member of Congress submitting a request involving a constituent when the constituent has requested assistance from the member concerning the subject of the record; the member must provide a copy of the constituent's request for assistance.

6. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name, location of parking assignment, home address, assigned number, and/or license number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Building Operations, Office of Management, U.S. Department of Energy, 1000 Independence Avenue, SW., Washington, DC 20585.

NOTIFICATION PROCEDURES:

In accordance with the DOE regulation implementing the Privacy Act, at Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Individual car poolers and van poolers.

SYSTEM EXEMPTED FROM CERTAIN PROVISIONS OF THE ACT:

None.

DOE-26

SYSTEM NAME:

Official Travel Records.

SECURITY CLASSIFICATION:

Unclassified.

SYSTEM LOCATION(S):

U.S. Department of Energy, Headquarters, 1000 Independence Avenue, SW., Washington, DC 20585.

U.S. Department of Energy, Alaska Power Administration, Federal Records Center, San Point Way, NE, Seattle, WA 98115.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Bonneville Power Administration, P.O. Box 3621, Portland, OR 97208.

U.S. Department of Energy, Office of Science, Chicago Office, 9800 South Cass Avenue, Argonne, IL 60439.

U.S. Department of Energy, Environmental Management Consolidated Business Center (EMCBC), 250 E. Fifth Street, Suite 500, Cincinnati, OH 45202.

U.S. Department of Energy, Idaho Operations Office, 1955 Fremont Avenue, Idaho Falls, ID 83415.

U.S. Department of Energy, National Energy Technology Laboratory (Pittsburgh), P.O. Box 10940, 626 Cochrans Mill Road, Pittsburgh, PA 15236.

U.S. Department of Energy, Naval Petroleum and Oil Shale Reserves in Colorado, Utah, and Wyoming, 907 North Poplar, Suite 150, Casper, WY 82601.

U.S. Department of Energy, Naval Petroleum Reserves in California, 28950 Highway 119, P.O. Box 11, Tupman, CA 93276.

U.S. Department of Energy, NNSA Nevada Site Office, P.O. Box 98518, Las Vegas, NV 89193-8518.

U.S. Department of Energy, Office of Science, Oak Ridge Office, P.O. Box 2001, Oak Ridge, TN 37831.

U.S. Department of Energy, Richland Operations Office, P.O. Box 550, Richland, WA 99352.

U.S. Department of Energy, Savannah River Operations Office, P.O. Box A, Aiken, SC 29801.

U.S. Department of Energy, Southeastern Power Administration, 1166 Athens Tech Road, Elberton, GA 30635-6711.

U.S. Department of Energy, Southwestern Power Administration, Williams Tower One, One West Third Street, Tulsa, OK 74103.

U.S. Department of Energy, Strategic Petroleum Reserve Project Management Office, 900 Commerce Road East, New Orleans, LA 70123.

U.S. Department of Energy, Western Area Power Administration, P.O. Box 281213, Lakewood, CO 80228-8213.

CATEGORIES OF INDIVIDUALS COVERED BY THE SYSTEM:

Individuals who travel or relocate at the expense of DOE including the National Nuclear Security Administration (NNSA).

CATEGORIES OF RECORDS IN THE SYSTEM:

Name, address, telephone number, social security number, authorization number, travel itinerary, mode and purpose of travel, advance amount, expenses claimed, amounts reimbursed, charge card account numbers, residential sales records, and receipts.

AUTHORITY FOR MAINTENANCE OF THE SYSTEM:

42 U.S.C. 7101 et seq.; 50 U.S.C. 2401 et seq.; 5 U.S.C. 301; 5 U.S.C. Chapter 57; Policy and Procedures Manual for Guidance of Federal Agencies, Titles 3 and 4; Federal Travel Regulation; Federal Property Management Regulations 101-41; Department of Energy Order DOE 1500.2A, Travel Policy and Procedures.

PURPOSE(S):

For those records described in Categories of Records in the System, such records are maintained and used by DOE to document official domestic and foreign travel and relocation expenditures and to support reimbursement of allowable expenses.

ROUTINE USES OF RECORDS MAINTAINED IN THE SYSTEM, INCLUDING CATEGORIES OF USERS AND THE PURPOSES OF SUCH USES:

1. A record from this system may be disclosed as a routine use to the U.S. Treasury for payment of claim.

2. A record from this system may be disclosed as a routine use to the U.S. General Accounting Office for audit and verification of accuracy and legality of disbursements.

3. A record from this system may be disclosed as a routine use to the Internal Revenue Service for notification regarding taxable reimbursements.

4. A record from this system may be disclosed as a routine use to the General Services Administration for audit of transportation services.

5. A record from the system may be disclosed as a routine use to DOE contractors in performance of their contracts, and their officers and employees who have a need for the record in the performance of their duties. Those provided information under this routine use are subject to the same limitations applicable to DOE officers and employees under the Privacy Act.

6. A record from the system may be disclosed as a routine use to the appropriate local, state or federal agency when records alone or in conjunction with other information, indicate a violation or potential violation of law whether civil, criminal, or regulatory in nature, and whether arising by general statute or particular program pursuant thereto.

7. A record from this system may be disclosed to a member of Congress submitting a request involving a constituent when the constituent has requested assistance from the member concerning the subject of the record; the member must provide a copy of the constituent's request for assistance.

8. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name, social security number, and/or travel authorization number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Chief Financial Officer, U.S. Department of Energy, 1000 Independence Avenue, SW., Washington, DC 20585.

Field Offices: The field Chief Financial Officers of the “System Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above.

Records are generally kept at locations where the work is performed. In accordance with the DOE Privacy Act regulation, identification is required before a request is processed.

CONTESTING RECORD PROCEDURES:

Same as Notification Procedures above.

RECORD SOURCE CATEGORIES:

Individual travelers, supervisors, Government travel offices, and finance office standard references.

SYSTEM EXEMPTED FROM CERTAIN PROVISIONS OF THE ACT:

None.

DOE-27

SYSTEM NAME:

Foreign Travel Management System (FTMS).

SECURITY CLASSIFICATION:

Unclassified.

SYSTEM LOCATION(S):

U.S. Department of Energy, Germantown, 19901 Germantown Road, Germantown, MD 20874-1290.

CATEGORIES OF INDIVIDUALS COVERED BY THE SYSTEM:

DOE employees including National Nuclear Security Administration (NNSA) and contractor employees authorized to travel to foreign countries on official business.

CATEGORIES OF RECORDS IN THE SYSTEM:

Traveler's name and social security number, background data relating to proposed foreign travel; authorization number, travel itinerary; expenses; and summary report following completion of travel.

AUTHORITY FOR MAINTENANCE OF THE SYSTEM:

42 U.S.C. 7101 et seq.; 50 U.S.C. 2401 et seq.; 5 U.S.C. Chapter 3, Section 301; 5 U.S.C. Chapter 57; Federal Travel Regulation; Department of Energy Order 1500.2A, “Travel Policy and Procedures”; Department of Energy Order DOE 551.1A, “Official Foreign Travel”.

PURPOSE(S):

For those records described in Categories of Records in the System, such records are maintained and used by DOE to document all official foreign travel, by DOE employees and contractor employees, approvals and expenditures.

ROUTINE USES OF RECORDS MAINTAINED IN THE SYSTEM, INCLUDING CATEGORIES OF USERS AND THE PURPOSES OF SUCH USES:

1. A record from this system may be disclosed as a routine use to the General Services Administration for verification of transportation services.

2. A record from the system may be disclosed as a routine use to DOE contractors in performance of their contracts, and their officers and employees who have a need for the record in the performance of their duties. Those provided information under this routine use are subject to the same limitations applicable to DOE officers and employees under the Privacy Act.

3. A record from this system may be disclosed as a routine use to the Department of State for purpose of obtaining foreign country clearance for the traveler.

4. A record from the system may be disclosed as a routine use to the appropriate local, state or federal agency when records alone or in conjunction with other information, indicates a violation or potential violation of law whether civil, criminal, or regulatory in nature, and whether arising by general statute or particular program pursuant thereto.

5. A record from this system may be disclosed to a member of Congress submitting a request involving a constituent when the constituent has requested assistance from the member concerning the subject of the record; the member must provide a copy of the constituent's request for assistance.

6. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name, social security number, and/or travel authorization number.

SAFEGUARDS:

Paper records are maintained in locked cabinets and desks. Electronic records are controlled through established DOE computer center procedures (Personnel screening and physical security), and they are password protected. Access is limited to those whose official duties require access to the records.

RETENTION AND DISPOSAL:

Records retention and disposals authorities are contained in the National Archives and Records Administration (NARA) General Records Schedule and DOE record schedules that have been approved by NARA.

SYSTEM MANAGER(S) AND ADDRESS:

U.S. Department of Energy, Director, Office of Security Operations, 1000 Independence Avenue, SW., Washington, DC 20585.

NOTIFICATION PROCEDURES:

In accordance with DOE regulation implementing the Privacy Act, Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as notification procedures above. Paper records are generally kept at locations where the work is performed. In accordance with the DOE Privacy Act regulation, identification is required before a request is processed.

CONTESTING RECORD PROCEDURES:

Same as Notification procedures above.

RECORD SOURCE CATEGORIES:

Individual travelers, supervisors, and travel offices.

SYSTEM EXEMPTED FROM CERTAIN PROVISIONS OF THE ACT:

None.

DOE-28

SYSTEM NAME:

General Training Records.

SECURITY CLASSIFICATION:

Unclassified.

SYSTEM LOCATION(S):

U.S. Department of Energy, Headquarters, Forrestal Building, 1000 Independence Avenue, SW., Washington, DC 20585.

U.S. Department of Energy, Headquarters, Germantown, 19901 Germantown Road, Germantown, MD 20585.

U.S. Department of Energy, Alaska Power Administration, Federal Records Center, San Point Way, NE., Seattle, WA 98115.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Office of Amarillo Site Operations, P.O. Box 30030, Amarillo, TX 79120-0030.

U.S. Department of Energy, Atlanta Support Office, 730 Peachtree, NE., Suite 876, Atlanta, GA 30308.

U.S. Department of Energy, Bonneville Power Administration, P.O. Box 3621, Portland, OR 97208.

U.S. Department of Energy, Bonneville Power Administration, Lower Columbia Area, 1500 NE. Irving Street, Portland, OR 97232.

U.S. Department of Energy, Bonneville Power Administration, Puget Sound Area, 201 Queen Ann Avenue, N., Suite 400, P.O. Box C-19030, Seattle, WA 98109-1030.

U.S. Department of Energy, Bonneville Power Administration, Snake River Area, 101 West Poplar, Walla Walla, WA 99362.

U.S. Department of Energy, Bonneville Power Administration, Upper Columbia Area, Room 561, U.S. Court House, W. 920 Riverside Avenue, Spokane, WA 99201.

U.S. Department of Energy, Office of Energy Efficiency and Renewable Energy, Boston Support Office, One Congress Street, Room 1101, Boston, MA 02114-2021.

U.S. Department of Energy, Office of Science, Chicago Office, 9800 South Cass Avenue, Argonne, IL 60439.

U.S. Department of Energy, Continuous Electron Beam Accelerator Facility, 12000 Jefferson Avenue, Newport News, VA 23606.

U.S. Department of Energy, Dayton Area Office, P.O. Box 66, Miamisburg, OH 45342-0066.

U.S. Department of Energy, Environmental Management Consolidated Business Center (EMCBC), 250 E. Fifth Street, Suite 500, Cincinnati, OH 45202.

U.S. Department of Energy, Golden Field Office, 1617 Cole Boulevard, Golden, CO 80401.

U.S. Department of Energy, Idaho Operations Office, 1955 Fremont Avenue, Idaho Falls, ID 83415.

U.S. Department of Energy, Kansas City Site Office, P.O. Box 410202, Kansas City, MO 64141-0202.

U.S. Department of Energy, Kansas City Support Office, 911 Walnut Street, Room 1411, Kansas City, MO 64106.

U.S. Department of Energy, NNSA Sandia Site Office. P.O. Box 5400, Albuquerque, NM 87185-5400.

U.S. Department of Energy, NNSA Los Alamos Site Office, 528 35th Street, Los Alamos, NM 87544.

U.S. Department of Energy, University of California, NNSA Los Alamos National Laboratory, P.O. Box 1663, Los Alamos, NM 87545.

U.S. Department of Energy, Strategic Petroleum Reserve Project Management Office, 900 Commerce Road, East, New Orleans, LA 70123.

U.S. Department of Energy, National Energy Technology Laboratory (Pittsburgh), P.O. Box 10940, 626 Cochrans Mill Road, Pittsburgh, PA 15236.

U.S. Department of Energy, New York Support Office, 26 Federal Plaza, Room 3437, New York, NY 10278-0068.

U.S. Department of Energy, NNSA Nevada Site Office, P.O. Box 98518, Las Vegas, NV 89193-8518.

U.S. Department of Energy, Office of Science, Oak Ridge Office, P.O. Box 2001, Oak Ridge, TN 37831.

U.S. Department of Energy, Office of Scientific and Technical Information, P.O. Box 62, Oak Ridge, TN 37831.

U.S. Department of Energy, Office of Energy Efficiency and Renewable Energy, Philadelphia Support Office, 1880 John F. Kennedy Blvd., Ste 501, Philadelphia, PA 19103-7483.

U.S. Department of Energy, Pittsburgh Naval Reactors Office, Idaho Branch Office, P.O. Box 2469, Idaho Falls, ID 83403-2469.

U.S. Department of Energy, Richland Operations Office, P.O. Box 550, Richland, WA 99352.

U.S. Department of Energy, Savannah River Operations Office, P.O. Box A, Aiken, SC 29801.

U.S. Department of Energy, Southeastern Power Administration, 1166 Athens Tech Road, Elberton, GA 30635-6711.

U.S. Department of Energy, Southwestern Power Administration, Williams Tower One, One West Third Street, Tulsa, OK 74103.

U.S. Department of Energy, Strategic Petroleum Reserve Project Management Office, 900 Commerce Road East, New Orleans, LA 70123.

U.S. Department of Energy, Western Area Power Administration, P.O. Box 281213, Lakewood, CO 80228-8213.

U.S. Department of Energy, Western Area Power Administration, Billings Area Office, P.O. Box 35800, Billings, MT 59107-5800.

U.S. Department of Energy, Western Area Power Administration, Loveland Area Office, P.O. Box 3700, Loveland, CO 80539-3003.

U.S. Department of Energy, Western Area Power Administration, Salt Lake City Area Office, P.O. Box 11606, Salt Lake City, UT 84147-0606.

CATEGORIES OF INDIVIDUALS COVERED BY THE SYSTEM:

All DOE employees including National Nuclear Security Administration (NNSA) employees and contractor employees.

CATEGORIES OF RECORDS IN THE SYSTEM:

Name; résumé; assigned number; occupational series; training requests and authorizations; grade; organization; date of birth; social security number; home address and telephone number; special interest area, education completed; course name; justification for attending the course; direct and indirect costs of training; coded information dealing with purpose, type, source of training; training evaluations; course evaluation forms; training examinations; training attendance records; lesson plans; training assignment sheets; reading assignment sheets; position qualification statement; self study sheet; position descriptions; accounting records; and quarterly training report.

AUTHORITY FOR MAINTENANCE OF THE SYSTEM:

42 U.S.C. 7101 et seq.; 50 U.S.C. 2401 et seq.; Nuclear Waste Policy Act of 1982 (Pub. L. 97-425); Nuclear Waste Policy Amendment Act of 1987 (Pub. L. 100-203); Government Employees Training Act of 1958; and 5 CFR Parts 410 and 412.

PURPOSE(S):

For those records described in Categories of Records in the System, such records are maintained and used by the Department to document planning, completion, funding and effectiveness of employee training and development. Appropriate local, state and federal agencies use certain records maintained in this system to ensure Departmental compliance with other regulatory requirements.

ROUTINE USES OF RECORDS MAINTAINED IN THE SYSTEM, INCLUDING CATEGORIES OF USERS AND THE PURPOSES OF SUCH USES:

1. A record from this system may be disclosed as a routine use to Federal agencies, including the Office of Personnel Management, for purposes of determining eligibility or suitability for training and as source documents for training reports; to training institutions that personnel have requested to attend; and to other federal agencies as necessary for payment of training.

2. A record from this system may be disclosed as a routine use to state and local governments, the Nuclear Regulatory Commission (NRC), and other federal agencies that conduct research, investigations, or audits to determine whether DOE and contractor personnel satisfy quality assurance requirements for activities necessary to obtain a license from the NRC for the construction, operation and closing of a nuclear waste repository and/or a Monitored Retrievable Storage facility. These activities also will include research and development, site characterization, transportation, waste packaging, handling, design, maintenance, performance confirmation, inspection, fabrication, and development and production of repository waste forms.

3. A record from this system may be disclosed as a routine use to federal, state or local government officials where the regulatory program being implemented is applicable to the DOE or contractor program and requires that such access be provided for the conduct of the regulatory agencies' activities. Those provided information under this routine use are subject to the same limitations applicable to DOE officers and employees under the Privacy Act.

4. A record from the system may be disclosed as a routine use to the appropriate local, state or federal agency when records alone or in conjunction with other information, indicates a violation or potential violation of law whether civil, criminal, or regulatory in nature, and whether arising by general statute or particular program pursuant thereto.

5. A record from this system may be disclosed to a member of Congress submitting a request involving a constituent when the constituent has requested assistance from the member concerning the subject of the record; the member must provide a copy of the constituent's request for assistance.

6. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name and/or social security number.

SAFEGUARDS:

Paper records are maintained in locked cabinets and desks. Electronic records are controlled through established DOE computer center procedures (personnel screening and physical security), and they are password protected. Access is limited to those whose official duties require access to the record.

RETENTION AND DISPOSAL:

Records retention and disposal authorities are contained in the National Archives and Records Administration (NARA) General Records Schedule and DOE record schedules that have been approved by NARA.

SYSTEM MANAGER(S) AND ADDRESS:

Headquarters: Director, Training and Human Resource Development, U.S. Department of Energy, 1000 Independence Avenue, SW., Washington, DC 20585-0702.

Field Offices: The Directors, Training and Human Resource Development of the “System Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individuals and their supervisors.

SYSTEM EXEMPTED FROM CERTAIN PROVISIONS OF THE ACT:

None.

DOE-31

SYSTEM NAME:

Firearms Qualification Records.

SECURITY CLASSIFICATION:

Unclassified.

SYSTEM LOCATION(S):

U.S. Department of Energy, Headquarters, 1000 Independence Avenue, SW., Washington, DC 20585.

U.S. Department of Energy, NNSA Service Center Albuquerque, P.O. Box 5400, Albuquerque, NM 87185-5400.

U.S. Department of Energy, NNSA Naval Reactors Field Office, Pittsburgh Naval Reactors, P.O. Box 109, Wet Mifflin, PA 15122-0109.

U.S. Department of Energy, NNSA Naval Reactors Field Office, Schenectady Naval Reactors, P.O. Box 1069, Schenectady, NY 12301.

U.S. Department of Energy, Argonne National Laboratory-West, P.O. Box 2528, Idaho Falls, ID 83403-2528.

U.S. Department of Energy, Brookhaven National Laboratory, 24 S. Upton Road, Building 50, Upton, NY 11973.

U.S. Department of Energy, Office of Science, Chicago Office, 9800 South Cass Avenue, Argonne, IL 60439.

U.S. Department of Energy, Environmental Management Consolidated Business Center (EMCBC), 250 E. Fifth Street, Suite 500, Cincinnati, OH 45202.

U.S. Department of Energy, Idaho Operations Office, 1955 Fremont Avenue, Idaho Falls, ID 83415.

U.S. Department of Energy, Nonproliferation and National Security Institute, Building 30132, Kirtland Air Force Base, Albuquerque, NM.

U.S. Department of Energy, Office of Science, Oak Ridge Office, P.O. Box 2001, Oak Ridge, TN 37831.

U.S. Department of Energy, Amarillo Site Office, Highway 60 FM2373, Amarillo, TX 79177.

U.S. Department of Energy, Kansas City Site Office, P.O. Box 410202, 2000 E. 95th Street, Kansas City, MO 64141-3202.

U.S. Department of Energy, NNSA Los Alamos Site Office, 528 35th Street, Los Alamos, NM 87544.

U.S. Department of Energy, NNSA Nevada Site Office, P.O. Box 98518, Las Vegas, NV 89193-8518.

U.S. Department of Energy, Richland Operations Office, P.O. Box 550, Richland, WA 99352.

U.S. Department of Energy, NNSA Sandia Site Office, 1515 Eubank Blvd., S.E., Albuquerque, NM 87123.

U.S. Department of Energy, Savannah River Operations Office, P.O. Box A, Aiken, SC 29801.

CATEGORIES OF INDIVIDUALS COVERED BY THE SYSTEM:

DOE including National Nuclear Security Administration (NNSA) Federal and contractor employees who are required to conduct and/or to maintain firearms qualification, training, and proficiency activities in the performance of their regular duties.

CATEGORIES OF RECORDS IN THE SYSTEM:

Records of an individual's annual qualification scores; social security numbers, approvals of arming authority and issue of Security Police Officer and Federal Officer Credentials and firearms accountability and maintenance records.

AUTHORITY FOR MAINTENANCE OF THE SYSTEM:

42 U.S.C. 7101 et seq.; 50 U.S.C. 2401 et seq.

PURPOSE(S):

For those records described in Categories of Records in the System, such records are maintained to document DOE protective force firearms programs information.

ROUTINE USES OF RECORDS MAINTAINED IN THE SYSTEM, INCLUDING CATEGORIES OF USERS AND THE PURPOSES OF SUCH USES:

1. A record from the system may be disclosed as a routine use to the appropriate local, state or federal agency when records alone or in conjunction with other information, indicates a violation or potential violation of law whether civil, criminal, or regulatory in nature, and whether arising by general statute or particular program pursuant thereto.

2. A record from the system may be disclosed as a routine use to a federal, state, or local agency to obtain information relevant to a Departmental decision concerning the hiring or retention of an employee, the issuance of a security clearance, the reporting of an investigation of an employee, the letting of a contract, or the issuance of a license, grant, or other benefit. The Department must deem such disclosure to be compatible with the purpose for which the Department collected the information.

3. A record from this system may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from this system may be disclosed as a routine use for the purpose of an investigation, settlement of claims, or the preparation and conduct of litigation to (1) persons representing the Department in the investigation, settlement or litigation, and to individuals assisting in such representation; (2) others involved in the investigation, settlement, and litigation, and their representatives and individuals assisting those representatives; and (3) witness, potential witness, or their representatives and assistants, and any person possesses information pertaining to the matter when it is necessary to obtain information or testimony relevant to the matter.

5. A record from this system may be disclosed as a routine use in court or administrative proceedings to the tribunals, counsel, other parties, witnesses, and the public (in publicly available pleadings, filings or discussion in open court) when such disclosure: (1) Is relevant to, and necessary for, the proceeding; (2) compatible with the purpose for which the Department collected the records; and (3) the proceedings involve:

(a) The Department, its predecessor agencies, current or former contractor of the Department, or other United States Government agencies and their components, or

(b) A current or former employee of the Department and its predecessor agencies, current or former contractors of the Department, or other United States Government agencies and their components, who is acting in an official capacity or in any individual capacity where the Department or other United States Government agency has agreed to represent the employee.

6. A record from the system may be disclosed as a routine use to DOE contractors in performance of their contracts, and their officers and employees who have a need for the record in the performance of their duties. Those provided information under this routine use are subject to the same limitations applicable to DOE officers and employees under the Privacy Act.

7. A record from the system of records may be disclosed to a member of Congress submitting a request involving the constituent when the constituent has requested assistance from the member concerning the subject matter of the record. The member of Congress must provide a copy of the constituent's request for assistance.

8. A record from the system of records may be disclosed to training, administrative, and operations personnel of local law enforcement agencies in the performance of their regular duties in order to process and to maintain documentation for protective force personnel who have been commissioned as reserve officers or deputies.

9. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name and/or social security number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Security Operations, U.S. Department of Energy, 1000 Independence Avenue, SW., Washington, DC 20585.

Field Offices: The Security Directors of the “System Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with DOE Privacy Act regulation, identification is required before a request is processed.

CONTESTING RECORD PROCEDURES:

Same as Notification Procedures above.

RECORD SOURCE CATEGORIES:

Arming and arrest credential notifications and firearm qualifications results from individuals and training personnel.

SYSTEM EXEMPTED FROM CERTAIN PROVISIONS OF THE ACT:

None.

DOE-33

SYSTEM NAME:

Personnel Medical Records.

SECURITY CLASSIFICATION:

Unclassified.

SYSTEM LOCATION(S):

U.S. Department of Energy, Headquarters, 1000 Independence Avenue, SW., Washington, DC 20585.

U.S. Department of Energy, Alaska Power Administration, Federal Records Center, San Point Way, NE., Seattle, WA 98115.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Office of Amarillo Site Operations, P.O. Box 30030, Amarillo, TX 79120-0030.

U.S. Department of Energy, Ashtabula Area Office, P.O. Box 579, Ashtabula, OH 44005-0579.

U.S. Department of Energy, Bartlesville Project Office, 220 North Virginia Avenue, P.O. Box 1398, Bartlesville, OK 74003.

U.S. Department of Energy, Battelle Columbus Laboratories, 505 King Avenue, Room A-496 Columbus, OH 43201.

U.S. Department of Energy, Batavia Area Office, P.O. Box 2000, Batavia, IL 60510.

U.S. Department of Energy, Bettis Atomic Power Laboratory, P.O. Box 79, Pittsburgh, PA 15122-0079.

U.S. Department of Energy, Bonneville Power Administration, P.O. Box 3621, Portland, OR 97208.

U.S. Department of Energy, Carlsbad Field Office, P.O. Box 3090, Carlsbad, NM 88221.

U.S. Department of Energy, Office of Science, Chicago Office, 9800 South Cass Avenue, Argonne, IL 60439.

U.S. Department of Energy, Continuous Electron Beam Accelerator Facility, 12000 Jefferson Avenue, Newport News, VA 23606.

U.S. Department of Energy, Dayton Area Office, P. O. Box 66, Miamisburg, OH 45342-0066.

U.S. Department of Energy, EG&G Mound Applied Technologies, P.O. Box 3000, Miamisburg, OH 45343-3000.

U.S. Department of Energy, Environmental Management Consolidated Business Center (EMCBC), 250 E. Fifth Street, Suite 500, Cincinnati, OH 45202.

U.S. Department of Energy, Fernald Environmental Restoration Management Corporation, P.O. Box 398704, Cincinnati, OH 45239-8704.

U.S. Department of Energy, Fernald Field Office, 7400 Willey Road, Cincinnati, OH 45030.

U.S. Department of Energy, Golden Field Office, 1617 Cole Boulevard, Golden, CO 80401.

U.S. Department of Energy, Grand Junction Office, 2597 B 3/4 Road, Grand Junction, CO 81503.

U.S. Department of Energy, Hanford Environmental Health Foundation, 3080 George Washington Way, Richland, WA 99352.

U.S. Department of Energy, Idaho Operations Office, 1955 Fremont Avenue, Idaho Falls, ID 83415.

U.S. Department of Energy, Kansas City Site Office, P.O. Box 410202, Kansas City, MO 64141-0202.

U.S. Department of Energy, NNSA Nevada Site Office, P.O. Box 98518, Las Vegas, NV 89193-8518.

U.S. Department of Energy, NNSA Sandia Site Office, P.O. Box 5400, Albuquerque, NM 87185-5400.

U.S. Department of Energy, Knolls Atomic Power Laboratory, P.O. Box 1072, Schenectady, NY 12301.

U.S. Department of Energy, Livermore Site Office, P.O. Box 808, Livermore, CA 94551.

U.S. Department of Energy, Lawrence Berkeley Laboratory, One Cyclotron Road, Building 26, Room 143, Berkeley, CA 94720.

U.S. Department of Energy, NNSA Los Alamos Site Office, 528 35th Street, Los Alamos, NM 87544.

U.S. Department of Energy, Lockheed Martin Energy Systems, Inc., Y-12 Plant, P.O. Box 2009 Oak Ridge, Tennessee 37831-8103.

U.S. Department of Energy, Lockheed Martin Energy Systems, Inc., K-25 Plant, P.O. Box 2003 Oak Ridge, TN 37831-7422.

U.S. Department of Energy, MK Ferguson of Oak Ridge Company, P.O. Box 2011, Oak Ridge, TN 37831-2011.

U.S. Department of Energy, National Energy Technology Center, (Morgantown) 3610 Collins Ferry Road, Morgantown, WV 26507-0080.

U.S. Department of Energy, National Energy Technology Center (Pittsburgh), P. O. Box 10940, Pittsburgh, PA 15236-0940.

U.S. Department of Energy, National Renewable Energy Laboratory Area Office, 1617 Cole Boulevard, Golden, CO 80401-3393.

U.S. Department of Energy, Naval Petroleum and Oil Shale Reserves, 907 N. Poplar, Suite 150 Casper, WY 82601.

U.S. Department of Energy, Naval Petroleum Reserves in California, 28590 Highway 119, P.O. Box 11, Tupman, CA 93276.

U.S. Department of Energy, Naval Reactors Representative Office, Naval Base Branch Post Office, General Delivery, Charleston Naval Shipyard, Charleston, SC 29408-5615.

U.S. Department of Energy, Naval Reactors Representative Office, P.O. Box 7021, Groton, CT 06340.

U.S. Department of Energy, Naval Reactors Representative Office, Mare Island Naval Shipyard P.O. Box 2053, Vallejo, CA 94592.

U.S. Department of Energy, Naval Reactors Representative Office, Newport News Shipbuilding & Dry Dock Company, P.O. Box 973, Newport News, VA 23607.

U.S. Department of Energy, Naval Reactors Representative Office, Norfolk Naval Shipyard P.O. Box 848, Portsmouth, VA 23705-0848.

U.S. Department of Energy, Naval Reactors Representative Office, Pearl Harbor Naval Shipyard P.O. Box 128, Pearl Harbor, HI 96860.

U.S. Department of Energy, Naval Reactors Representative Office, Portsmouth Naval Shipyard Naval Base Branch, P.O. Box 2008, Portsmouth, NH 03801-2008.

U.S. Department of Energy, Naval Reactors Representative Office, Puget Sound Naval Shipyard Substation, P.O. Box 1A, Bremerton, WA 98314.

U.S. Department of Energy, Nevada Test Site Mercury, Mercury, NV 89023.

U.S. Department of Energy, Office of Science, Oak Ridge Office, P.O. Box 2001, Oak Ridge, TN 37831.

U.S. Department of Energy, Phoenix Area Office, P.O. Box 6457, Phoenix, AZ 85005.

U.S. Department of Energy, Plasma Physics Laboratory, James Forrestal Campus, Princeton University, P.O. Box 451, Princeton, NJ 08543.

U.S. Department of Energy, Portsmouth Site Office, P.O. Box 700, Piketon, OH 45661.

U.S. Department of Energy, Radiological and Environmental Sciences Laboratory, 785 DOE Place, Idaho Falls, ID 83402.

U.S. Department of Energy, Richland Operations Office, P.O. Box 550, Richland, WA 99352.

U.S. Department of Energy, Rocketdyne—Rockwell Aerospace, 6633 Canoga Avenue, P.O. Box 7922, Department 056 EA08, Canoga Park, CA 91309-7922.

U.S. Department of Energy, Savannah River Operations Office, P.O. Box A, Aiken, SC 29801.

U.S. Department of Energy, Southeastern Power Administration, 1166 Athens Tech Road, Elberton, GA 30635-6711.

U.S. Department of Energy, Southwestern Power Administration, Williams Tower One, One West Third Street, Tulsa, OK 74103.

U.S. Department of Energy, Stanford Linear Accelerator Center, P.O. Box 4349, Stanford, CA 94309.

U.S. Department of Energy, Strategic Petroleum Reserve Project Management Office, 900 Commerce Road East, New Orleans, LA 70123.

U.S. Department of Energy, Weldon Spring Site Remedial Action Project, 7295 Highway 94 South, St. Charles, MO 63304.

U.S. Department of Energy, West Valley Nuclear Service Company, Inc., P.O. Box 191, MS: F, West Valley, NY 14171.

U.S. Department of Energy, Waste Isolation Pilot Project Office, P.O. Box 3090, Carlsbad, NM 88221.

U.S. Department of Energy, Western Area Power Administration, P.O. Box 281213, Lakewood, CO 80228-8213.

CATEGORIES OF INDIVIDUALS COVERED BY THE SYSTEM:

Present and former DOE including National Nuclear Security Administration (NNSA) employees, and DOE contractor employees. This system includes in-patients at Kadlec Hospital, Richland, WA, prior to September 9, 1956.

CATEGORIES OF RECORDS IN THE SYSTEM:

Name, social security number, medical histories on contractor employees resulting from medical examination; in cases of injury, description of injury occurrence and treatment; medical records of periodic physical examinations and psychological testing, blood donor program records, audiometric testing, routine first aid, and other visits; hospital in-patients at Kadlec Hospital; records on the results of workplace and medical monitoring of individuals for exposure to chemical and physical agents (not covered in DOE-35) and related work history data, including drug testing information and results; contractor employee-completed health questionnaires not resulting from a medical examination; information from the contractor employee's private medical doctor or other health care providers, such as hospitals or laboratories not generated from workplace medical examinations.

AUTHORITY FOR MAINTENANCE OF THE SYSTEM:

Atomic Energy Act of 1954, (42 U.S.C. 2051a), section 31a; Economy Act of 1932, as amended, (31 U.S.C. section 1535); 42 U.S.C. 7101 et seq.; 50 U.S.C. 2401 et seq.; and DOE Order 440.1.

PURPOSE(S):

For those records described in Categories of Records in the System, such records are maintained and used by the Department to: (a) Provide data necessary for proper medical evaluations, diagnosis, treatment and care; (b) provide an accurate medical history, including job and/or hazard exposure documentation and health monitoring in relation to health status and claims of the individual; (c) provide a method for evaluating quality of health care rendered and job-health protection including engineering protection provided, protective equipment, workplace monitoring, and medical examinations monitoring required by the Occupational Safety Health Administration (OSHA) or by good practice; (d) provide data for health hazard evaluations, epidemiologic studies and public health activities; (e) ensure that all relevant, necessary, accurate, and timely data are available to support any medically-related employment decisions affecting the subject of the records, including decisions pertaining to the fitness-for-duty and disability retirement; (f) document possible re-employment rights under statutes governing that program; (g) document employee's reporting of on-the-job injuries or unhealthy or unsafe working conditions, including the reporting of such conditions to the OSHA and actions taken by the agency or by the employing agency; and (h) ensure proper and accurate operation of the agency's employee drug testing program under Executive Order 12564.

ROUTINE USES OF RECORDS MAINTAINED IN THE SYSTEM, INCLUDING CATEGORIES OF USERS AND THE PURPOSES OF SUCH USES:

1. A record from this system may be disclosed as a routine use to physicians, the U.S. Department of Labor, various state departments of labor and industry groups, and contractors to: (a) Ascertain suitability of an employee for job assignments with regard to health; (b) provide benefits under federal programs or contracts; and (c) maintain a record of occupational injuries or illnesses and the performance of regular diagnostic and treatment services to patients.

2. A record from the system may be disclosed as a routine use to the appropriate local, state or federal agency when records alone or in conjunction with other information, indicates a violation or potential violation of law whether civil, criminal, or regulatory in nature, and whether arising by general statute or particular program pursuant thereto.

3. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractor of the Department, or other United States Government agencies and their components, or

(b) A current or former employee of the Department and its predecessor agencies, current or former contractors of the Department, or other United States Government agencies and their components, who is acting in an official capacity or in any individual capacity where the Department or other United States Government agency has agreed to represent the employee.

4. A record from this system of records may be disclosed to a federal agency, in response to its written request, to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from this system may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

6. A record from the system may be disclosed as a routine use to DOE contractors in performance of their contracts, and their officers and employees who have a need for the record in the performance of their duties. Those provided information under this routine use are subject to the same limitations applicable to DOE officers and employees under the Privacy Act.

7. A record from this system of records may be disclosed as a routine use to a member of Congress submitting a request involving the constituent when the constituent has requested the subject matter of the record. The member of Congress must provide a copy of the constituent's request for assistance.

8. A record from this system may be disclosed as a routine use to contractor personnel, grantees, and cooperative agreement holders of components of the Department of Health and Human Services, including the National Institute for Occupational Safety and Health and the National Center for Environmental Health of the Centers for Disease Control and Prevention, and the Agency for Toxic Substances and Disease Registry pursuant to Memoranda of Understanding between the Department and the Department of Health and Human Services or its components.

9. A record from this system may be disclosed as a routine use to contractors, grantees, participants in cooperative agreements, collaborating researchers, or their employees, when conducting health studies or related health or environmental duties pursuant to their contracts, grants, and cooperating or collaborating research agreements. In order to conduct such studies, the Department, its contractors, grantees, participants in cooperative agreements, and collaborating researchers may disclose a record to Federal, State and local health and medical agencies or authorities; to subcontractors in order to determine a subject's vital status or cause of death; to health care providers to verify a diagnosis or cause of death; or to third parties to obtain current addresses for participants in health-related studies, surveys and surveillance. All recipients of such records are required to comply with the Privacy Act, to follow prescribed measures to protect personal privacy, and to disclose or use personally identifiable information only for the above described research purposes.

10. A record from this system may be disclosed as a routine use to members of DOE advisory committees, the Department of Health and Human Services Advisory Committee on Projects Related to Department of Energy Facilities and to designated employees of Federal, State, or local government or government-sponsored entities authorized to provide advice to the Department concerning health, safety or environmental issues. All recipients of such records are required to comply with the Privacy Act, to follow prescribed measures to protect personal privacy, and to disclose or use personally identifiable information only for the purpose of providing advice to the Department or to the Department of Health and Human Services.

11. A record from this system may be disclosed to Department of Health and Human Services, their contractors, grantees, and cooperative agreement holders, pursuant to the Energy Employees Occupational Illness Compensation Program Act of 2000, to estimate radiation doses and other workplace exposures received by Department of Energy and contractor employees. Those provided information under this routine use are subject to the same limitations applicable to Department officers and employees under the Privacy Act.

12. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

13. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records, microfilm, and electronic media.

RETRIEVABILITY:

Records are retrieved by name and/or social security number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Chief, Health, Safety and Security Officer, Office of Health, Safety and Security, U.S. Department of Energy, 1000 Independence Avenue, SW., Washington, DC 20585.

Field Offices: The Health, Safety and Security Officers of “System Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at location where the work is performed. In accordance with the DOE Privacy Act regulation, proper identification is required before a request is processed.

CONTESTING RECORD PROCEDURES:

Same as Notification Procedures above.

RECORD SOURCE CATEGORIES:

The individual who is the subject of the record, physicians, medical institutions, Office of Workers Compensation Programs, military retired pay systems records, Federal civilian retirement systems, Office of Personnel Management retirement life insurance and health benefits records system, and the personnel management records systems of the Office of Personnel Management.

SYSTEM EXEMPTED FROM CERTAIN PROVISIONS OF THE ACT:

None.

DOE-34

SYSTEM NAME:

Employee Assistance Program (EAP) Records.

SECURITY CLASSIFICATION:

Unclassified.

SYSTEM LOCATION(S):

U.S. Department of Energy, Headquarters, Forrestal Building, 1000 Independence Avenue, SW., Washington, DC 20585.

U.S. Department of Energy, Alaska Power Administration, Federal Records Center, San Point Way, NE., Seattle, WA 98115.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Idaho Branch Office, P.O. Box 2469, Idaho Falls, ID 83403-2469.

U.S. Department of Energy, NNSA Naval Reactors Field Office, Schenectady Naval Reactors, P.O. Box 1069, Schenectady, NY 12301.

U.S. Department of Energy, Office of Amarillo Site Operations, Highway 60 FM2372, Amarillo, TX 79120.

U.S. Department of Energy, Atlanta Regional Support Office, 730 Peachtree, NE., Suite 876, Atlanta, GA 30308.

U.S. Department of Energy, Bonneville Power Administration, P.O. Box 3621, Portland, OR 97208.

U.S. Department of Energy, Boston Regional Office, JFK Federal Building, Room 675 Boston, MA 02203-0002.

U.S. Department of Energy, Office of Science, Chicago Office, 9800 South Cass Avenue, Argonne, IL 60439.

U.S. Department of Energy, Fernald Field Office, 7400 Willey Road, Cincinnati, OH 45030.

U.S. Department of Energy, Golden Field Office, 1617 Cole Boulevard, Golden, CO 80401.

U.S. Department of Energy, Idaho Operations Office, 1955 Fremont Avenue, Idaho Falls, ID 83415.

U.S. Department of Energy, The Office of Site Operations, 2000 E 95th Street, Kansas City, MO 64141-3202.

U.S. Department of Energy, National Energy Technology Laboratory (Morgantown), P.O. Box 880, Morgantown, WV 26507-0880.

U.S. Department of Energy, National Energy Technology Laboratory (Pittsburgh), P.O. Box 10940, 626 Cochrans Mill Road, Pittsburgh, PA 15236.

U.S. Department of Energy NNSA Nevada Site Office, P.O. Box 98518, Las Vegas, NV 89193-8518.

U.S. Department of Energy, Office of Science, Oak Ridge Office, P.O. Box 2001, Oak Ridge, TN 37831.

U.S. Department of Energy, Office of Scientific and Technical Information, P.O. Box 62, Oak Ridge, TN 37831.

U.S. Department of Energy, Office of Superconducting Super Collider, 2550 Beckleymeade Avenue, MS 1020, Dallas, TX 75237-3946.

U.S. Department of Energy, Environmental Management Consolidated Business Center, 250 E. Fifth Street, Suite 500, Cincinnati, OH 45202.

U.S. Department of Energy, Richland Operations Office, P.O. Box 550, Richland, WA 99352.

U.S. Department of Energy, Savannah River Operations Office, P.O. Box A, Aiken, SC 29801.

U.S. Department of Energy, Southeastern Power Administration, 1166 Athens Tech Road, Elberton, GA 30635-6711.

U.S. Department of Energy, Southwestern Power Administration, Williams Tower One, One West Third Street, Tulsa, OK 74103.

U.S. Department of Energy, Strategic Petroleum Reserve Project Management Office, 900 Commerce Road East, New Orleans, LA 70123.

U.S. Department of Energy, Western Area Power Administration, P.O. Box 281213, Lakewood, CO 80228-8213.

CATEGORIES OF INDIVIDUALS COVERED BY THE SYSTEM:

Current and former DOE including National Nuclear Security Administration (NNSA) employees, and contractor employees who have contacted a service provider and have received counseling and/or have been referred for assistance.

CATEGORIES OF RECORDS IN THE SYSTEM:

(a) Employee profile—name; social security number; work and home addresses, and work, cellular, and home telephone numbers; job title and grade level; employee identification number; organization; supervisor's name and telephone number; sex; race; marital status; spouse and family members' names; name, address, and telephone number of any previously seen counselor or treatment facility; security clearance; (b) interest inventory and/or psychological test results; (c) issue(s) inventory; (d) case notes; (e) consent/release forms; (f) correspondence, including referrals to community resources and/or treatment facilities; and (g) medical and/or psychological reports.

AUTHORITY FOR MAINTENANCE OF THE SYSTEM:

42 U.S.C. 7101 et seq.; 50 U.S.C. 2401 et seq.; Public Law 91-616, Comprehensive Alcohol Abuse and Alcoholism Prevention, Treatment and Rehabilitation Act of 1970; Public Law 102-142, The Omnibus Transportation Employee Testing Act of 1991; 5 U.S.C. 301, 7901, and 7904; 5 CFR Part 792; and 15 U.S.C. 764.

PURPOSE(S):

For those records described in Categories of Records in the System, such records are maintained and used by the Department to document employees seeking assistance on personal or work-related issues.

ROUTINE USES OF RECORDS MAINTAINED IN THE SYSTEM, INCLUDING CATEGORIES OF USERS AND THE PURPOSES OF SUCH USES:

1. A record from the system may be disclosed as a routine use to DOE contractors in performance of their contracts, and their officers and employees who have a need for the record in the performance of their duties. Those provided information under this routine use are subject to the same limitations applicable to DOE officers and employees under the Privacy Act.

2. A record from the system may be disclosed as a routine use to the appropriate local, state or federal agency in the event that a record within this system of records, alone or in conjunction with other information, if the employee is suspected of child, spousal, or elder abuse.

3. A record from this system may be disclosed as a routine use to any person or entity to the extent necessary to prevent an imminent or potential crime which directly threatens loss of life or serious bodily injury.

4. A record from this system may be disclosed as a routine use to qualified personnel for the purpose of conducting scientific research, management audits, financial audits, or program evaluation, but such personnel may not identify, directly or indirectly, any individual patient in any report, or otherwise disclose patient identities in any manner.

5. A record from this system may be disclosed as a routine use to the Department of Justice or other appropriate Federal agencies in defending claims against the United States, when the claim results from action against an individual based upon the individual's behavior, or mental or physical condition, or is alleged to have arisen because of activities of any Federal agency in connection with the individual.

6. A record from the system may be disclosed as a routine use to the appropriate local, state or federal agency when records alone or in conjunction with other information, indicates a violation or potential violation of law whether civil, criminal, or regulatory in nature, and whether arising by general statute or particular program pursuant thereto.

7. A record from this system of records may be disclosed as a routine use to a member of Congress submitting a request involving the constituent when the constituent has requested the subject matter of the record. The member of Congress must provide a copy of the constituent's request for assistance.

8. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name and/or social security number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: (Federal Employees) Director of Human Capital Management, U.S. Department of Energy, 1000 Independence Avenue, SW., Washington, DC 20585. (Contractor Employees) Director, Office of Health, Safety and Security, U.S. Department of Energy, 1000 Independence Avenue, SW., Washington, DC 20585.

Field Offices: (Federal Employees) The Human Capital Directors of the “System Locations” listed above are the system managers for their respective portions of this system. (Contractor Employees) The Environment, Safety and Health Managers listed above are the system managers for their respective portion of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with DOE Privacy Act regulation, identification is required before a request is processed.

CONTESTING RECORD PROCEDURES:

Same as Notification Procedures above.

RECORD SOURCE CATEGORIES:

The subject employee, employee's supervisor(s), employee assistance program coordinator, staff of the applicable servicing personnel office, staff of the applicable personnel security office, and therapists or institutions providing treatment.

SYSTEM EXEMPTED FROM CERTAIN PROVISIONS OF THE ACT:

None.

DOE-35

SYSTEM NAME:

Personnel Radiation Exposure Records.

SECURITY CLASSIFICATION:

Unclassified.

SYSTEM LOCATION(S):

U.S. Department of Energy, Headquarters, 1000 Independence Avenue, SW., Washington, DC 20585.

U.S. Department of Energy, Alaska Power Administration, Federal Records Center, San Point Way, NE., Seattle, WA 98115.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Amarillo Site Office, P.O. Box 30030, Amarillo, TX 79120-0030.

U.S. Department of Energy, Bettis Atomic Power Laboratory, P.O. Box 79, Pittsburgh, PA 15122-0079.

U.S. Department of Energy, Bonneville Power Administration, P.O. Box 3621, Portland, OR 97208.

U.S. Department of Energy, Carlsbad Field Office, P.O. Box 3090, Carlsbad, NM 88221.

U.S. Department of Energy, Office of Science, Chicago Office, 9800 South Cass Avenue, Argonne, IL 60439.

U.S. Department of Energy, Continuous Electron Beam Accelerator Facility, 12000 Jefferson Avenue, Newport News, VA 23606.

U.S. Department of Energy, Dayton Area Office, P.O. Box 66, Miamisburg, OH 45342-0066.

U.S. Department of Energy, EG&G Mound Applied Technologies, P.O. Box 3000, Miamisburg, OH 45343-3000.

U.S. Department of Energy, Fernald Environmental Restoration Management Corporation, P.O. Box 398704, Cincinnati, OH 45239-8704.

U.S. Department of Energy, Fernald Field Office, 7400 Willey Road, Cincinnati, OH 45030.

U.S. Department of Energy, Golden Field Office, 1617 Cole Boulevard, Golden, CO 80401.

U.S. Department of Energy, Grand Junction Project Office, 2597 B 3/4 Road, Grand Junction, CO 81503.

U.S. Department of Energy, Idaho Operations Office, 1955 Fremont Avenue, Idaho Falls, ID 83415.

U.S. Department of Energy, Inhalation Toxicology Research Institute, P.O. Box 5890, Albuquerque, NM 87185.

U.S. Department of Energy, Kansas City Site Office, 2000 E 9th Street, Kansas City, MO 64141-3202.

U.S. Department of Energy, NNSA Sandia Site Office, P.O. Box 5400, Albuquerque, NM 87185-5400.

U.S. Department of Energy, Knolls Atomic Power Laboratory, P.O. Box 1072, Schenectady, NY 12301.

U.S. Department of Energy, Livermore Site Office, P.O. Box 808, Livermore, CA 94551.

U.S. Department of Energy, Lawrence Berkeley Laboratory, One Cyclotron Road, Building 26, Room 143, Berkeley, CA 94720.

U.S. Department of Energy, NNSA Los Alamos Site Office, 528 35th Street, Los Alamos, NM 87544.

U.S. Department of Energy, Lockheed Martin Energy Systems, Inc., Y-12 Plant, P.O. Box 2009, Oak Ridge, TN 37831-8103.

U.S. Department of Energy, Lockheed Martin Energy Systems, Inc., K-25 Plant, P.O. Box 2003, Oak Ridge, TN 37831-7422.

U.S. Department of Energy, MK Ferguson of Oak Ridge Company, P.O. Box 2011, Oak Ridge, TN 37831-2011.

U.S. Department of Energy, National Energy Technology Laboratory (Morgantown), P.O. Box 880, Morgantown, WV 26505.

U.S. Department of Energy, National Energy Technology Laboratory (Pittsburgh), P.O. Box 10940, 626 Cochrans Mill Road, Pittsburgh, PA 15236.

U.S. Department of Energy, National Institute for Petroleum and Energy Research, BDM-Oklahoma, Inc., P.O. Box 2565, Bartlesville, OK 74005.

U.S. Department of Energy, National Renewable Energy Laboratory Area Office, 1617 Cole Boulevard, Golden, CO 80401-3393.

U.S. Department of Energy, Naval Petroleum and Oil Shale Reserves, 907 N. Poplar, Suite 150, Casper, WY 82601.

U.S. Department of Energy, Naval Petroleum Reserves in California, P.O. Box 11, Tupman, CA 93276.

U.S. Department of Energy, Naval Reactors Representative Office, Naval Base Branch Post Office, General Delivery, Charleston Naval Shipyard, Charleston, SC 29408-5615.

U.S. Department of Energy, Naval Reactors Representative Office, P.O. Box 7021, Groton, CT 06340.

U.S. Department of Energy, Naval Reactors Representative Office, Mare Island Naval Shipyard, P.O. Box 2053, Vallejo, CA 94592.

U.S. Department of Energy, Naval Reactors Representative Office, Newport News Shipbuilding & Dry Dock Company, P.O. Box 973, Newport News, VA 23607.

U.S. Department of Energy, Naval Reactors Representative Office, Norfolk Naval Shipyard, P.O. Box 848, Portsmouth, VA 23705-0848.

U.S. Department of Energy, Naval Reactors Representative Office, Pearl Harbor Naval Shipyard, P.O. Box 128, Pearl Harbor, HI 96860.

U.S. Department of Energy, Naval Reactors Representative Office, Portsmouth Naval Shipyard, Naval Base Branch, P.O. Box 2008, Portsmouth, NH 03801-2008.

U.S. Department of Energy, Naval Reactors Representative Office, Puget Sound Naval Shipyard Substation, P.O. Box 1A, Bremerton, WA 98314.

U.S. Department of Energy, NNSA Nevada Site Office, P.O. Box 98518, Las Vegas, NV 89193-98518.

U.S. Department of Energy, Nevada Test Site Mercury, Mercury, NV 89023.

U.S. Department of Energy, Office of Science, Oak Ridge Office, P.O. Box 2001, Oak Ridge, TN 37831.

U.S. Department of Energy, Environmental Management Consolidated Business Center, 250 E. Fifth Street, Cincinnati, OH 45202.

U.S. Department of Energy, Pacific Northwest National Laboratory, 902 Battelle Boulevard, P.O. Box 999, Richland, WA 99352.

U.S. Department of Energy, Phoenix Area Office, P.O. Box 6457, Phoenix, AZ 85005.

U.S. Department of Energy, Portsmouth Site Office, P.O. Box 700, Piketon, OH 45661.

U.S. Department of Energy, Princeton Area Office, P.O. Box 102, Princeton, NJ 08542.

U.S. Department of Energy, Radiological and Environmental Sciences Laboratory, 850 Energy Drive, Idaho Falls, ID 83402.

U.S. Department of Energy, Richland Operations Office, P.O. Box 550, Richland, WA 99352.

U.S. Department of Energy, Rocketdyne—Rockwell Aerospace, 6633 Canoga Avenue, P.O. Box 7922, Department 056 EA08, Canoga Park, CA 91309-7922.

U.S. Department of Energy, NNSA Sandia Site Office, P.O. Box 5800, Albuquerque, NM 87115.

U.S. Department of Energy, Savannah River Operations Office, P.O. Box A, Aiken, SC 29801.

U.S. Department of Energy, Southeastern Power Administration, 1166 Athens Tech Road, Elberton, GA 30635-6711.

U.S. Department of Energy, Southwestern Power Administration, Williams Tower One, One West Third Street, Tulsa, OK 74103.

U.S. Department of Energy, Stanford Linear Accelerator Center, P.O. Box 4349, Stanford, CA 94309.

U.S. Department of Energy, Strategic Petroleum Reserve Project Management Office, 900 Commerce Road East, New Orleans, LA 70123.

U.S. Department of Energy, Weldon Spring Site Remedial Action Project, 7295 Highway 94 South, St. Charles, MO 63304.

U.S. Department of Energy, West Valley Nuclear Service Company, Inc., 10282 Rock Springs Road, P.O. Box 191, MS: F, West Valley, NY 14171.

U.S. Department of Energy, Waste Isolation Pilot Project Office, P.O. Box 3090, Carlsbad, NM 88221.

U.S. Department of Energy, Western Area Power Administration, P.O. Box 281213, Lakewood, CO 80228-8213.

CATEGORIES OF INDIVIDUALS COVERED BY THE SYSTEM:

DOE employees including National Nuclear Security Administration employees, and contractor employees, and any other persons having access to certain DOE facilities.

CATEGORIES OF RECORDS IN THE SYSTEM:

DOE contractor personnel and other individuals' radiation exposure records, social security numbers, and other records, in connection with registries of uranium, transuranic, or other elements encountered in the nuclear industry.

AUTHORITY FOR MAINTENANCE OF THE SYSTEM:

42 U.S.C. 7101 et seq. and 50 U.S.C. 2401 et seq.

PURPOSE(S):

For those records described in Categories of Records in the System, such records are maintained and used by the Department for the purpose of monitoring and recording levels of radiation exposure to individuals working or visiting DOE facilities.

ROUTINE USES OF RECORDS MAINTAINED IN THE SYSTEM, INCLUDING CATEGORIES OF USERS AND THE PURPOSES OF SUCH USES:

1. A record from this system may be disclosed as a routine use to the Department of the Navy to monitor radiation exposure of Naval and other personnel.

2. A record from this system may be disclosed as a routine use to the Nuclear Regulatory Commission to monitor radiation exposure of DOE and its contractors and consultants, contractors from other agencies who have been exposed to ionizing radiation during nuclear testing, and to conduct epidemiological studies of radiation effects on individuals so identified.

3. A record from this system may be disclosed to the Department of Defense for the purpose of identifying DOD and DOD-contractor personnel exposed to ionizing radiation during nuclear testing and for conducting epidemiological studies of radiation effects on individuals so identified.

4. A record from this system may be disclosed as a routine use to contractor personnel, grantees, and cooperative agreement holders of components of the Department of Health and Human Services, including the National Institute for Occupational Safety and Health and the National Center for Environmental Health of the Centers for Disease Control and Prevention, and the Agency for Toxic Substances and Disease Registry pursuant to Memoranda of Understanding between the Department and the Department of Health and Human Services or its components.

5. A record from this system may be disclosed as a routine use to contractors, grantees, participants in cooperative agreements, and collaborating researchers, or the employees of these parties, in performance of health studies or related health or environmental duties pursuant to their contracts, grants, and cooperating or collaborating research agreements. In order to perform such studies, the Department, its contractors, grantees, participants in cooperative agreements, and collaborating researchers may disclose a record to Federal, State and local health and medical agencies or authorities; to subcontractors in order to determine a subject's vital status or cause of death; to health care providers to verify a diagnosis or cause of death; or to third parties to obtain current addresses for participants in health-related studies, surveys and surveillance. All recipients of such records are required to comply with the Privacy Act, to follow prescribed measures to protect personal privacy, and to disclose or use personally identifiable information only for the above described research purposes.

6. A record from this system may be disclosed as a routine use to members of DOE advisory committees, the Department of Health and Human Services Advisory Committee on Projects Related to Department of Energy Facilities and to designated employees of Federal, State, or local government or government-sponsored entities authorized to provide advice to the Department concerning health, safety or environmental issues. All recipients of such records are required to comply with the Privacy Act, to follow prescribed measures to protect personal privacy, and to disclose or use personally identifiable information only for the purpose of providing advice to the Department or to the Department of Health and Human Services.

7. A record from this system may be disclosed to Department of Health and Human Services, their contractors, grantees, and cooperative agreement holders, pursuant to the Energy Employees Occupational Illness Compensation Program Act of 2000, to estimate radiation doses and other workplace exposures received by Department of Energy and contractor employees. Those provided information under this routine use are subject to the same limitations applicable to Department officers and employees under the Privacy Act.

8. A record from the system may be disclosed as a routine use to DOE contractors in performance of their contracts, and their officers and employees who have a need for the record in the performance of their duties. Those provided information under this routine use are subject to the same limitations applicable to Department officers and employees under the Privacy Act.

9. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

10. A record from this system of records may be disclosed to a member of Congress submitting a request involving a constituent when the constituent has requested assistance from a member with respect to the subject matter of record. The member of Congress must provide a copy of the constituent's request for assistance.

11. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records, microfilm and electronic media.

RETRIEVABILITY:

Records are retrieved by name, alphanumeric code, and/or social security number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Chief Health, Safety and Security Officer, Office of Health, Safety and Security, U.S. Department of Energy, 1000 Independence Avenue, SW., Washington, DC 20585.

Field Offices: The Managers and Directors of the “System Locations” listed above are the records are maintained are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at location where the work is performed. In accordance with the DOE's Privacy Act regulation, proper identification is required before a request is processed.

CONTESTING RECORD PROCEDURES:

Same as Notification Procedures above.

RECORD SOURCE CATEGORIES:

The subject individual, accident-incident investigations, film badges, dosimetry records, and previous employee records.

SYSTEM EXEMPTED FROM CERTAIN PROVISIONS OF THE ACT:

None.

DOE-38

SYSTEM NAME:

Occupational and Industrial Accident Records.

SECURITY CLASSIFICATION:

Unclassified.

SYSTEM LOCATION(S):

U.S. Department of Energy Headquarters, 1000 Independence Avenue, SW., Washington, DC 20585.

U.S. Department of Energy, Alaska Power Administration, San Point Way, NE., Seattle, WA 98115.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Amarillo Site Office, Pantex Plant, P.O. Box 1086, Amarillo, TX 79105.

U.S. Department of Energy, Bonneville Power Administration, P.O. Box 3621, Portland, OR 97208.

U.S. Department of Energy, Office of Science, Chicago Office, 9800 South Cass Avenue, Argonne, IL 60439.

U.S. Department of Energy, Carbondale Mining Research Center, P.O. Box 2587, Carbondale, IL 62901.

U.S. Department of Energy, Clinch River Breeder Reactor Plant Project, P.O. Box U, Oak Ridge, TN 37830.

U.S. Department of Energy, Dayton Area Office, P.O. Box 66, Miamisburg, OH 45342.

U.S. Department of Energy, Environmental Management Consolidated Business Center (EMCBC), 250 E. Fifth Street, Suite 500, Cincinnati, OH 45202.

U.S. Department of Energy, Environmental Measurements Laboratory, 376 Hudson Street, New York, NY 10014.

U.S. Department of Energy, Idaho Operations Office, 1955 Fremont Avenue, Idaho Falls, ID 83415.

U.S. Department of Energy, Idaho Branch Office, P.O. Box 2469, Idaho Falls, ID 8340.

U.S. Department of Energy, Kansas City Site Office, 2000 E 95th Street, Kansas City, MO 64141-3202.

U.S. Department of Energy, Knolls Atomic Power Laboratory, P.O. Box 1072, Schenectady, NY 12301.

U.S. Department of Energy, NNSA Los Alamos Site Office, P.O. Box 5800, Los Alamos, NM 87544.

U.S. Department of Energy, National Energy Technology Laboratory (Morgantown), P.O. Box 880, Morgantown, WV 26505.

U.S. Department of Energy, National Energy Technology Laboratory (Pittsburgh), P.O. Box 10940, 626 Cochrans Mill Road, Pittsburgh, PA 15236.

U.S. Department of Energy, Naval Petroleum Reserve, P.O. Box 11, Tupman, CA 93276.

U.S. Department of Energy, Nevada Test Site, Mercury, NV 89023.

U.S. Department of Energy, NNSA Nevada Site Office, P.O. Box 98518, Las Vegas, NV 89193-8518.

U.S. Department of Energy, Office of Science, Oak Ridge Office, P.O. Box 2001, Oak Ridge, TN 37831.

U.S. Department of Energy, Puerto Rico Area Office, P.O. Box BB, San Juan, PR 00935.

U.S. Department of Energy, Richland Operations Office, P.O. Box 550, Richland, WA 99352.

U.S. Department of Energy, Sandia Area Office, P. O. Box 5800, Albuquerque, NM 87115.

U.S. Department of Energy, Savannah River Operations Office, P.O. Box A, Aiken, SC 29801.

U.S. Department of Energy, Shippingport Branch Office, P. O. Box 11, Shippingport, PA 15077.

U.S. Department of Energy, Southeastern Power Administration, 1166 Athens Tech Road, Elberton, GA 30635-6711.

U.S. Department of Energy, Southwestern Power Administration, Williams Tower One, One West Third Street, Tulsa, OK 74103.

U.S. Department of Energy, Strategic Petroleum Reserve Project Management Office, 900 Commerce Road, East, New Orleans, LA 70123.

U.S. Department of Energy, Western Area Power Administration, P.O. Box 281213, Lakewood, CO 80228-8213.

CATEGORIES OF INDIVIDUALS COVERED BY THE SYSTEM:

DOE including National Nuclear Security Administration (NNSA) employees, contractor employees, and any other persons having access to DOE facilities who have had accidents on DOE facilities. Also individuals involved in accidents with employees or contractor employees or other persons having access to DOE facilities.

CATEGORIES OF RECORDS IN THE SYSTEM:

Name, social security number, accident/incident information, occupational injury and illness experience, property damage experience, and motor vehicle accidents.

AUTHORITY FOR MAINTENANCE OF THE SYSTEM:

5 U.S.C. 301; Department of Energy Organization Act, including authorities incorporated by reference in Title III of the Department of Energy Organization Act; Federal Tort Claims Act, 28 U.S.C. 2671-2680; Military Personnel and Civilian Employees Claims Act, 31 U.S.C. 240-243; Executive Order 12009.

PURPOSE(S):

For those records described in Categories of Records in the System, such records are maintained and used by the Department to monitor and record information about DOE employees, contractor employees, and other persons, who have had accidents on DOE facilities.

ROUTINE USES OF RECORDS MAINTAINED IN THE SYSTEM, INCLUDING CATEGORIES OF USERS AND THE PURPOSES OF SUCH USES:

1. A record from this system may be disclosed as a routine use to physicians, the Department of Labor, various State departments of labor and industry groups, and contractors who use information to: (a) Ascertain suitability of an employee for job assignments with regard to health (b) provide benefits under Federal programs or contracts, and (c) maintain a record of occupational injuries or illnesses and the performance of regular diagnostic and treatment services to patients.

2. A record from this system may be disclosed as a routine use for the purpose of an investigation, settlement of claims, or the preparation and conduct of litigation to (1) persons representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

3. A record from the system may be disclosed as a routine use to a federal, state, or local agency to obtain information relevant to a Departmental decision concerning the hiring or retention of an employee, the issuance of a security clearance, the letting of a contract, or the issuance of a license, grant, or other benefit. The Department must deem such disclosure to be compatible with the purpose for which the Department collected the information.

4. A record from this system may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

6. A record from the system may be disclosed as a routine use to the appropriate local, state or federal agency when records alone or in conjunction with other information, indicates a violation or potential violation of law whether civil, criminal, or regulatory in nature, and whether arising by general statute or particular program pursuant thereto.

7. A record from this system of records may be disclosed to foreign governments or international organizations in accordance with treaties, international conventions, or executive agreements.

8. A record from the system may be disclosed as a routine use to DOE contractors in performance of their contracts, and their officers and employees who have a need for the record in the performance of their duties. Those provided information under this routine use are subject to the same limitations applicable to Department officers and employees under the Privacy Act.

9. A record from this system of records may be disclosed to a member of Congress submitting a request involving the constituent when the constituent has requested assistance from the member with respect to the subject matter of the record. The member of Congress must provide a copy of the constituent's request for assistance.

10. A record from this system may be disclosed as a routine use to DOE contractor personnel, grantees, and cooperative agreement holders of components of the Department of Health and Human Services, including the National Institute for Occupational Safety and Health, the National Center for Environmental Health of the Center for Disease Control and Prevention, and the Agency for Toxic Substances and Disease Registry when conducting epidemiological studies, or public health activities as required by law performed and pursuant to a Memorandum of Understanding between the Department of Health and Human Services or its components. Those provided information under this routine use are subject to the same limitations applicable to Department officers and employees under the Privacy Act.

11. A record from this system may be disclosed as a routine use to contractors, grantees, participants in cooperative agreements, and collaborating researchers, or the employees of these parties, when conducting health studies or related health or environmental duties pursuant to their contracts, grants, and cooperating or collaborating research agreements. In order to conduct the studies, the Department, its contractors, grantees, participants in cooperative agreements, and collaborating researchers may disclose a record to federal, state and local health and medical agencies or authorities; to subcontractors in order to determine a subjects vital status or cause of death; to health care providers to verify a diagnosis or cause of death; or to third parties to obtain current addresses for participants in health-related studies, surveys and surveillances. All recipients of such records are required to comply with the Privacy Act, to follow prescribed measures to protect personal privacy, and to disclose or use personally identifiable information only for the above described research purpose. Those provided information under this routine use are subject to the same limitations applicable to Department officers and employees under the Privacy Act.

12. A record from this system of records may be disclosed to members of DOE advisory committees, the Department of Health and Human Services Advisory Committee on Project Related to Department of Energy Facilities and to designated employees of Federal, State, or local government or government-sponsored entities authorized to provide advice to the Department concerning health, safety, or environmental issues. Those provided information under this routine use are subject to the same limitations applicable to Department officers and employees under the Privacy Act.

13. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

14. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records, microfilm, and electronic media.

RETRIEVABILITY:

Records are retrieved by name and/or social security number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Chief, Health, Safety and Security Officer, Office of Health, Safety and Security, U.S. Department of Energy, 1000 Independence Avenue, SW., Washington, DC 20585.

Field Offices: The Health, Safety and Security Officers of field locations listed above under “System Location(s)” are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at location where the work is performed. In accordance with the DOE Privacy Act regulation, proper identification is required before a request is processed.

CONTESTING RECORD PROCEDURES:

Same as Notification Procedures above.

RECORD SOURCE CATEGORIES:

The individual who is the subject of the record, physicians, medical is institutions, Office of Workers Compensation Programs, military retired pay system records, Federal civilian retirement systems, retirement life insurance and health benefits records system of the Office of Personnel Management, and the personnel management records systems of the Office of Personnel Management.

SYSTEMS EXEMPTED FROM CERTAIN PROVISIONS OF THE ACT:

None.

DOE-41

SYSTEM NAME:

Legal Files (Claims, Litigation, Criminal Violations, Patents, and Others).

SECURITY CLASSIFICATION:

Unclassified.

SYSTEM LOCATION(S):

U.S. Department of Energy Headquarters, 1000 Independence Avenue, SW., Washington, DC 20585.

U.S. Department of Energy, Alaska Power Administration, Federal Records Center, San Point Way, NE., Seattle, WA 98115.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Bartlesville Energy Technology Center, P.O. Box 1398, Bartlesville, OK 74003.

U.S. Department of Energy, Bonneville Power Administration, P.O. Box 3621, Portland, OR 97208.

U.S. Department of Energy, Office of Science, Chicago Office, 9800 South Cass Avenue, Argonne, IL 60439.

U.S. Department of Energy, Grand Forks Energy Technology Center, P.O. Box 8213, University Station, Grand Forks, ND 58201.

U.S. Department of Energy, Idaho Operations Office, 1955 Fremont Avenue, Idaho Falls, ID 83415.

U.S. Department of Energy, Los Alamos Site Office, 528 35th Street, Los Alamos, NM 87544.

U.S. Department of Energy, National Energy Technology Laboratory (Morgantown), P.O. Box 880, Morgantown, WV 26505.

U.S. Department of Energy, National Energy Technology Laboratory (Pittsburgh), P.O. Box 10940, 626 Cochrans Mill Road, Pittsburgh, PA 15236.

U.S. Department of Energy, NNSA Nevada Site Office, P.O. Box 98518, Las Vegas, NV 89193-8518.

U.S. Department of Energy, Office of Science, Oak Ridge Office, P.O. Box 2001, Oak Ridge, TN 37831.

U.S. Department of Energy, Environmental Management Consolidated Business Center (EMCBC), 250 E. Fifth Street, Cincinnati, OH 45202.

U.S. Department of Energy, Richland Operations Office, P.O. Box 550, Richland, WA 99352.

U.S. Department of Energy, Savannah River Operations Office, P.O. Box A, Aiken, SC 29801.

U.S. Department of Energy, Southeastern Power Administration, 1166 Athens Tech Road, Elberton, GA 30635-6711.

U.S. Department of Energy, Southwestern Power Administration, Williams Tower One, One West Third Street, Tulsa, OK 74103.

U.S. Department of Energy, Western Area Power Administration, P.O. Box 281213, Lakewood, CO 80228-8213.

CATEGORIES OF INDIVIDUALS COVERED BY THE SYSTEM:

All persons identified in files maintained by the Office of General Counsel, which includes attorneys at all DOE offices including National Nuclear Security Administration (NNSA), from which information is retrieved by name or other personal identifier, including: Litigants and other claimants against the Department and its contractors asserting matters including, but not limited to, personal injury, property damage or infringement (including intellectual property), contract violation and harms resulting from employer-employee relationships; persons who are the subjects of claims by the DOE, such as persons who may have violated criminal laws, DOE regulations and contracts with the DOE and persons against whom the DOE considered asserting such claims; DOE's contractors and potential contractors; persons holding copyrights and issued patents pertaining to the DOE's activities; DOE employees, subject to garnishment or assignments; and DOE employees and contractor employees who use Alternative Dispute Resolution (ADR).

CATEGORIES OF RECORDS IN THE SYSTEM:

Records concerning legal matters include, but are not limited to, documents pertaining to: (1) Litigation and all other claims against, and by, the DOE and its contractors, which have been assigned to the Office of General Counsel; (2) DOE contracts; (3) issued patents and copyright matters; (4) records pertaining ADR. Litigation and claim records may, among others, include correspondence, pleadings such as complaints, answers, and motions; depositions, court orders and briefs. Records in this system also may include accident reports, inspection reports, investigation reports, audit reports, personnel files, contracts, consultant agreements, reports pertaining to criminal matters of interest to the DOE, Personnel Security Review Board documents, medical records, photographs, telephone records, patents and related documents, correspondence, and memoranda.

AUTHORITY FOR MAINTENANCE OF THE SYSTEM:

42 U.S.C. 7101 et seq. and 50 U.S.C. 2401 et seq.

PURPOSE(S):

For those records described in Categories of Records in the System, such records are maintained and used by the Department to settle claims and prepare for litigation and resolve disputes.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to: (1) A person representing the Department in the investigation, settlement or litigation, and to individuals assisting in such representation; (2) others involved in the investigation, settlement, and litigation, and their representatives and individuals assisting those representatives; (3) a witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a federal, state, or local agency to obtain information relevant to a Departmental decision concerning the hiring or retention of an employee, the issuance of a security clearance, the letting of a contract, or the issuance of a license, grant, or other benefit. The Department must deem such disclosure to be compatible with the purpose for which the Department collected the information.

4. A record from this system may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, state or federal agency when records alone or in conjunction with other information, indicates a violation or potential violation of law whether civil, criminal, or regulatory in nature, and whether arising by general statute or particular program pursuant thereto.

6. A record from this system of records may be disclosed to a member of Congress submitting a request involving the constituent when the constituent has requested assistance from the member with respect to the subject matter of the record. The member of Congress must provide a copy of the constituent's request for assistance.

7. A record from this system of records may be disclosed to foreign governments or international organizations in accordance with treaties, international conventions, or executive agreements.

8. A record from the system may be disclosed as a routine use to DOE contractors in performance of their contracts, and their officers and employees who have a need for the record in the performance of their duties. Those provided information under this routine use are subject to the same limitations applicable to Department officers and employees under the Privacy Act.

9. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

10. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name, case name, claim name, or assigned identifying number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Deputy General Counsel, Office of the General Counsel, U.S. Department of Energy, 1000 Independence Avenue, SW., Washington, DC 20585.

Field Offices: The Chief Counsels of the “System Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Subject individuals, inspection reports, other agencies, Office of General Counsel attorneys, other agency officers and staff, contractors, investigators, and auditors.

SYSTEMS EXEMPTED FROM CERTAIN PROVISIONS OF THE ACT:

This system is exempt under subsection (k)(1), (k)(2), and (k)(5) of the Privacy Act, to the extent that information within the System meets the criteria of those subsections of the Act. Such information has been exempted from the provisions of subsections (c)(3), (d), and (e)(1) of the Act; see the DOE Privacy Act regulation at Title 10, Code of Federal Regulations, Part 1008.

DOE-43

SYSTEM NAME:

Personnel Security Files.

SECURITY CLASSIFICATION:

Unclassified and classified.

SYSTEM LOCATION(S):

U.S. Department of Energy, Headquarters, 1000 Independence Avenue, SW., Washington, DC 20585.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Office of Science, Chicago Office, 9800 South Cass Avenue, Argonne, IL 60439.

U.S. Department of Energy, Idaho Operations Office, 1955 Fremont Avenue, Idaho Falls, ID 83415.

U.S. Department of Energy, NNSA Nevada Site Office, P.O. Box 98518, Las Vegas, NV 89193-8518.

U.S. Department of Energy, Office of Science, Oak Ridge Office, P.O. Box 2001, Oak Ridge, TN 37831.

U.S. Department of Energy, Richland Operations Office, P.O. Box 550, Richland, WA 99352.

U.S. Department of Energy, Savannah River Operations Office, P.O. Box A, Aiken, SC 29801.

CATEGORIES OF INDIVIDUALS COVERED BY THE SYSTEM:

Applicants for DOE including National Nuclear Security Administration (NNSA) employment; DOE employees including assignees and detailees, agents and consultants with the DOE, DOE contractors and subcontractors, and DOE access permittees processed for DOE access authorizations for access to classified matter or special nuclear materials; other Federal agency contractor and subcontractor applicants for employment, and their employees, detailees, agents, and consultants processed for DOE access authorizations; and other individuals processed for DOE access authorizations as determined by the Secretary.

CATEGORIES OF RECORDS IN THE SYSTEM:

Name, date and place of birth, social security number, citizenship status, grade, organization, employer(s), initial investigation and reinvestigation history; and access authorization history; the formal request(s) and justification(s) for access authorization processing; security forms, fingerprint cards, and acknowledgments completed by the individual for both the initial investigation and reinvestigation; results of pre-employment checks (if required); request(s) and approval(s) for issuance of a security badge(s); report of investigation provided by an agency which has previously conducted an investigation of the individual for employment or security clearance purposes; approvals for classified visits; photographs; security infraction reports; security termination statement(s), foreign travel document; letters of interrogatory, personnel security interview transcripts or summaries, and/or audio tapes of the interviews, and evaluations of the interviews; reports of hospitalization or treatment for a mental condition or substance abuse, including information provided by an Employee Assistance Program provider; reports of DOE-sponsored mental evaluations conducted by competent medical authorities; reports of security violations; public record information to include law enforcement, financial, divorce, bankruptcy, name change and other court information or reports and copies of information appearing in the media; security advisory letters; information concerning citizenship status, foreign contacts, and spouse and/or individual(s) with whom the individual resides; administrative review processing data; justifications for participation in sensitive DOE activities and/or for Sensitive Compartmented Information access approval; results of required testing for participation in sensitive DOE activities; documents concerning Interim Access Authorization processing or processing under Section 145b of the Atomic Energy Act of 1954, as amended; written evaluations of reported derogatory information; credit check results; copies of correspondence to and from the individual concerning the items above and copies of inter- and intra-agency correspondence concerning the items above; and any other material relevant to the individual's DOE access authorization or special authorization eligibility or processing and, for DOE employees, suitability for Federal employment.

AUTHORITY FOR MAINTENANCE OF THE SYSTEM:

42 U.S.C. 7101 et seq.; 50 U.S.C. 2401 et seq.; 10 CFR Part 710, Subpart A; Executive Orders 10450 and 12968; 5 CFR Part 732; DOE O 474.4 Safeguards and Security Program of 8-26-05; DOE M 470.4-5, Personnel Security, of 08-26-05 and Director of Central Intelligence Directive 6/14 of 6-20-00.

PURPOSE(S):

For those records described in Categories of Records in the System, such records are maintained and used by the Department as an official record of all information gathered and evaluated to determine an individual's initial and continued DOE access authorization eligibility and, if applicable, an individual's eligibility for participation in DOE sensitive activities or for access to Sensitive Compartmented Information.

ROUTINE USES OF RECORDS MAINTAINED IN THE SYSTEM, INCLUDING CATEGORIES OF USERS AND THE PURPOSES OF SUCH USES:

1. A record from this system may be disclosed as a routine use to competent medical authority who, under a formal agreement for payment of services with the local DOE personnel security element, conducts evaluations under Title 10, Code of Federal Regulations, Part 710, to determine whether an individual has an illness or mental condition of a nature which causes, or may cause, a significant defect in judgment or reliability, or is alcohol dependent or suffering from alcohol abuse.

2. A record from the system may be disclosed as a routine use to a federal, state, or local agency to obtain information relevant to a Departmental decision concerning the hiring or retention of an employee, the issuance of a security clearance, the letting of a contract, or the issuance of a license, grant, or other benefit. The Department must deem such disclosure to be compatible with the purpose for which the Department collected the information.

3. A record from this system may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from the system may be disclosed as a routine use to the appropriate local, state or federal agency when records alone or in conjunction with other information, indicates a violation or potential violation of law whether civil, criminal, or regulatory in nature, and whether arising by general statute or particular program pursuant thereto.

5. A record from this system of records may be disclosed to a member of Congress submitting a request involving the constituent when the constituent has requested assistance from the member with respect to the subject matter of the record. The member of Congress must provide a copy of the constituent's request for assistance.

6. A record from this system of records may be disclosed to foreign governments or international organizations in accordance with treaties, international conventions, or executive agreements

7. A record from the system may be disclosed as a routine use to DOE contractors in performance of their contracts, and their officers and employees who have a need for the record in the performance of their duties. Those provided information under this routine use are subject to the same limitations applicable to Department officers and employees under the Privacy Act.

8. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING AND DISPOSING OF RECORDS IN THE SYSTEM:

STORAGE:

A record may be stored as paper records, microfiche, and electronic media.

RETRIEVABILITY:

Records are retrieved by name and/or assigned DOE file number (alphanumeric code).

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Security Operations, U.S. Department of Energy, 1000 Independence Avenue, SW., Washington, DC 20585.

Field Offices: The Security Officers of the “System Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with DOE's Privacy Act regulation, proper identification is required before a request is processed.

CONTESTING RECORD PROCEDURES:

Same as Notification Procedures above.

RECORD SOURCE CATEGORIES:

Documents completed and/or furnished by subject; Department of Energy; Office of Personnel Management; Federal Bureau of Investigation; Defense Security Service; medical professionals; and confidential sources.

SYSTEMS EXEMPTED FROM CERTAIN PROVISIONS OF THE ACT:

This system is exempt under subsection (k)(1), (k)(2), and (k)(5) of the Privacy Act to the extent that information within the System meets the criteria of those subsections of the Act. Such information has been exempted from the provisions of subsections (c)(3), (d), and (e)(1) of the Act. See the Department's Privacy Act regulation at Title 10, Code of Federal Regulations, Part 1008.

DOE-44

SYSTEM NAME:

Special Access Authorization for Categories of Classified Information.

SECURITY CLASSIFICATION:

Classified.

SYSTEM LOCATION(S):

U.S. Department of Energy, Headquarters, 1000 Independence Avenue, SW., Washington, DC 20585.

U.S. Department of Energy, NNSA Service Center Albuquerque, P.O. Box 5400, Albuquerque, NM 87185-5400.

U.S. Department of Energy, Amarillo Site Office, Highway 60 FM2373, Amarillo, TX 79120.

U.S. Department of Energy, Idaho Operations Office, 1955 Fremont Avenue, Idaho Falls, ID 83415.

U.S. Department of Energy, Kansas City Site Office, 2000 E 95th Street, Kansas City, MO 64141-3202.

U.S. Department of Energy, NNSA Los Alamos Site Office, 528 35th Street, Los Alamos, NM 87544.

U.S. Department of Energy, NNSA Nevada Site Office, P.O. Box 98518, Las Vegas, NV 89193-8518.

U.S. Department of Energy, Office of Science, Oak Ridge Office, P.O. Box 2001, Oak Ridge, TN 37831.

U.S. Department of Energy, Richland Operations Office, P.O. Box 550, Richland, WA 99352.

U.S. Department of Energy, NNSA Sandia Site Office, 1515 Eubank Avenue, Albuquerque, NM 87123.

U.S. Department of Energy, Savannah River Operations Office, P.O. Box A, Aiken, SC 29801.

CATEGORIES OF INDIVIDUALS COVERED BY THE SYSTEM:

Current and former DOE and National Nuclear Security Administration employees, current and former DOE contractor employees, and employees of other Federal agencies authorized access to special categories of classified information and compartmentalized DOE facilities and/or areas.

CATEGORIES OF RECORDS IN THE SYSTEM:

Names of individuals, social security numbers, letters and memoranda, and status reports relating to authorized access to special categories of classified information and compartmentalized DOE facilities and/or areas.

AUTHORITY FOR MAINTENANCE OF THE SYSTEM:

42 U.S.C. 7101 et seq.; 50 U.S.C. 2401 et seq.; 5 U.S.C. 301; Atomic Energy Act of 1954, as amended; Department of Energy Organization Act, including authorities incorporated by reference in Title of the Department of Energy Organization Act; DOE M 471.2-4, Executive Order 12333; Executive Order 12968; Federal Personnel Manual, Chapters 731 and 736.

PURPOSE(S):

For those records described in Categories of Records in the System, such records are maintained and used by DOE to verify individuals who are authorized access to special categories of classified information and compartmentalized DOE facilities and/or areas.

ROUTINE USES OF RECORDS MAINTAINED IN THE SYSTEM, INCLUDING CATEGORIES OF USERS AND THE PURPOSES OF SUCH USES:

1. A record from this system may be disclosed as a routine use to DOE contractors in performance of their contracts, and their officers and employees who have a need for the record in the performance of their duties. Those provided information under this routine use are subject to the same limitations applicable to Department officers and employees under the Privacy Act.

2. A record from this system may be disclosed as a routine use to other federal agencies or departments for determining individuals who have access to classified information generated by these agencies.

3. A record from the system may be disclosed as a routine use to the appropriate local, state or federal agency when records alone or in conjunction with other information, indicates a violation or potential violation of law whether civil, criminal, or regulatory in nature, and whether arising by general statute or particular program pursuant thereto.

4. A record from this system may be disclosed as a routine use to a member of Congress submitting a request involving a constituent when the constituent has requested assistance from the member of Congress with respect to the subject matter of the record. The member of Congress must provide a copy of the constituent's request for assistance.

5. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING AND DISPOSING OF RECORDS IN THE SYSTEM:

STORAGE:

A record may be stored as paper records, microfiche, and electronic media.

RETRIEVABILITY:

Records are retrieved by name.

SAFEGUARDS:

Paper records and microfiche are maintained in locked General Services Administration approved security containers. Electronic records are controlled through established DOE computer center procedures (personnel screening and physical security), and they are locked in General Services Administration approved security containers. Access is limited to those whose official duties require access to the records on a strict need-to-know basis.

RETENTION AND DISPOSAL:

Records retention and disposal authorities are contained in the National Archives and Records Administration (NARA) General Records Schedule and DOE record schedules that have been approved by NARA.

SYSTEM MANAGER(S) AND ADDRESS:

Headquarters: Director, Office of Security Operations, U.S. Department of Energy, 1000 Independence Avenue, SW., Washington, DC 20585.

Field Offices: The Security Officers of the “System Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with DOE's Privacy Act regulation, proper identification is required before a request is processed.

CONTESTING RECORD PROCEDURES:

Same as Notification Procedures above.

RECORD SOURCE CATEGORIES:

The subject individual, present and former DOE employees and contractor employees; publicly available material; other agencies within the Intelligence Community; other offices and elements within DOE; and other Federal agencies and official records.

SYSTEM EXEMPTED FROM CERTAIN PROVISIONS OF THE ACT:

This system is exempt under subsection (k)(1) of the Privacy Act to the extent that information within the System meets the criteria of those subsections of the Act. Such information has been exempted from the provisions of subsections (c)(3),and (e)(1) of the Act. See the Department's Privacy Act regulation at Title 10, Code of Federal Regulations, Part 1008.

DOE-45

SYSTEM NAME:

Weapon Data Access Control System (WDACS).

SECURITY CLASSIFICATION:

Unclassified.

SYSTEM LOCATION(S):

Headquarters: U.S. Department of Energy, l000 Independence Avenue, SW., Washington, DC 20585.

U.S. Department of Energy, NNSA Service Center Albuquerque, P.O. Box 5400, Albuquerque, NM 87185-5400.

U.S. Department of Energy, Amarillo Site Office, P.O. Box 30030, Amarillo, TX 79120-0030.

U.S. Department of Energy, The Office of Kansas City Site Operations, P.O. Box 410202, Kansas City, MO 64141-0202.

U.S. Department of Energy, Miamisburg Area Office, P.O. Box 66, Miamisburg, OH 45342-0066.

U.S. Department of Energy, NNSA Nevada Site Office, P.O. Box 98518, Las Vegas, NV 89193-8518.

U.S. Department of Energy, Office of Science, Oak Ridge Office, P.O. Box 2001, Oak Ridge, TN 37831.

U.S. Department of Energy, Office of Scientific and Technical Information, P.O. Box 62, Oak Ridge, TN 37831.

U.S. Department of Energy, NNSA Sandia Site Office, Albuquerque, P.O. Box 5800, Albuquerque, NM 87185-5800.

U.S. Department of Energy, NNSA Sandia Site Office, P.O. Box 969, Livermore, CA 94551-0969.

U.S. Department of Energy, NNSA Sandia Site Office, Tonopah Test Range, P.O. Box 871, Tonopah, NV 89049.

U.S. Department of Energy, Savannah River Operations Office, P.O. Box A, Aiken, SC 29801.

U.S. Department of Energy, University of California, Livermore Site Office, 7000 East Avenue, P.O. Box 808, Livermore, CA 94550.

U.S. Department of Energy, University of California, NNSA Los Alamos National Laboratory, P.O. Box 1663, Los Alamos, NM 87545.

CATEGORIES OF INDIVIDUALS COVERED BY THE SYSTEM:

DOE including National Nuclear Security Administration, Department of Defense (DOD), and other Government agency employees, contractors, and consultants requiring access to classified weapons information and/or DOE nuclear weapons program facilities.

CATEGORIES OF RECORDS IN THE SYSTEM:

Name, social security number, date of birth, citizenship, employer, type of clearance, number and date of clearance, categories of information requested and authorized, locations to be visited and dates of visit, purpose of visit, point of contact, Government agency certifying need-to-know, and classified mail/shipping addresses.

AUTHORITY FOR MAINTENANCE OF THE SYSTEM:

42 U.S.C. 7101 et seq. and 50 U.S.C. 2401 et seq.

PURPOSE(S):

For those records described in Categories of Records in the System, such records are maintained by the Department to document all persons who have been authorized access to nuclear weapon information through a visit to one of the DOE Nuclear Weapons Complex facilities or to receive classified data via a classified mail/shipping channel.

ROUTINE USES OF RECORDS MAINTAINED IN THE SYSTEM, INCLUDING CATEGORIES OF USERS AND THE PURPOSES OF SUCH USES:

1. A record from the system may be disclosed as a routine use to DOE contractors in performance of their contracts, and their officers and employees who have a need for the record in the performance of their duties. Those provided information under this routine use are subject to the same limitations applicable to Department officers and employees under the Privacy Act.

2. A record from this system may be disclosed as a routine use to a member of Congress submitting a request involving a constituent when the constituent has requested assistance from the member of Congress with respect to the subject matter of the record. The member of Congress must provide a copy of the constituent's request for assistance.

3. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as microfiche, paper records, or electronic media.

RETRIEVABILITY:

Records are retrieved by social security number and/or name.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Deputy Administrator, NNSA, U.S. Department of Energy, 1000 Independence Avenue, SW., Washington, DC 20585.

Field Offices: The Managers and Directors of the “System Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the Privacy Act regulation, proper identification is required before a request is processed.

CONTESTING RECORD PROCEDURES:

Same as Notification Procedures above.

RECORD SOURCE CATEGORIES:

The individuals, DOE, DOD, and other Government agencies, and their contractors.

SYSTEM EXEMPTED FROM CERTAIN PROVISIONS OF THE ACT:

None.

DOE-46

SYSTEM NAME:

Administrative Review Files.

SECURITY CLASSIFICATION:

Unclassified and classified.

SYSTEM LOCATION(S):

U.S. Department of Energy, Headquarters, 1000 Independence Avenue, SW., Washington, DC 20585.

U.S. Department of Energy, NNSA Service Center Albuquerque, P.O. Box 5400, Albuquerque, NM 87185-5400.

U.S. Department of Energy, NNSA Naval Reactors Field Office, Pittsburgh Naval Reactors, P.O. Box 1099, West Mifflin, PA 15122-0109.

U.S. Department of Energy, NNSA Naval Reactors Field Office, Schenectady Naval Reactors, P.O. Box 1069, Schenectady, NY 12301.

U.S. Department of Energy, Office of Science, Chicago Office, 9800 South Cass Avenue, Argonne, IL 60439.

U.S. Department of Energy, Idaho Operations Office, 1955 Fremont Avenue, Idaho Falls, ID 83415.

U.S. Department of Energy, NNSA Nevada Site Office, P.O. Box 98518, Las Vegas, NV 89193-8518.

U.S. Department of Energy, Office of Science, Oak Ridge Office, P.O. Box 2001, Oak Ridge, TN 37831.

U.S. Department of Energy, Richland Operations Office, P.O. Box 550, Richland, WA 99352.

U.S. Department of Energy, Savannah River Operations Office, P.O. Box A, Aiken, SC 29801.

CATEGORIES OF INDIVIDUALS COVERED BY THE SYSTEM:

Individuals processed for or granted DOE access authorization who are subsequently processed under 10, CFR Part 710 for denial or revocation of access authorization. These individuals may be applicants for employment; employees including assignees and detailees; agents, and consultants with the DOE including National Nuclear Security Administration (NNSA); DOE and NNSA contractors and subcontractors, and DOE access permittees. Other Federal agencies' applicants for employment, and their employees, assignees, detailees, agents, consultants, contractors, and subcontractors. Other individuals as determined by the Secretary of Energy.

CATEGORIES OF RECORDS IN THE SYSTEM:

Transcript of the hearing convened under 10 CFR Part 710 procedures (when an individual does not avail himself/herself of the right to a hearing under 10 CFR Part 710 procedures, his/her DOE Personnel Security File [see DOE-43, Personnel Security File] becomes the basis of the administrative record); exhibits submitted by the DOE and the respondent to the Hearing Officer for inclusion in the administrative record; the Hearing Officer's opinion; decisions rendered by the Manager, Chief, Health, Safety, and Security Officer, and/or the Appeal Panel; evidence submitted by the DOE or the respondent subsequent to the closing of the administrative record; correspondence to and from the individual (and his/her counsel or representative) related to the conduct of proceedings; intra-agency correspondence related to the conduct of proceedings; and information concerning reconsideration of the case.

AUTHORITY FOR MAINTENANCE OF THE SYSTEM:

42 U.S.C. 7101 et seq.; 50 U.S.C. 2401 et seq.; 10 CFR Part 710, Subpart A; Executive Order 12968; DOE O 470.4, Safeguards and Security Program, of 8-26-05, and DOE M 470.4-5, Personnel Security, of 08-26-05.

PURPOSE(S):

For those records described in Categories of Records in the System, such records are maintained and used by the Department to maintain an official administrative record of 10 CFR Part 710 proceedings that are conducted to determine an individual's DOE access authorization eligibility.

ROUTINE USES OF RECORDS MAINTAINED IN THE SYSTEM, INCLUDING CATEGORIES OF USERS AND THE PURPOSE OF SUCH USES:

1. A record from this system may be disclosed to competent medical authority who, under a formal agreement for payment of services with the local DOE personnel security element, conducts evaluations under Title 10, Code of Federal Regulations, Part 710, to determine whether an individual has an illness or mental condition of a nature that causes, or may cause, a significant defect in judgment or reliability, or is alcohol dependent or suffering from alcohol abuse.

2. A record from the system may be disclosed as a routine use to a federal, state, or local agency to obtain information relevant to a Departmental decision concerning the hiring or retention of an employee, the issuance of an access authorization, the letting of a contract, or the issuance of a license, grant, or other benefit. The Department must deem such disclosure to be compatible with the purpose for which the Department collected the information.

3. A record from this system of records may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from the system may be disclosed as a routine use to the appropriate local, state or federal agency when records alone or in conjunction with other information, indicates a violation or potential violation of law whether civil, criminal, or regulatory in nature, and whether arising by general statute or particular program pursuant thereto.

5. A record from this system of records may be disclosed to a member of Congress submitting a request involving the constituent when the constituent has requested assistance from the member with respect to the subject matter of the record. The member of Congress must provide a copy of the constituent's request for assistance.

6. A record from this system of records may be disclosed to foreign governments or international organizations in accordance with treaties, international conventions, or executive agreements

7. A record from the system may be disclosed as a routine use to DOE contractors in performance of their contracts, and their officers and employees who have a need for the record in the performance of their duties. Those provided information under this routine use are subject to the same limitations applicable to Department officers and employees under the Privacy Act.

8. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES OR STORING, RETRIEVING, ACCESSING, RETAINING AND DISPOSING OF RECORDS IN THE SYSTEM:

STORAGE:

Records may be stored as paper records, audio tape, video tape, microfiche and electronic media.

RETRIEVABILITY:

Records are retrieved by name and/or assigned DOE file number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Security Operations, U.S. Department of Energy, 1000 Independence Avenue, SW., Washington, DC 20585.

Field Offices: The Security Officers of the “System Locations” listed above are the system managers for their respective portions of the system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with DOE's Privacy Act regulation, proper identification is required before a request is processed.

CONTESTING RECORD PROCEDURES:

Same as Notification Procedures above.

RECORD SOURCE CATEGORIES:

The individual's Personnel Security File, and DOE staff.

SYSTEM EXEMPTED FROM CERTAIN PROVISIONS OF THE ACT:

This system is exempt under subsections (k)(1), (k)(2), and (k)(5) of the Privacy Act, to the extent that information within the System meets the criteria of those subsections of the Act. Such information has been exempted from the provisions of subsections (c)(3), (d), and (e)(1) of the Act; see the Department's Privacy Act regulation at Title 10, Code of Federal Regulations, Part 1008.

DOE-48

SYSTEM NAME:

Security Education and/or Infraction Reports.

SECURITY CLASSIFICATION:

Classified.

SYSTEM LOCATION(S):

U.S. Department of Energy, Headquarters, 1000 Independence Avenue, SW., Washington, DC 20585.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Amarillo Site Office, Highway 60 FM2373, Amarillo, TX 79120.

U.S. Department of Energy, Carlsbad Field Office, P.O. Box 3090, Carlsbad, NM 88221.

U.S. Department of Energy, Office of Science, Chicago Office, 9800 South Cass Avenue, Argonne, IL 60439.

U.S. Department of Energy, Idaho Operations Office, 1955 Fremont Avenue, Idaho Falls, ID 83415.

U.S. Department of Energy, Kansas City Site Office, 2000 E. 95th Street, Kansas City, MO 64141-3202.

U.S. Department of Energy, NNSA Nevada Site Office, P.O. Box 98518, Las Vegas, NV 89193-8518.

U.S. Department of Energy, NNSA Los Alamos Site Office, 528 35th Street, Los Alamos, NM 87544.

U.S. Department of Energy, Office of Science, Oak Ridge Office, P.O. Box 2001, Oak Ridge, TN 37831.

U.S. Department of Energy, Environmental Management Consolidated Business Center (EMCBC), 250 E. Fifth Street, Cincinnati, OH 45202.

U.S. Department of Energy, Richland Operations Office, P.O. Box 550, Richland, WA 99352.

U.S. Department of Energy, Savannah River Operations Office, P.O. Box A, Aiken, SC 29801.

U.S. Department of Energy, NNSA Sandia Site Office, Pennsylvania & H Street, Albuquerque, NM 87185-5400.

CATEGORIES OF INDIVIDUALS COVERED BY THE SYSTEM:

DOE including National Nuclear Security Administration employees and DOE contractor employees possessing DOE access authorizations.

CATEGORIES OF RECORDS IN THE SYSTEM:

Name, records of security education briefings, and investigative and summary reports of security infraction incidents.

AUTHORITY FOR MAINTENANCE OF THE SYSTEM:

42 U.S.C. 7101 et seq.and 50 U.S.C. 2401 et seq.

PURPOSE(S):

For those records described in Categories of Records in the System, such records are maintained and used by the Department to inform individuals of their responsibilities for protecting classified matter, and the procedures established by the Department to ensure authorized disclosure.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to (1) persons representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a federal, state, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a federal agency, in response to its written request, to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, state or federal agency when records alone or in conjunction with other information, indicates a violation or potential violation of law whether civil, criminal, or regulatory in nature, and whether arising by general statute or particular program pursuant thereto.

6. A record from this system of records may be disclosed to a member of Congress submitting a request involving the constituent when the constituent has requested assistance from the member with respect to the subject matter of the record. The member of Congress must provide a copy of the constituent's request for assistance.

7. A record from the system may be disclosed as a routine use to DOE contractors in performance of their contracts, and their officers and employees who have a need for the record in the performance of their duties. Those provided information under this routine use are subject to the same limitations applicable to Department officers and employees under the Privacy Act.

8. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper files and electronic media.

RETRIEVABILITY:

Records are retrieved by name.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Security Operations, U.S. Department of Energy, 1000 Independence Avenue, SW., Washington, DC 20585.

Field Offices: The Security Officers of the “System Locations” above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Training officers, security personnel, individual's supervisor, and local, State, and Federal authorities.

SYSTEM EXEMPTED FROM CERTAIN PROVISIONS OF THE ACT:

None.

DOE-49

SYSTEM NAME:

Security Communications File.

SECURITY CLASSIFICATION:

Classified and Unclassified.

SYSTEM LOCATION(S):

U.S. Department of Energy, Headquarters, 1000 Independence Avenue, SW., Washington, DC 20585.

CATEGORIES OF INDIVIDUALS COVERED BY THE SYSTEM:

Individuals who communicated verbal, electronic, written or telephonic expressions of interest about DOE including National Nuclear Security Administration (NNSA) personnel, facilities or activities in a manner that causes security concerns.

CATEGORIES OF RECORDS IN THE SYSTEM:

Threat communications received from individuals as well as individuals who have been identified from articles in the news media as being potential threats to DOE officials, DOE employees and DOE contractor employees. Also includes name, social security number, date of birth, other personal identifiers, profiles and informational reports on any of the individuals who may have made threats against DOE personnel or property.

AUTHORITY FOR MAINTENANCE OF THE SYSTEM:

42 U.S.C. 7101 et seq., 50 U.S.C. 2401 et seq., and the implementing directive of E.O. 12958.

PURPOSE(S):

For those records described in Categories of Records in the System, such records are maintained and used by DOE to maintain a database and profiles of all individuals who have made threats of any kind, and through any medium, against DOE officials, DOE employees, DOE contractor employees, DOE facilities and/or DOE buildings.

ROUTINE USES OF RECORDS MAINTAINED IN THE SYSTEM, INCLUDING CATEGORIES OF USERS AND THE PURPOSES OF SUCH USES:

1. A record from the system may be disclosed as a routine use to the appropriate local, state or federal agency when records alone or in conjunction with other information, indicates a violation or potential violation of law whether civil, criminal, or regulatory in nature, and whether arising by general statute or particular program pursuant thereto.

2. A record from the system may be disclosed as a routine use to a federal, state or local agency to obtain information relevant to a Departmental decision concerning the hiring or retention of an employee, the issuance of a security clearance, the letting of a contract, or the issuance of a license, grant, or other benefit. The Department must deem such disclosure to be compatible with the purpose for which the Department collected the information.

3. A record from this system may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from the system may be disclosed as a routine use to DOE contractors in performance of their contracts, and their officers and employees who have a need for the record in the performance of their duties. Those provided information under this routine use are subject to the same limitations applicable to DOE officers and employees under the Privacy Act.

5. A record from the system of records may be disclosed to a member of Congress submitting a request involving the constituent when the constituent has requested assistance from the member concerning the subject matter of the record. The member of Congress must provide a copy of the constituent's request for assistance.

6. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records, microfiche, and electronic media.

RETRIEVABILITY:

Records are retrieved by name, social security number, date of birth, and/or other miscellaneous personal identifiers.

SAFEGUARDS:

Paper records are maintained in locked General Services Administration approved security containers. Electronic records are controlled through established DOE computer center procedures (personnel screening and physical security), and they are password protected. Access is limited to those whose official duties require access to the records on a strict need-to-know basis and other law enforcement authorities, as applicable.

RETENTION AND DISPOSAL:

Records retention and disposal authorities are contained in the National Archives and Records Administration (NARA) General Records Schedule and DOE records schedules that have been approved by NARA.

SYSTEM MANAGER(S) AND ADDRESS:

U.S. Department of Energy, Director, Office of Security Operations, 1000 Independence Avenue, SW., Washington, DC 20585.

NOTIFICATION PROCEDURES:

In accordance with the DOE regulation implementing the Privacy Act, at Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual, complainants, witnesses, agency files and records, official Federal, State, or local records, and publicly available material.

SYSTEM EXEMPTED FROM CERTAIN PROVISIONS OF THE ACT:

This system is exempt under subsections (k)(1), (k)(2), and (k)(5) of the Privacy Act, to the extent that information within the System meets the criteria of those subsections of the Act. Such information has been exempted from the provisions of subsections (c)(3), (d), and (e)(1) of the Act; see the Department's Privacy Act regulation at Title 10, Code of Federal Regulations, Part 1008.

DOE-50

SYSTEM NAME:

Human Reliability Program Records.

SECURITY CLASSIFICATION:

Unclassified.

SYSTEM LOCATION(S):

U.S. Department of Energy, Headquarters, 1000 Independence Avenue, SW., Washington, DC 20585.

U.S. Department of Energy, NNSA Service Center Albuquerque, P.O. Box 5400, Albuquerque, NM 87185-5400.

U.S. Department of Energy, Office of Science, Chicago Office, 9800 South Cass Avenue, Argonne, IL 60439.

U.S. Department of Energy, Idaho Operations Office, 1955 Fremont Avenue, Idaho Falls, ID 83415.

U.S. Department of Energy, Office of Science, Oak Ridge Office, P.O. Box 2001, Oak Ridge, TN 37831.

U.S. Department of Energy, Richland Operations Office, P.O. Box 550, Richland, WA 99352.

U.S. Department of Energy, Savannah River Operations Office, P.O. Box A, Aiken, SC 29801.

U.S. Department of Energy, NNSA Naval Reactors Field Office, Pittsburgh Naval Reactors Office, P.O. Box 109, Pittsburgh, PA 15122-0109.

U.S. Department of Energy, NNSA Naval Reactors Field Office, Schenectady Naval Reactors Office, P.O. Box 1069, Schenectady, NY 12301.

U.S. Department of Energy, NNSA Amarillo Site Office (Pantex), P.O. Box 30030, Amarillo, TX 79120.

U.S. Department of Energy, NNSA Kansas City Site Office, 2000 E 9th Street, Kansas City, MO 64141-3202.

U.S. Department of Energy, NNSA Livermore Site Office, P.O. Box 808, Livermore, CA 94551.

U.S. Department of Energy, NNSA Los Alamos Site Office, 528 35th Street, Los Alamos, NM 89193-8518.

U.S. Department of Energy, NNSA Nevada Site Office, P.O. Box 98518, Las Vegas, NV 89193-8518.

U.S. Department of Energy, NNSA Office of Secure Transportation, NA-121, P.O. Box 5400, Albuquerque, NM 87185-5400.

U.S. Department of Energy, NNSA Sandia Site Office, P.O. Box 5800, Albuquerque, NM 87115.

U.S. Department of Energy, NNSA Y-12 Site Office, P.O. Box 2050, Oak Ridge, TN 37831-8009.

CATEGORIES OF INDIVIDUALS COVERED BY THE SYSTEM:

Department of Energy, including National Nuclear Security Administration, and contractor employees performing work that affords both technical knowledge and access to assembled nuclear explosives or certain nuclear weapon components and assigned to, or applying for a position that: (1) Affords access to Category I Special Nuclear Material (SNM) or has responsibility for transportation or protection of Category I quantities of SNM; (2) involves nuclear explosive duties or has responsibility for working with, protecting, or transporting nuclear explosives, nuclear devices, or selected components; (3) affords access to information concerning vulnerabilities in protective systems when transporting nuclear explosives, nuclear devices, selected components, or Category I quantities of SNM; or (4) affords the potential to significantly impact national security or cause unacceptable damage and has been approved as an HRP position.

CATEGORIES OF RECORDS IN THE SYSTEM:

Results of medical examination; employment review; credit/consumer reports; data pertaining to access authorizations (clearances); training records pertaining to individual's duties involving assembled nuclear explosives or certain nuclear weapon components; employee name; department division; job title; L-code (mail code); telephone number; pager number; employee number; and social security number; Acknowledgement and Agreement to Participate in the Human Reliability Program (HRP) Form; Authorization and Consent to Release Human Reliability Program (HRP) Records in Connection with HRP Form; Refusal of Consent Form; Human Reliability Program (HRP) Alcohol Testing Form; Human Reliability Program (HRP) Certification Form; random alcohol testing results; drug test results and information related to substance abuse; results from the Office of Hearings and Appeals relating to a safety certification issue; psychological evaluations; and polygraph results.

AUTHORITY FOR MAINTENANCE OF THE SYSTEM:

41 U.S.C. 2165; 42 U.S.C. 2201; 42 U.S.C. 5814-5815; 42 U.S.C. 7101 et seq.; 50 U.S.C. 2401 et seq.; E.O. 10450, 3 CFR 1949-1953 as amended; E.O. 10865, 3 CFR 1959-1963, as amended; and 10 CFR 712, Personnel Assurance Program.

PURPOSE(S):

For those records described in Categories of Records in the System, such records are maintained and used by the Department to ensure that individuals assigned to nuclear explosive duties do not have emotional, mental, or physical incapacities that could result in a threat to nuclear explosive safety. This is done through a continuous evaluation process that identifies individuals whose judgment or reliability may be impaired by physical or mental/personality disorders, alcohol abuse, use of illegal drugs or the abuse of legal drugs or other substances, or any condition or circumstance that may be a security or safety concern.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to (1) persons representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who are acting in an official capacity, or in any individual capacity where the Department or other United States Government agency has agreed to represent the employee.

3. A record from this system of records may be disclosed to a federal agency, in response to its written request, to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from the system may be disclosed as a routine use to the appropriate local, state or federal agency when records alone or in conjunction with other information, indicate a violation or potential violation of law whether civil, criminal, or regulatory in nature, and whether arising by general statute or particular program pursuant thereto.

5. A record from this system of records may be disclosed to a member of Congress submitting a request involving the constituent when the constituent has requested assistance from the member with respect to the subject matter of the record. The member of Congress must provide a copy of the constituent's request for assistance.

6. A record from the system may be disclosed as a routine use to DOE contractors in performance of their contracts, and their officers and employees who have a need for the record in the performance of their duties. Those provided information under this routine use are subject to the same limitations applicable to Department officers and employees under the Privacy Act.

7. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper files and electronic media.

RETRIEVABILITY:

Records are retrieved by name, social security number and/or employee number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Chief, Health, Safety and Security Officer, Office of Health, Safety and Security, U.S. Department of Energy, 1000 Independence Avenue, SW., Washington, DC 20585.

Field Offices: The HRP certifying official, or his or her designee of the “System Locations” listed above are the system managers for their respective portions of this system.

NOTIFICATION PROCEDURES:

In accordance with the DOE regulation implementing the Privacy Act, at 10 CFR Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The individual, medical records, occupational training records, and HRP program and personnel security records. Information also may be obtained from the supervisor, site occupational medical director, and the management official when completing the Human Reliability Program Certification.

SYSTEM EXEMPTED FROM CERTAIN PROVISIONS OF THE ACT:

None.

DOE-51

SYSTEM NAME:

Employee and Visitor Access Control Records.

SECURITY CLASSIFICATION:

Unclassified.

SYSTEM LOCATION(S):

U.S. Department of Energy, Headquarters, 1000 Independence Avenue, SW., Washington, DC 20585.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Amarillo Site Office, Highway 60 FM2373, Amarillo, TX 79177.

U.S. Department of Energy, Carlsbad Field Office, P.O. Box 3090, Carlsbad, NM 88221.

U.S. Department of Energy, Office of Science, Chicago Office, 9800 South Cass Avenue, Argonne, IL 60439.

U.S. Department of Energy, Idaho Operations Office, 1955 Fremont Avenue, Idaho Falls, ID 83415.

U.S. Department of Energy, NNSA Kansas City Site Office, 2000 E. 95th Street, Kansas City, MO 64141-3202.

U.S. Department of Energy, NNSA Nevada Site Office, P.O. Box 98518, Las Vegas, NV 89193-8518.

U.S. Department of Energy, NNSA Sandia Site Office, Pennsylvania & H Street, Albuquerque, NM 87185-5400.

U.S. Department of Energy, NNSA Los Alamos Site Office, 528 35th Street, Los Alamos, NM 87544.

U.S. Department of Energy, Office of Science, Oak Ridge Office, P.O. Box 2001, Oak Ridge, TN 37831.

U.S. Department of Energy, Environmental Management Consolidated Business Center (EMCBC), 250 E. Fifth Street, Cincinnati, OH 45202.

U.S. Department of Energy, Richland Operations Office, P.O. Box 550, Richland, WA 99352.

U.S. Department of Energy, Savannah River Operations Office, P.O. Box A, Aiken, SC 29801.

CATEGORIES OF INDIVIDUALS COVERED BY THE SYSTEM:

DOE including National Nuclear Security Administration (NNSA) employees, DOE and NNSA contractor employees and other individuals seeking access to DOE facilities and classified records.

CATEGORIES OF RECORDS IN THE SYSTEM:

Records of individuals visiting DOE facilities, employees' identification files, and photographs.

AUTHORITY FOR MAINTENANCE OF THE SYSTEM:

42 U.S.C. 7101 et seq. and 50 U.S.C. 2401 et seq.

PURPOSE(S):

For those records described in Categories of Records in the System, such records are maintained and used by the Department to track and control individuals accessing Departmental facilities and classified information areas.

ROUTINE USES OF RECORDS MAINTAINED IN THE SYSTEM, INCLUDING CATEGORIES OF USERS AND THE PURPOSES OF SUCH USES:

1. A record from the system may be disclosed as a routine use to the appropriate local, state or federal agency when records alone or in conjunction with other information, indicates a violation or potential violation of law whether civil, criminal, or regulatory in nature, and whether arising by general statute or particular program pursuant thereto.

2. A record from this system of records may be disclosed to a member of Congress submitting a request involving the constituent when the constituent has requested assistance from the member with respect to the subject matter of the record. The member of Congress must provide a copy of the constituent's request for assistance.

3. A record from the system may be disclosed as a routine use to DOE contractors in performance of their contracts, and their officers and employees who have a need for the record in the performance of their duties. Those provided information under this routine use are subject to the same limitations applicable to Department officers and employees under the Privacy Act.

4. Records from this system may be disclosed to Department of Defense contractors and National Aeronautics and Space Administration to authorize access to classified information and areas.

5. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper files and electronic media.

RETRIEVABILITY:

Records are retrieved by name and/or social security number.

SAFEGUARDS:

Paper records are maintained in locked cabinets and desks. Electronic records are controlled through established DOE computer center procedures (personnel screening and physical security), and they are password protected. Passwords are known only by the system manager. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office Security Operations, U.S. Department of Energy, 1000 Independence Avenue, SW., Washington, DC 20585.

Field Offices: The Security Officers of the “System Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Subject individual, Department of Defense, DOE offices and contractors, National Aeronautics and Space Administration, and other Government agencies.

SYSTEM EXEMPTED FROM CERTAIN PROVISIONS OF THE ACT:

None.

DOE-52

SYSTEM NAME:

Access Control Records of International Visits, Assignments, and Employment at DOE Facilities and Contractor Sites.

SECURITY CLASSIFICATION:

Classified and Unclassified.

SYSTEM LOCATION(S):

The centralized data system is located at NNSA Los Alamos National Laboratories.

U.S. Department of Energy, Headquarters, Office of Security and Emergency Operations, Office of Foreign Visits and Assignments, 1000 Independence Avenue, Washington DC 20585.

U.S. Department of Energy, Albany Research Center 1450 Queen Avenue, SW., Albany, OR 97321.

U.S. Department of Energy, NNSA Service Center Albuquerque, P.O. Box 5400, Albuquerque, NM 87185-5400.

U.S. Department of Energy, Amarillo Site Office, Highway 60 FM 2373, Amarillo, TX 79120.

U.S. Department of Energy, Bonneville Power Administration, P.O. Box 3621, Portland, OR 97232.

U.S. Department of Energy, Carlsbad Field Office, P.O. Box 3090, Carlsbad, NM 88221.

U.S. Department of Energy, Office of Science, Chicago Office, 9800 South Cass Avenue, Argonne, IL 60439.

U.S. Department of Energy, Dayton Area Office, P.O. Box 66, Miamisburg, OH 45342-0066.

U.S. Department of Energy, Environmental Measurements Laboratory, 201 Varick Street, 5th Floor, New York, NY, 10014-4811.

U.S. Department of Energy, Fernald Field Office, 7400 Willey Road, Cincinnati, OH 45030.

U.S. Department of Energy, Golden Field Office, 1617 Cole Boulevard, Golden, CO 80401.

U.S. Department of Energy, Grand Junction Office 2597 V 3/4th Road, Grand Junction, CO 81503.

U.S. Department of Energy, General Atomics, P.O. Box 85608, San Diego, CA 92186.

U.S. Department of Energy, Hanford Environmental Health Foundation, 3080 George Washington Way, Richland, WA 99352.

U.S. Department of Energy, Idaho National Engineering Laboratory, 850 Energy Drive, Idaho Falls, ID 83401.

U.S. Department of Energy, Idaho Operations Office, 1955 Fremont Avenue, Idaho Falls, ID 83415.

U.S. Department of Energy, NNSA Kansas City Site Office, 2000 E. 95th Street, Kansas City, MO 64141-3202.

U.S. Department of Energy NNSA Sandia Site Office, Pennsylvania & H Street, Albuquerque, NM.

U.S. Department of Energy, NNSA Lawrence Berkeley Laboratory, 1 Cyclotron Road Berkeley, CA 94720.

U.S. Department of Energy, NNSA Livermore Site Office, 700 East Avenue, P.O. Box 808, L-1, Livermore, CA 94551.

U.S. Department of Energy, NNSA Los Alamos Site Office, 528 35th Street, Los Alamos, NM 87544.

U.S. Department of Energy, NNSA Los Alamos National Laboratory, University of California, SM #30 Bikini Road, Los Alamos, NM 87545.

U.S. Department of Energy, Miamisburg Area Office, 1 Mound Road, Miamisburg, OH 45342.

U.S. Department of Energy, National Energy Technology Center (Pittsburgh), P.O. Box 10940, 626 Corchans Mill Road, Pittsburgh, PA 15236.

U.S. Department of Energy, National Renewable Energy Laboratory Area Office,1617 Cole Blvd., Golden, CO 80401.

U.S. Department of Energy, NNSA Nevada Site Office, P.O. Box 98518, Las Vegas, NV 89193-8518.

U.S. Department of Energy, Oak Ridge National Laboratory, Bethel Valley Road, Oak Ridge, TN, 37831.

U.S. Department of Energy, Office of Science, Oak Ridge Office, P.O. Box 2001, Oak Ridge, TN 37831.

U.S. Department of Energy, Environmental Management Consolidated Business Center, (EMCBC), 250 E. Fifth Street, Suite 500, Cincinnati, OH 45202.

U.S. Department of Energy, Pacific Northwest National Laboratory, 902 Battelle Boulevard P.O. Box 999, Richland, WA 99352.

U.S. Department of Energy, Richland Operations Office, P.O. 550, Richland, WA 99352.

U.S. Department of Energy, Savannah River Operations Office, P.O. Box A, Aiken, SC 29801.

U.S. Department of Energy, Scientific and Technical Information, 175 Oak Ridge Turnpike, Oak Ridge, TN 37830.

U.S. Department of Energy, Stanford Linear Accelerator Center, 2575 Sand Hill Road, Menlo Park, CA 94205.

U.S. Department of Energy, Strategic Petroleum Reserve Project Management Office, 900 Commerce Road East New Orleans, LA 70123.

U.S. Department of Energy, Thomas Jefferson National Accelerator Facility, 12000 Jefferson Avenue, Newport News, VA 23606.

U.S. Department of Energy, University of Rochester, 250 East River Road, Rochester, NY 14623.

U.S. Department of Energy, Waste Isolation Pilot Plant, 4021 National Parks Highway, Carlsbad, NM 88220.

U.S. Department of Energy, West Valley Project Office, P.O. Box 191, West Valley, NY 14171.

U.S. Department of Energy, Western Area Power Administration, P.O. Box 281213, Lakewood, CO 80228-8213.

CATEGORIES OF INDIVIDUALS COVERED BY THE SYSTEM:

All non-U.S. citizens seeking access to DOE facilities, laboratories, contractor sites, or DOE including National Nuclear Security Administration (NNSA) sponsored events for unclassified purposes to include employees of DOE or DOE contractors; prospective DOE or DOE contractor employees; employees of other U.S. Government agencies or their contractors of universities, of companies (professional or service staff), or of other institutions; foreign students at U.S. institutions; officials or other persons employed by foreign governments or other foreign institutions who may or may not be involved in cooperation under international agreements; permanent resident aliens; representatives or agents of foreign national governments seeking access to DOE facilities, laboratories, or contractor sites or DOE-sponsored events for purposes of high-level protocol; national security; International Atomic Energy Agency, or international relations.

CATEGORIES OF RECORDS IN THE SYSTEM:

Personal data: Full name (including Also Known As (A.K.A.'s), visitor request number, gender, place of birth, city and country, date of birth, country(ies) of citizenship, date of last visit to country of citizenship, passport number and passport, expiration date, immigration status, type of visa and expiration date, country of current residence and how long at current residence, language interpretation needs, work phone, e-mail and fax, name of current employer, place of work, street, city, state, zip code, country; position title or description of requesters duties. Visit/Assignment Request Information: Date of request, purpose of request (including subjects to be discussed or researched and specific activities involved); requesters current whereabouts, (i.e., is proposed visitor currently in the US), specific visa status and purpose, (i.e., exchange visitor (J-1) Visa), time duration of proposed visit, assignment or activity (desired start and end dates), identification of specific international agreement(s) or delegations related to the proposed request, name, organization, telephone number of DOE contact, name of financial sponsor, cost if sponsor is other than DOE. Visit/Assignment Facility Information: Name, location and room number of facility or organization to be accessed during visit/assignment, name of the host responsible for the visit/assignment, host's telephone number, building and room numbers, number of days on site, visit assignment relationship to program, subject codes, subjects to be discussed or statement of research, determination of computer access, and sensitive subject designation. Visit/Assignment Program Information and Remark: Designation of high level protocol visit, cost to DOE, visit or assignment purpose code, purpose and justification of visit assignment including benefits to DOE program(s) and certification of DOE mission advancement, technology transfer determination, name of requesting official or contractor, title and organization of requesting officer, signature of requesting official or contractor, date signed, name of site manager and local headquarters approving official, title and organization of local headquarters approving official, signature(s) of site field, headquarters approving official, date signed and remarks, the kind of business or organization of assignee's employer (e.g. government, company, Laboratory, university), education background of requestor including college or university training with degrees and dates conferred; field of research, and family members who will accompany or join the applicant later). Management Reviews and Approvals: Level, type or topic of review, name of reviewer and or approval authority(ies), the date of the review approval, and remarks.

AUTHORITY FOR MAINTENANCE OF THE SYSTEM:

42 U.S.C. 7101 et seq. and 50 U.S.C. 2401 et seq.

PURPOSE(S):

For those records described in Categories of Records in the System, such records are maintained and used by the Department to document, track, manage, analyze, and or report on foreign visit and assignment access to DOE facilities including Headquarters, Field Offices, National Laboratories, and Contractor Sites.

ROUTINE USES OF RECORDS MAINTAINED IN THE SYSTEM, INCLUDING CATEGORIES OF USERS AND THE PURPOSES OF SUCH USES:

1. A records from this system may be disclosed as a routine use to Department of Defense contractors responsible for security controlling access to sensitive information and sensitive equipment, and sensitive property areas.

2. A record from this system may be disclosed as a routine use to contractors, grantees, participants in cooperative agreements, collaborating researchers, or their employees, in performance of national security, international visit and assignment, or foreign access related responsibilities.

3. A record from the system may be disclosed as a routine use to a federal, state, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, state or federal agency when records alone or in conjunction with other information, indicates a violation or potential violation of law whether civil, criminal, or regulatory in nature, and whether arising by general statute or particular program pursuant thereto.

6. A record from this system of records may be disclosed to a member of Congress submitting a request involving the constituent when the constituent has requested assistance from the member with respect to the subject matter of the record. The member of Congress must provide a copy of the constituent's request for assistance.

7. A record from this system of records may be disclosed to foreign governments or international organizations in accordance with treaties, international conventions, or executive agreements.

8. A record from the system may be disclosed as a routine use to DOE contractors in performance of their contracts, and their officers and employees who have a need for the record in the performance of their duties. Those provided information under this routine use are subject to the same limitations applicable to Department officers and employees under the Privacy Act.

9. A record from this system of records may be disclosed as a routine use to members of the DOE Advisory committees and interagency boards charged with responsibilities pertaining to international visits and assignments and/or national security.

10. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records, microfiche, and electronic media.

RETRIEVABILITY:

Records are retrieved by name and/or other personal identifiers.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters, Director, Office of Security Operations, U.S. Department of Energy, 1000 Independence Avenue, Washington, DC 20585.

Field Offices: The Security Directors of the “System Locations” listed above are system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Foreign national individuals requesting access to DOE facilities including contractor sites, reports from federal investigation agencies, DOE Office of Counterintelligence, Department of State, Department of Defense, and Immigration and Naturalization Service.

SYSTEM EXEMPTED FROM CERTAIN PROVISIONS OF THE ACT:

None.

DOE-53

SYSTEM NAME:

Access Authorization for ADP Equipment.

SECURITY CLASSIFICATION:

Unclassified.

SYSTEM LOCATION(S):

U.S. Department of Energy, Headquarters, Energy Information Administration, 1000 Independence Avenue, SW., Washington, DC 20585.

CATEGORIES OF INDIVIDUALS COVERED BY THE SYSTEM:

Users of the Energy Information Administration computer system, including DOE and National Nuclear Security Administration employees and contractor employees and other authorized users of the system.

CATEGORIES OF RECORDS IN THE SYSTEM:

Name, employer, citizenship, user identification number, office address and telephone number, organizational code, computer usage figures, data accessed, and other management-related information.

AUTHORITY FOR MAINTENANCE OF THE SYSTEM:

42 U.S.C. 7101 et seq.; 50 U.S.C. 2401 et seq.; OMB Circular A-71; Department of Commerce Federal Information Processing Standards Publications (FIPS PUBS) on computer security; GSA Procurement Regulations Amendment 155, adding Section 1-1.327.

PURPOSE(S):

For those records described in Categories of Records in the System, such records are maintained and used by the EIA to identify EIA computer users and control access to EIA computer and information resources. The information is frequently reviewed and updated to ensure records are current and accurate.

ROUTINE USES OF RECORDS MAINTAINED IN THE SYSTEM, INCLUDING CATEGORIES OF USERS AND THE PURPOSES OF SUCH USES:

1. A record from the system may be disclosed as a routine use to DOE contractors in performance of their contracts, and their officers and employees who have a need for the record in the performance of their duties. Those provided information under this routine use are subject to the same limitations applicable to Department officers and employees under the Privacy Act.

2. A record from this system of records may be disclosed to a member of Congress submitting a request involving the constituent when the constituent has requested assistance from the member with respect to the subject matter of the record. The member of Congress must provide a copy of the constituent's request for assistance.

3. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as electronic media.

RETRIEVABILITY:

Records are retrieved by name and/or user identification number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Administrator, Energy Information Administration, U.S. Department of Energy, 1000 Independence Avenue, SW., Washington, DC 20585.

NOTIFICATION PROCEDURES:

In accordance with the DOE regulation implementing the Privacy Act, at Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notification Procedures above. Records are generally kept at location where the work is performed. In accordance with the DOE Privacy Act regulation, proper identification is required before a request is processed.

CONTESTING RECORD PROCEDURES:

Same as Notification Procedures above.

RECORD SOURCE CATEGORIES:

Subject individual, with some information assigned by the ITG Staff.

SYSTEM EXEMPTED FROM CERTAIN PROVISIONS OF THE ACT:

None.

DOE-54

SYSTEM NAME:

Investigation Files of the Inspector General.

SECURITY CLASSIFICATION:

Unclassified and classified.

SYSTEM LOCATION(S):

U.S. Department of Energy, Headquarters, Forrestal Building, 1000 Independence Avenue, SW., Washington, DC 20585.

CATEGORIES OF INDIVIDUALS COVERED BY THE SYSTEM:

Subjects of an investigation, witnesses in an investigation, sources of investigative information, investigative personnel, and DOE employees including National Nuclear Security Administration employees and other individuals involved in an Office of Inspector General investigation.

CATEGORIES OF RECORDS IN THE SYSTEM:

Criminal, civil, and administrative investigative records and files.

AUTHORITY FOR MAINTENANCE OF THE SYSTEM:

42 U.S.C. 7101 et seq.; 50 U.S.C. 2401 et seq.; The Inspector General Act of 1978, as amended, 5 U.S.C. App. 3.

PURPOSE(S):

For those records described in Categories of Records in the System, such records are maintained and used by the Department in furtherance of the responsibilities of the Inspector General. These responsibilities include conducting and supervising investigations relating to Departmental programs and operations; promoting economy, efficiency, and effectiveness in the administration of such programs and operations, and preventing and detecting fraud and abuse in such programs and operations. The records are used in investigations of individuals and entities suspected of having committed illegal or unethical acts. The records also are used in any resulting criminal prosecutions, civil proceedings, or administrative actions.

ROUTINE USES OF RECORDS MAINTAINED IN THE SYSTEM, INCLUDING CATEGORIES OR USERS AND PURPOSES OF SUCH USES:

1. A record from this system may be disclosed as a routine use for the purpose of an investigation, settlement of claims, or the preparation and conduct of litigation to (1) persons representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a federal, state, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a federal agency, in response to its written request, to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, state or federal agency when records alone or in conjunction with other information, indicates a violation or potential violation of law whether civil, criminal, or regulatory in nature, and whether arising by general statute or particular program pursuant thereto.

6. A record from this system of records may be disclosed to a member of Congress submitting a request involving the constituent when the constituent has requested assistance from the member with respect to the subject matter of the record. The member of Congress must provide a copy of the constituent's request for assistance.

7. A record from this system of records may be disclosed to foreign governments or international organizations in accordance with treaties, international conventions, or executive agreements.

8. A record from the system may be disclosed as a routine use to DOE contractors in performance of their contracts, and their officers and employees who have a need for the record in the performance of their duties. Those provided information under this routine use are subject to the same limitations applicable to Department officers and employees under the Privacy Act.

9. A record from this system of records may be disclosed as a routine use to authorized officials within Offices of Inspectors General listed in the Inspector General Act of 1978, the Department of Justice, the Federal Bureau of Investigation, or the U.S. Marshals Service, as necessary, for investigative qualitative assessment reviews.

10. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper and electronic media.

RETRIEVABILITY:

Records are retrieved by name of subject(s), case number, title of investigative report, name of complainant, name of subject(s), and/or names of witnesses.

SAFEGUARDS:

Paper records are maintained in locked cabinets and desks. Electronic records are controlled through established DOE computer center procedures (personnel screening and physical security), and they are password protected. Classified information is maintained in locked General Services Administration approved class 6 security containers. Access is limited to those whose official duties require access to the records.

RETENTION AND DISPOSAL:

Records retention and disposal authorities are contained in the National Archives and Records Administration (NARA) General Records Schedule and DOE record schedules that have been approved by NARA.

SYSTEM MANAGER(S) AND ADDRESS:

Assistant Inspector General for Investigations, U.S. Department of Energy, Headquarters, 1000 Independence Avenue, SW., Washington, DC 20585.

NOTIFICATION PROCEDURES:

In accordance with the DOE regulation implementing the Privacy Act, at Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Subject individuals; individuals and organizations that have pertinent knowledge about the subject; those authorized by the individual to furnish information; confidential informants; the Department of Justice; Federal Bureau of Investigation (FBI); and other Federal, State, and local agencies.

SYSTEM EXEMPTED FROM CERTAIN PROVISIONS OF THE ACT:

This system is exempt under (j)(2) of the Privacy Act to the extent that the information within the system meets the criteria of those subsections of the Act. Such information has been exempted from the provisions of subsections: (c)(3) and (4), (d)(1), (2), (3), and (4), (e)(1), (2), and (3), (e)(4)(G) and (H), (e)(5) and (8), (f), (g) of the Act; see the Department's Privacy Act regulation at Title 10, Code of Federal Regulations, Part 1008.

This system is exempt under (k)(1), (k)(2), and (k)(5) of the Privacy Act, to the extent that information within the System meets the criteria of those subsections of the Act. Such information has been exempted from the provisions of subsections (c)(3), (d), and (e)(1), (e)(4)(G), (H) and (f) of the Act; see the Department's Privacy Act regulation at Title 10, Code of Federal Regulations, Part 1008.

DOE-55

SYSTEM NAME:

Freedom of Information and Privacy Act (FOIA/PA) Requests for Records.

SECURITY CLASSIFICATION:

Unclassified.

SYSTEM LOCATION(S):

U.S. Department of Energy Headquarters, 1000 Independence Avenue, SW., Washington, DC 20585.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Bonneville Power Administration, P.O. Box 3621, Portland, OR 97208.

U.S. Department of Energy, Office of Science, Chicago Office, 9800 South Cass Avenue, Argonne, IL 60439.

U.S. Department of Energy, Grand Forks Energy Technology Center, P.O. Box 8213, University Station, Grand Forks, ND 58201.

U.S. Department of Energy, Idaho Operations Office, 1955 Fremont Avenue, Idaho Falls, ID 83415.

U.S. Department of Energy, National Energy Technology Laboratory (Morgantown), 3610 Collins Ferry Road, Morgantown, WV 26507-0940.

U.S. Department of Energy, National Energy Technology Laboratory (Pittsburgh), P.O. Box 10940, 626 Cochrans Mill Road, Pittsburgh, PA 15236.

U.S. Department of Energy, NNSA Nevada Site Office, P.O. Box 98518, Las Vegas, NV 89193-8518.

U.S. Department of Energy, Office of Science, Oak Ridge Office, P.O. Box 2001, Oak Ridge, TN 37831.

U.S. Department of Energy, Environmental Management Consolidated Business Center (EMCBC), 250 E. Fifth Street, Suite 500, Cincinnati, OH 45202.

U.S. Department of Energy, Richland Operations Office, P.O. Box 550, Richland, WA 99352.

U.S. Department of Energy, Savannah River Operations Office, P.O. Box A, Aiken, SC 29801.

U.S. Department of Energy, Southeastern Power Administration, 1166 Athens Tech Road, Elberton, GA 30635-6711.

U.S. Department of Energy, Southwestern Power Administration, Williams Tower One, One West Third Street, Tulsa, OK 74103.

U.S. Department of Energy, Western Area Power Administration, P.O. Box 281213, Lakewood, CO 80228-8213.

CATEGORIES OF INDIVIDUALS COVERED BY THE SYSTEM:

Individuals requesting copies of records from DOE including the National Nuclear Security Administration (NNSA) under the provisions of the FOIA and the Privacy Act (PA) of 1974.

CATEGORIES OF RECORDS IN THE SYSTEM:

Name, address, and telephone number; description or identification of records requested, furnished and/or denied; FOIA and PA division employee assigned responsibility for processing request; dates of request and actions; interim and final actions taken on request; persons or offices assigned actions on requests; copy of records requested, furnished and/or denied; fee data, including payment delinquencies; final determinations of appeals; name/title of officials responsible for denial of records; and case notes.

AUTHORITY FOR MAINTENANCE OF THE SYSTEM:

42 U.S.C. 7101 et seq.; 50 U.S.C. 2401 et seq.; Freedom of Information Act 5 U.S.C. 552, and the Privacy Act of 1974, 5 U.S.C. 552a.

PURPOSE(S):

For those records described in Categories of Records in the System, such records are maintained and used by the Department to record, control, and determine the status of FOIA and PA requests; produce statistical reports; and as a data source for management information.

ROUTINE USES OF RECORDS MAINTAINED IN THE SYSTEM, INCLUDING CATEGORIES OF USERS AND THE PURPOSE OF SUCH USES:

1. A record from this system of records may be disclosed to another federal agency when consultation or referral is required to process requests.

2. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from this system of records may be disclosed to a member of Congress submitting a request involving the constituent when the constituent has requested assistance from the member with respect to the subject matter of the record. The member of Congress must provide a copy of the constituent's request for assistance.

4. A record from the system may be disclosed as a routine use to DOE contractors in performance of their contracts, and their officers and employees who have a need for the record in the performance of their duties. Those provided information under this routine use are subject to the same limitations applicable to Department officers and employees under the Privacy Act.

5. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper, microfiche, video, audio, and electronic media.

RETRIEVABILITY:

Records are retrieved by name of requester and/or assigned request control number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Freedom of Information Act and Privacy Act Office, Office of Information Resources, U.S. Department of Energy, 1000 Independence Avenue, SW., Washington, DC 20585.

Field Offices: The Freedom of Information Act and Privacy Act Officers of the “Systems Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification procedures above.

RECORD SOURCE CATEGORIES:

Individuals requesting copies of records and individuals responsible for processing and/or making determination on requests.

SYSTEMS EXEMPTED FROM CERTAIN PROVISIONS OF THE ACT:

None.

DOE-56

SYSTEM NAME:

Congressional Constituent Inquiries.

SECURITY CLASSIFICATION:

Unclassified.

SYSTEM LOCATION(S):

U.S. Department of Energy, Headquarters, 1000 Independence Avenue, SW., Washington, DC 20585; U.S. Department of Energy.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Bonneville Power Administration, P.O. Box 3621, Portland, OR 97208.

U.S. Department of Energy, Office of Science, Chicago Office, 9800 South Cass Avenue, Argonne, IL 60439.

U.S. Department of Energy, Idaho Operations Office, 1955 Fremont Avenue, Idaho Falls, ID 83415.

U.S. Department of Energy, National Energy Technology Laboratory (Morgantown), P.O. Box 880, Morgantown, WV 26505.

U.S. Department of Energy, National Energy Technology Laboratory (Pittsburgh), P.O. Box 10940, 626 Cochrans Mill Road, Pittsburgh, PA 15236.

U.S. Department of Energy, Office of Science, Oak Ridge Office, P.O. Box 2001, Oak Ridge, TN 37831.

U.S. Department of Energy, Environmental Management Consolidated Business Center (EMCBC), 250 E. Fifth Street, Cincinnati, OH 45202.

U.S. Department of Energy, Richland Operations Office, P.O. Box 550, Richland, WA 99352.

U.S. Department of Energy, Savannah River Operations Office, P.O. Box A, Aiken, SC 29801.

U.S. Department of Energy, Southeastern Power Administration, 1166 Athens Tech Road, Elberton, GA 30635-6711.

U.S. Department of Energy, Southwestern Power Administration, Williams Tower One, One West Third Street, Tulsa, OK 74103.

U.S. Department of Energy, Western Area Power Administration, P.O. Box 281213, Lakewood, CO 80228-8213.

CATEGORIES OF INDIVIDUALS COVERED BY THE SYSTEM:

Individuals who have requested assistance from their Congressional Representative, and the member of Congress who corresponded with the Department of Energy including the National Nuclear Security Administration on behalf of the constituent.

CATEGORIES OF RECORDS IN THE SYSTEM:

Name and address of constituent and date of letter by a member of Congress on behalf of the constituent; materials forwarded by a member of Congress; and DOE response.

AUTHORITY FOR MAINTENANCE OF THE SYSTEM:

42 U.S.C. 7101 et seq. and 50 U.S.C. 2401 et seq.

PURPOSE(S):

For those records described in Categories of Records in the System, such records are maintained and used by the Department to record Congressional inquiries on behalf of constituents, to ensure proper document control of the response, and to record the Department's responses to such inquiries.

ROUTINE USES OF RECORDS MAINTAINED IN THE SYSTEM, INCLUDING CATEGORIES OF USERS AND THE PURPOSES OF SUCH USES:

1. A record from this system may be disclosed as a routine use to another federal agency when consultation or referral is required to process requests.

2. A record from this system may be disclosed as a routine use for the purpose of an investigation, settlement of claims, or the preparation and conduct of litigation to (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

3. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

4. A record from the system may be disclosed as a routine use to the appropriate local, State or Federal agency when records alone or in conjunction with other information, indicates a violation or potential violation of law whether civil, criminal, or regulatory in nature, and whether arising by general statute or particular program pursuant thereto.

5. A record from this system of records may be disclosed to a member of Congress submitting a request involving the constituent when the constituent has requested assistance from the member with respect to the subject matter of the record. The member of Congress must provide a copy of the constituent's request for assistance.

6. A record from the system may be disclosed as a routine use to DOE contractors in performance of their contracts, and their officers and employees who have a need for the record in the performance of their duties. Those provided information under this routine use are subject to the same limitations applicable to Department officers and employees under the Privacy Act.

7. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic records.

RETRIEVABILITY:

Records are retrieved by name of constituent and/or name of member of Congress.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: The Executive Secretariat, U.S. Department of Energy, 1000 Independence Avenue, SW., Washington, DC 20585

Field Offices: The Managers or Directors of the “System Locations” listed above are the system managers for their respective portions of the system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Subject individual, member of Congress, and the author of the DOE response.

SYSTEMS EXEMPTED FROM CERTAIN PROVISIONS OF THE ACT:

None.

DOE-57

SYSTEM NAME:

Congressional Profiles.

SECURITY CLASSIFICATION:

Unclassified.

SYSTEM LOCATION(S):

U.S. Department of Energy, Headquarters, 1000 Independence Avenue, SW., Washington, DC 20585.

U.S. Department of Energy, Alaska Power Administration, San Point Way, NE., Seattle, WA 98115.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Bartlesville Energy Technology Center, P. O. Box 1398, Bartlesville, OK 74003.

U.S. Department of Energy, Bonneville Power Administration, P.O. Box 3621, Portland, OR 97208.

U.S. Department of Energy, Office of Science, Chicago Office, 9800 South Cass Avenue, Argonne, IL 60439.

U.S. Department of Energy, Grand Forks Energy Technology Center, P.O. Box 8213, University Station, Grand Forks, ND 58201.

U.S. Department of Energy, Idaho Operations Office, 1955 Fremont Avenue, Idaho Falls, ID 83415.

U.S. Department of Energy, NNSA Los Alamos Site Office, 528 35th Street, Los Alamos, NM 87544.

U.S. Department of Energy, National Energy Technology Laboratory (Morgantown), P.O. Box 880, Morgan town, WV 26505.

U.S. Department of Energy, National Energy Technology Laboratory (Pittsburgh), P.O. Box 10940, 626 Cochrans Mill Road, Pittsburgh, PA 15236.

U.S. Department of Energy, NNSA Nevada Site Office, P.O. Box 98518, Las Vegas, NV 89193-8518.

U.S. Department of Energy, Office of Science, Oak Ridge Office, P.O. Box 2001, Oak Ridge, TN 37831.

U.S. Department of Energy, Richland Operations Office, P.O. Box 550, Richland, WA 99352.

U.S. Department of Energy, Savannah River Operations, Office, P.O. Box A, Aiken, SC 29801

U.S. Department of Energy, Southeastern Power Administration, 1166 Athens Tech Road, Elberton, GA 30635-6711.

U.S. Department of Energy, Southwestern Power Administration, Williams Tower One, One West Third Street, Tulsa, OK 74103.

U.S. Department of Energy, Western Area Power Administration, P.O. Box 281213, Lakewood, CO 80228-8213.

CATEGORIES OF INDIVIDUALS COVERED BY THE SYSTEM:

Current members of Congress.

CATEGORIES OF RECORDS IN THE SYSTEM:

Name, picture from Congressional Yellow Book, personal background obtained from published sources, demographic information by state or district, committee assignments, and information about energy interests obtained from published sources, information from member's office, abstracts from Congressional Record, committee hearings and other public sources.

AUTHORITY FOR MAINTENANCE OF THE SYSTEM:

5 U.S.C. 301; Department of Energy Organization Act, including authorities incorporated by reference in Title III of the Department of Energy Organization Act; Executive Order 12009.

PURPOSE(S):

For those records described in Categories of Records in the System, such records are maintained and used by the Department to maintain biographical data on all members of Congress, including a list of their sensitive energy issues or energy related legislation.

ROUTINE USES OF RECORDS MAINTAINED IN THE SYSTEM, INCLUDING CATEGORIES OF USERS AND THE PURPOSES OF SUCH USES:

1. A record from this system of records may be disclosed to a member of Congress submitting a request involving the constituent when the constituent has requested assistance from the member with respect to the subject matter of the record. The member of Congress must provide a copy of the constituent's request for assistance.

2. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Assistant Secretary for Congressional and Intergovernmental Affairs, U.S. Department of Energy, 1000 Independence Avenue, SW., Washington, DC 20585.

Field Offices: The Managers or Directors of the “System Locations” listed above are the system managers for their respective portions of the system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

Published sources, committee hearings, and the members' offices.

SYSTEM EXEMPTED FROM CERTAIN PROVISIONS OF THE ACT:

None.

DOE-58

SYSTEM NAME:

General Correspondence Files of the Office of the Secretary, Deputy Secretary and Under Secretary of Energy.

SECURITY CLASSIFICATION:

Unclassified.

SYSTEM LOCATION(S):

U.S. Department of Energy, Headquarters, 1000 Independence Avenue, SW., Washington, DC 20585.

CATEGORIES OF INDIVIDUALS COVERED BY THE SYSTEM:

Members of Congress, representatives of organizations, and other federal and state agencies and the general public.

CATEGORIES OF RECORDS IN THE SYSTEM:

Name, address of correspondent, copies of correspondence from individuals, and copies of the agency response. This is the portion of DOE including National Nuclear Security Administration (NNSA) correspondence files that relates to correspondence with individuals.

AUTHORITY FOR MAINTENANCE OF THE SYSTEM:

42 U.S.C. 7101 et seq. and 50 U.S.C. 2401 et seq.

PURPOSE(S):

For those records described in Categories of Records in the System, such records are maintained and used by the Department to document and manage information from or to correspondents outside of DOE and to ensure proper document control of the DOE response.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to (1) persons representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to the appropriate local, state or federal agency when records alone or in conjunction with other information, indicates a violation or potential violation of law whether civil, criminal, or regulatory in nature, and whether arising by general statute or particular program pursuant thereto.

4. A record from this system of records may be disclosed to a member of Congress submitting a request involving the constituent when the constituent has requested assistance from the member with respect to the subject matter of the record. The member of Congress must provide a copy of the constituent's request for assistance.

5. A record from the system may be disclosed as a routine use to DOE contractors in performance of their contracts, and their officers and employees who have a need for the record in the performance of their duties. Those provided information under this routine use are subject to the same limitations applicable to Department officers and employees under the Privacy Act.

6. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name of correspondent or assigned control number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: The Executive Secretariat, U.S. Department of Energy, 1000 Independence Avenue, SW., Washington, DC 20585.

NOTIFICATION PROCEDURES:

In accordance with the DOE regulation implementing the Privacy Act, at Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notification Procedures above. Records are generally kept at locations where the work is performed. In accordance with DOE's Privacy Act regulation, proper identification is required before a request is processed.

CONTESTING RECORD PROCEDURES:

Same as Notification Procedures above.

RECORD SOURCE CATEGORIES:

Subject individuals and drafter of DOE response.

SYSTEM EXEMPTED FROM CERTAIN PROVISIONS OF THE ACT:

None.

DOE-59

SYSTEM NAME:

Mailing Lists for Requesters of Energy-Related Information.

SECURITY CLASSIFICATION:

Unclassified.

SYSTEM LOCATION(S):

U.S. Department of Energy, Headquarters, 1000 Independence Avenue, SW., Washington, DC 20585.

CATEGORIES OF INDIVIDUALS COVERED BY THE SYSTEM:

Persons requesting DOE energy-related information.

CATEGORIES OF RECORDS IN THE SYSTEM:

Name and address of the subject individual; some mailing lists may also indicate specific interests of publications requested by the individual.

AUTHORITY FOR MAINTENANCE OF THE SYSTEM:

5 U.S.C. 301; Department of Energy Organization Act, including authorities incorporated by reference in Title III of the Department of Energy Organization Act; Executive Order 12009.

PURPOSE(S):

For those records described in Categories of Records in the System, such records are maintained and used by the Department to distribute DOE related material to DOE employees, DOE contractors, and others requesting information from DOE.

ROUTINE USES OF RECORDS MAINTAINED IN THE SYSTEM, INCLUDING CATEGORIES OF USERS AND THE PURPOSES OF SUCH USES:

1. A record from the system may be disclosed as a routine use to DOE contractors in performance of their contracts, and their officers and employees who have a need for the record in the performance of their duties. Those provided information under this routine use are subject to the same limitations applicable to Department officers and employees under the Privacy Act.

2. A record from this system of records may be disclosed to a member of Congress submitting a request involving the constituent when the constituent has requested assistance from the member with respect to the subject matter of the record. The member of Congress must provide a copy of the constituent's request for assistance.

3. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records, microfiche and electronic media.

RETRIEVABILITY:

Records are retrieved by record identification and code number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: U.S. Department of Energy, Director, Print Media and Mail Services Group, 1000 Independence Avenue, SW., Washington, DC 20585.

NOTIFICATION PROCEDURES:

In accordance with the DOE regulation implementing the Privacy Act, at Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notification Procedures above. Records are generally kept at locations where the work is performed. In accordance with DOE's Privacy Act regulation, proper identification is required before a request is processed.

CONTESTING RECORD PROCEDURES:

Same as Notification Procedures above.

RECORD SOURCE CATEGORIES:

The subject individual, generally as the result of a request for information by that individual.

SYSTEM EXEMPTED FROM CERTAIN PROVISIONS OF THE ACT:

None.

DOE-60

SYSTEM NAME:

General Correspondence Files.

SECURITY CLASSIFICATION:

Unclassified.

SYSTEM LOCATION(S):

U.S. Department of Energy, Headquarters, 1000 Independence Avenue, SW., Washington, DC 20585.

U.S. Department of Energy, Headquarters, Germantown, 19901 Germantown Road, Germantown, MD 20585.

U.S. Department of Energy, NNSA Service Center Albuquerque, P.O. Box 5400, Albuquerque, NM 87185-5400.

U.S. Department of Energy, NNSA Naval Reactors Field Office, Schenectady Naval Reactors, P.O. Box 1069, Schenectady, NY 12301.

U.S. Department of Energy, Bonneville Power Administration, P.O. Box 3621, Portland, OR 97208.

U.S. Department of Energy, Office of Science, Chicago Office, 9800 South Cass Avenue, Argonne, IL 60439.

U.S. Department of Energy, Golden Field Office, 1617 Cole Boulevard, Golden, CO 80401.

U.S. Department of Energy, Idaho Operations Office, 1955 Fremont Avenue, Idaho Falls, ID 83415.

U.S. Department of Energy, National Energy Technology Laboratory (Morgantown), P.O. Box 880, Morgantown, WV 26507.

U.S. Department of Energy, National Energy Technology Laboratory (Pittsburgh), P.O. Box 10940, 626 Cochrans Mill Road, Pittsburgh, PA 15236.

U.S. Department of Energy, NNSA Nevada Site Office, P.O. Box 98518, Las Vegas, NV 89193-8518.

U.S. Department of Energy, Office of Naval Reactors, Crystal City, VA 22202.

U.S. Department of Energy, Office of Science, Oak Ridge Office, P.O. Box 2001, Oak Ridge, TN 37831.

U.S. Department of Energy, Environmental Management Consolidated Business Center (EMCBC), 250 E. Fifth Street, Suite 500, Cincinnati, OH 45202.

U.S. Department of Energy, Richland Operations Office, P.O. Box 550, Richland, WA 99352.

U.S. Department of Energy, Savannah River Operations Office, P.O. Box A, Aiken, SC 29801.

U.S. Department of Energy, Southeastern Power Administration, 1166 Athens Tech Road, Elberton, GA 30635-6711.

U.S. Department of Energy, Southwestern Power Administration, Williams Tower One, One West Third Street, Tulsa, OK 74103.

U.S. Department of Energy, Strategic Petroleum Reserve Project Management Office, 900 Commerce Road East, New Orleans, LA 70123.

U.S. Department of Energy, Western Area Power Administration, P.O. Box 281213, Lakewood, CO 80228-8213.

CATEGORIES OF INDIVIDUALS COVERED BY THE SYSTEM:

Individuals communicating with organizational elements of DOE.

CATEGORIES OF RECORDS IN THE SYSTEM:

Copies of general correspondence submitted to the Heads of the Departmental Program Offices and Heads of the Department Field Offices that may include name, address, telephone number, organization, date of birth, and supporting documentation, and copies of the agency response letters and documentation required to prepare the response.

AUTHORITY FOR MAINTENANCE OF THE SYSTEM:

42 U.S.C. 7101 et seq. and 50 U.S.C. 2401 et seq.

PURPOSE:

For those records described in Categories of Records in the System, such records are maintained and used by organizational elements of DOE to document and manage information from or to correspondents outside of DOE and to ensure proper document control of the DOE response.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to (1) persons representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to the appropriate local, state or federal agency when records alone or in conjunction with other information, indicate a violation or potential violation of law, whether civil, criminal, or regulatory in nature, and whether arising by general statute or particular program pursuant thereto.

4. A record from this system of records may be disclosed to a member of Congress submitting a request involving the constituent when the constituent has requested assistance from the member with respect to the subject matter of the record. The member of Congress must provide a copy of the constituent's request for assistance.

5. A record from the system may be disclosed as a routine use to DOE contractors in performance of their contracts, and their officers and employees who have a need for the record in the performance of their duties. Those provided information under this routine use are subject to the same limitations applicable to Department officers and employees under the Privacy Act.

6. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: The Office Directors for their respective offices.

Field Offices: The Managers and Directors of the “System Locations” listed above are the system managers for their respective portions of the system.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with DOE's Privacy Act regulation, proper identification is required before a request is processed.

CONTESTING RECORD PROCEDURES:

Same as Notification Procedures above.

RECORD SOURCE CATEGORIES:

Subject individuals and drafter of DOE response.

SYSTEM EXEMPTED FROM CERTAIN PROVISIONS OF THE ACT:

None.

DOE-61

SYSTEM NAME:

Census of High Energy Physicists.

SECURITY CLASSIFICATION:

Unclassified.

SYSTEM LOCATION(S):

U.S. Department of Energy, 19901 Germantown Road, Germantown, MD 20874-1290.

CATEGORIES OF INDIVIDUALS COVERED BY THE SYSTEM:

Scientists and graduate students in the field of high energy physics including DOE and National Nuclear Security Administration employees.

CATEGORIES OF RECORDS IN THE SYSTEM:

Name, date of birth, education, employment history, research activities, and technical specialties.

AUTHORITY FOR MAINTENANCE OF THE SYSTEM:

42 U.S.C. 7101 et seq. and 50 U.S.C. 2401 et seq.

PURPOSE(S):

For those records described in Categories of Records in the System, such records are maintained and used by the Department to provide a database for statistical and demographic studies of the high energy physics research community.

ROUTINE USES OF RECORDS MAINTAINED IN THE SYSTEM, INCLUDING CATEGORIES OF USERS AND THE PURPOSES OF SUCH USES:

1. A record from the system may be disclosed as a routine use to physicists, research organizations, and various Government organizations engaged in supporting physics research to obtain information for statistical and demographic purposes, on individuals and institutions engaged in high energy physics research.

2. A record from the system may be disclosed as a routine use to DOE contractors in performance of their contracts, and their officers and employees who have a need for the record in the performance of their duties. Those provided information under this routine use are subject to the same limitations applicable to Department officers and employees under the Privacy Act.

3. A record from this system of records may be disclosed to a member of Congress submitting a request involving the constituent when the constituent has requested assistance from the member with respect to the subject matter of the record. The member of Congress must provide a copy of the constituent's request for assistance.

4. A record from this system may be disclosed as a routine use when (1) it is suspected or confirmed that the security or confidentiality of information in the system of records has been compromised; (2) the Department has determined that as a result of the suspected or confirmed compromise there is a risk of harm to economic or property interests, identity theft or fraud, or harm to the security integrity of this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as electronic media.

RETRIEVABILITY:

Records are retrieved by name of individual.

SAFEGUARDS:

Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Associate Director for High Energy and Nuclear Physics, Office of Science, U.S. Department of Energy, 19901 Germantown Road, Germantown, MD 20874-1290.

NOTIFICATION PROCEDURES:

In accordance with the DOE regulation implementing the Privacy Act, Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

SYSTEM EXEMPTED FROM CERTAIN PROVISIONS OF THE ACT:

None.

DOE-62

SYSTEM NAME:

Historical Files—Published Information Concerning Selected Persons in the Energy Field.

SECURITY CLASSIFICATION:

Unclassified.

SYSTEM LOCATION(S):

U.S. Department of Energy, Headquarters, 1000 Independence Avenue, SW., Washington, DC 20585.

CATEGORIES OF INDIVIDUALS COVERED BY THE SYSTEM:

Selected senior staff officials of the Manhattan Project, Atomic Energy Commission, Nuclear Regulatory Commission, Energy Research and Development Administration, DOE including the National Nuclear Security Administration, and other selected individuals prominent in the energy field.

CATEGORIES OF RECORDS IN THE SYSTEM:

Name of selected person, newspaper and magazine articles, press releases, announcements, and speeches.

AUTHORITY FOR MAINTENANCE OF THE SYSTEM:

42 U.S.C. 7101 et seq. and 50 U.S.C. 2401 et seq.

PURPOSE(S):

For those records described in Categories of Records in the System, such records are maintained and used by the Department to record, historical records of the DOE and predecessor agencies, including the Atomic Energy Commission, Federal Energy Administration, and the Energy Research and Development Administration. Records are used to prepare histories in responding to informational inquiries from DOE officials and members of the public.

ROUTINE USES OF RECORDS MAINTAINED IN THE SYSTEM, INCLUDING CATEGORIES OF USERS AND THE PURPOSES OF SUCH USES:

1. A record from the system may be disclosed as a routine use to members of the public and the media when responding to requests for information.

2. A record from the system may be disclosed as a routine use to another federal agency when consultation or referral is required to process requests.

3. A record from the system may be disclosed as a routine use to DOE contractors in performance of their contracts, and their officers and employees who have a need for the record in the performance of their duties. Those provided information under this routine use are subject to the same limitations applicable to Department officers and employees under the Privacy Act.

4. A record from this system of records may be disclosed to a member of Congress submitting a request involving the constituent when the constituent has requested assistance from the member with respect to the subject matter of the record. The member of Congress must provide a copy of the constituent's request for assistance.

5. A record from this system may be disclosed as a routine use when (1) it is suspected or confirmed that the security or confidentiality of information in the system of records has been compromised; (2) the Department has determined that as a result of the suspected or confirmed compromise there is a risk of harm to economic or property interests, identity theft or fraud, or harm to the security integrity of this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records.

RETRIEVABILITY:

Records are retrieved by name.

SAFEGUARDS:

Paper records are maintained in locked cabinets and desks. Access is limited to those whose official duties require access to the records.

RETENTION AND DISPOSAL:

Records retention and disposal authorities are contained in the National Archives and Records Administration (NARA) General Records Schedule and DOE record schedules that have been approved by NARA.

SYSTEM MANAGER(S) AND ADDRESS:

Chief Historian, History and Heritage Resources, Office of the Executive Secretariat, U.S. Department of Energy, 1000 Independence Avenue, SW., Washington, DC 20585.

NOTIFICATION PROCEDURES:

In accordance with the DOE regulation implementing the Privacy Act, at Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

DOE press releases, DOE News Clips (a daily compilation of energy related newspaper and magazine articles), and other published sources.

SYSTEM EXEMPTED FROM CERTAIN PROVISIONS OF THE ACT:

None.

DOE-63

SYSTEM NAME:

Personal Identity Verification (PIV) Files.

SECURITY CLASSIFICATION:

Unclassified.

SYSTEM LOCATIONS/OFFICES:

U.S. Department of Energy, Headquarters, 1000 Independence Avenue, SW., Washington, DC 20585.

U.S. Department of Energy, Ames Site Office, 9800 S. Cass Avenue, Argonne, IL 60439.

U.S. Department of Energy, Ames Laboratory, 311 TASF, Ames, IA 50011-3020.

U.S. Department of Energy, Argonne Site Office, 9800 S. Cass Avenue, Argonne, IL 60439.

U.S. Department of Energy, Argonne National Laboratory, 9700 S. Cass Avenue, Argonne, IL 60439.

U.S. Department of Energy, Berkeley Site Office, 1 Cyclotron Road, Berkeley, CA 94720.

U.S. Department of Energy, NNSA Service Center, P.O. Box 5400, Albuquerque, NM 87185-5400.

U.S. Department of Energy, Bonneville Power Administration, P.O. Box 3621, Portland, OR 97208-3621.

U.S. Department of Energy, Brookhaven Site Office, 53 Bell Avenue, Building 464, Upton, NY 11973.

U.S. Department of Energy, Brookhaven National Laboratory, P.O. Box 5000, Upton, NY 11973-5000.

U.S. Department of Energy, Carlsbad Field Office, P.O. Box 3090, Carlsbad, NM 88221.

U.S. Department of Energy, Office of Science, Chicago Office, 9800 South Cass Avenue, Argonne, IL 60439.

U.S. Department of Energy, Environmental Management Consolidated Business Center, 250 E. 5th Street, Suite 500, Cincinnati, OH 45202.

U.S. Department of Energy, Fermi National Accelerator Laboratory, P.O. Box 500, Batavia, IL 60510-0500.

U.S. Department of Energy, Fermi Site Office, P.O. Box 2000, Batavia, IL 60510-0500.

U.S. Department of Energy, General Atomics, 3550 General Atomics Court, San Diego, CA 92121.

U.S. Department of Energy, Golden Field Office, 1617 Cole Boulevard, Golden, CO 80401.

U.S. Department of Energy, Grand Junction Office, 2597 B 3/4 Road, Grand Junction, CO 81503.

U.S. Department of Energy, Idaho National Laboratory, P.O. Box 1625, Idaho Falls, ID 83415.

U.S. Department of Energy, Idaho Operations Office, 1955 Fremont Avenue, Idaho Falls, ID 83415.

U.S. Department of Energy, Lawrence Berkeley National Laboratory, 1 Cyclotron Road, Berkeley, CA 94720.

U.S. Department of Energy, National Energy Technology Laboratory-ARC, 1450 Queen Avenue SW., Albany, OR 97321.

U.S. Department of Energy, National Energy Technology Laboratory-Fairbanks, 2175 University Avenue South, Suite 201, Fairbanks, AK 99709.

U.S. Department of Energy, National Energy Technology Laboratory (Morgantown), 3610 Collins Ferry Road, P.O. Box 880 Morgantown, WV 26507-0880.

U.S. Department of Energy, National Energy Technology Laboratory (Pittsburgh), P.O. Box 10940, 626 Cochrans Mill Road, Pittsburgh, PA 15236.

U.S. Department of Energy, National Energy Technology Laboratory (Tulsa), One West Third Street, Suite 1400 Tulsa, OK 74103-3519.

U.S. Department of Energy, NNSA Nevada Site Office, P.O. Box 98518, Las Vegas, NV 89193-8518.

U.S. Department of Energy, National Renewable Energy Laboratory Area Office, 1617 Cole Boulevard, Golden CO 80401.

U.S. Department of Energy, Oak Ridge Institute of Science and Education, 130 Badger Avenue, Oak Ridge, TN 37831.

U.S. Department of Energy, Oak Ridge National Laboratory, P.O. Box 2008, Oak Ridge, TN 37831.

U.S. Department of Energy, Office of Science, Oak Ridge Office, P.O. Box 2001, Oak Ridge, TN 37831.

U.S. Department of Energy, Pacific Northwest National Laboratory, P.O. Box 999, K1-46, Richland, WA 99352.

U.S. Department of Energy, Pacific Northwest Site Office, P.O. Box 350, MS K 8-50, Richland, WA 99354.

U.S. Department of Energy, Portsmouth/Paducah Project Office, 1017 Majestic Drive, Suite 200 Lexington KT 40513.

U.S. Department of Energy, Princeton Plasma Physics Laboratory, P.O. Box 451, Princeton, NJ 08543.

U.S. Department of Energy, Princeton Site Office, P.O. Box 102, Princeton, NJ 08042.

U.S. Department of Energy, Richland Operations Office, P.O. Box 550, Richland, WA 99352.

U.S. Department of Energy, Savannah River Operations Office, P.O. Box A, Aiken, SC 29802.

U.S. Department of Energy, Savannah River Site Office, P.O. Box A, Aiken, SC 29801.

U.S. Department of Energy, Southeastern Power Administration, 1166 Athens Tech Road, Elberton, GA 30635-6711.

U.S. Department of Energy, Stanford Linear Accelerator Center, 2575 Sand Hill Road, MS 75, Menlo Park, CA 94025.

U.S. Department of Energy, Stanford Site Office, 2575 Sand Hill Road, MS 8-A Menlo Park, CA 94025.

U.S. Department of Energy, Strategic Petroleum Reserve Project Management Office, 900 Commerce Road East New Orleans, LA 70123-3401.

U.S. Department of Energy, Thomas Jefferson Site Office, 12000 Jefferson Avenue, Newport News, VA 23606.

U.S. Department of Energy, Western Area Power Administration, P.O. Box 281213, Lakewood, CO 80228-8213.

CATEGORIES OF INDIVIDUALS COVERED BY THE SYSTEM:

Individuals who have applied for a DOE PIV credential under the PIV process.

CATEGORIES OF RECORDS IN THE SYSTEM:

The records maintained in this system of records include all documents submitted during application for the PIV credential or copies of those documents, and any resulting investigative, adjudicative, appeal, or reciprocity documentation. The PIV information contained in the records includes the applicant's name, social security number, date of birth, place of birth, signature, status as Federal or contractor employee or prospective employee, and sponsor's or employer's name, address, and telephone number. The records are the PIV credential request submitted by the applicant's sponsor and may include depending on the applicant's history and actions any of the following: copies of identity source documents; data from source documents used to positively identify the applicant; copies of applicant's photograph; copies of the applicant's background investigation forms [e.g., Standard Form 85 (SF 85), Questionnaire for Non-Sensitive Positions; SF 85P, Questionnaire for Public Trust Positions; SF 86, Questionnaire for National Security Positions; SF 87, Fingerprint Chart; FD-258, Fingerprint Card; Optional Form 306 (OF 306), Declaration for Federal Employment; SF 171, Application for Federal Employment; OF 612, Optional Application for Federal Employment; a resume or similar document]; adjudication documents; verification of previous adjudication decision by DOE or another Federal agency; disposition of applicant's PIV processing; correspondence and related documents to and from other Federal agencies for reciprocity purposes; and appeal documents. The above information will be used to positively identify individuals and determine the eligibility of those individuals for access to DOE facilities in accordance with HSPD-12.

Note: Executive Order 10450 Section 9(c) stipulates that reports and other investigative material and information that originated from the background investigation (BI) will remain the property of the investigative agency that conducted the investigation. DOE Privacy Act Officers will forward requests for BI results to the agency that conducted the investigation. The requester will be notified of the referral.

AUTHORITY FOR MAINTENANCE OF THE SYSTEM:

42 U.S.C. 7101 et seq., 50 U.S.C. 2401 et seq., 5 U.S.C. 552a (the Privacy Act of 1974), Homeland Security Presidential Directive 12, “Policy for a Common Identification Standard for Federal Employees Contractors,” August 27, 2004, and Title 5, Code of Federal Regulation, Parts 5 and 736.

PURPOSES:

For those records described in Categories of Records in the System, such records are maintained and used by DOE to determine the eligibility of individuals for a PIV credential that provides access to DOE owned or leased facilities in accordance with HSPD-12.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to (1) persons representing DOE in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use to the Department of Justice when: (a) DOE or any component thereof; or (b) any employee of DOE in his or her official capacity; or (c) any employee of DOE in his or her individual capacity where DOE or the Department of Justice has agreed to represent the employee; or (d) the Federal Government, is a party to litigation or has an interest in such litigation, and after careful review, DOE determines that the records are both relevant and necessary to the litigation and the use of such records by the Department of Justice is therefore deemed by DOE to be for a purpose compatible with the purpose for which DOE collected the records.

3. A record from this system may be disclosed as a routine use to a court or adjudicative body in a proceeding when: (a) DOE or any component thereof; (b) any employee of DOE in his or her official capacity; (c) any employee of DOE in his or her individual capacity where DOE or the Department of Justice has agreed to represent the employee; or (d) the Federal Government is a party to litigation or has an interest in such litigation and, after careful review, DOE determines that the records are both relevant and necessary to the litigation and the use of such records is therefore deemed by DOE to be for a purpose that is compatible with the purpose for which DOE collected the records.

4. A record from this system may be disclosed as a routine use to a federal, state, local, foreign, tribal, or other public authority that the system of records contains information relevant to the retention of an employee, the retention of a security clearance, the letting of a contract, or the issuance or retention of a license, grant, or other benefit. No disclosure will be made unless the information has been determined to be sufficiently reliable to support a referral to another office within DOE or to another Federal agency for criminal, civil, administrative personnel or regulatory action.

5. Except for self-admissions of illegal use of drugs or drug activity on questionnaire Forms SF 85, SF 85P, and SF 86, when a record on its face, or in conjunction with other records, indicates a violation or potential violation of law, whether civil, criminal, or regulatory in nature, and whether arising by general statute or particular program statute, or by regulation, rule, or order issued pursuant thereto, a routine use disclosure may be made to the appropriate public authority, whether Federal, foreign, State, local, or tribal, or otherwise, responsible for enforcing, investigating or prosecuting such violation or charged with enforcing or implementing the statute, or rule, regulation, or order issued pursuant thereto, if the information disclosed is relevant to any enforcement, regulatory, investigative or prosecutorial responsibility of the receiving entity.

6. A record from this system may be disclosed as a routine use to a member of Congress or to a Congressional staff member in response to an inquiry of the Congressional office made at the written request of the constituent about whom the record is maintained. The member of Congress must provide a copy of the constituent's request for assistance.

7. A record from this system may be disclosed as a routine use to DOE contractors in the performance of their contracts, and their officers and employees who have a need for the record in the performance of their duties. Those provided information under this routine use are subject to the same limitations applicable to Department officers and employees under the Privacy Act.

8. A record from this system may be disclosed as a routine use to the National Archives and Records Administration for records management inspections under 44 U.S.C. 2904 and 2906.

9. A record from this system may be disclosed as a routine use to any source or potential source from which the information is requested in the course of an investigation concerning the retention of an employee or other personnel action (other than hiring), or the retention of a security clearance, contract, grant, license, or other benefit, to the extent necessary to identify the individual, inform the source of the nature and purpose of the investigation, and to identify the type of information requested.

10. A record from this system may be disclosed as a routine use to a Federal, State, or local agency, or other appropriate entities or individuals, or through established liaison channels to selected foreign governments, in order to enable an intelligence agency to carry out its responsibilities under the National Security Act of 1947, as amended, the CIA Act of 1949, as amended, Executive Order 12333 or any successor order, applicable national security directives, or classified implementing procedures approved by the Attorney General and promulgated pursuant to such statutes, orders, or directives.

11. A record from this system may be disclosed as a routine use to notify another Federal agency, or verify whether, a PIV credential is no longer valid.

12. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper files and/or electronic media.

RETRIEVABILITY:

Records are retrieved by name, social security number, or unique PIV file number.

SAFEGUARDS:

Paper records, when not in use, are maintained in a combination-locked cabinet or safe, or in an equally secure area. Electronic records are controlled through established DOE cyber security directives or procedures, and they are password protected. Both paper and electronic records are protected by screening the personnel who have regular access to them and by physically protecting the locations where they are kept. Access to paper or electronic records is limited to those whose official duties require access to the records and who have a need-to-know. Data from the system of records that is personally identifiable information which may be electronically transmitted is protected by encryption.

RETENTION AND DISPOSAL:

Records retention and disposal authorities are in the National Archives and Records Administration (NARA) General Records Schedule and in supplemental DOE record schedules that have been approved by NARA.

SYSTEM MANAGERS AND ADDRESSES:

Headquarters: Director, Office of Health, Safety and Security, U.S. Department of Energy, 1000 Independence Avenue, SW., Washington, DC 20585.

Field Offices: The Security Officers of the System Locations listed with their addresses above are the system managers for their respective portions of the system.

NOTIFICATION PROCEDURES:

In accordance with the DOE regulation implementing the Privacy Act at Title 10, Code of Federal Regulations (CFR), Part 1008, a request by an individual to determine if a system of records contains information about him/her should be directed to the U.S. Department of Energy, Headquarters, Privacy Act Officer, or to the Privacy Act Officer at the appropriate location identified under System Locations above. For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation at 10 CFR 1008, proper identification is required before a request is processed.

CONTESTING RECORD PROCEDURES:

Same as Notification Procedures above.

RECORD SOURCE CATEGORIES:

Documents completed or furnished by the applicant; Department of Energy; Office of Personnel Management; Federal Bureau of Investigation; other Federal agencies.

SYSTEM EXEMPTED FROM CERTAIN PROVISIONS OF THE ACT:

None.

DOE-66

SYSTEM NAME:

Power Sales to Individuals.

SECURITY CLASSIFICATION:

Unclassified.

SYSTEM LOCATION(S):

U.S. Department of Energy, Western Area Power Administration, P.O. Box 281213, Lakewood, CO 80228-8213.

U.S. Department of Energy, Western Area Power Administration, 1800 South Rio Grand, Montrose, CO 81401.

U.S. Department of Energy, Colorado River Storage Region, 257 E200S, Suite 475, Salt Lake City, UT 84111.

U.S. Department of Energy, Desert Southwest Region, 615 S. 43rd Avenue, Phoenix, AZ 85009.

U.S. Department of Energy, Rocky Mountain Region, 5555 E. Crossroads Boulevard, Loveland, CO 80538-8986.

U.S. Department of Energy, Sierra Nevada Region, 114 Parkshore Drive, Folsom, CA 95630-4710.

U.S. Department of Energy, Upper Great Plains Region, 2900 4th Avenue North, Billings, MT 59101-1266.

CATEGORIES OF INDIVIDUALS COVERED BY THE SYSTEM:

Individuals purchasing power from the Western Area Power Administration.

CATEGORIES OF RECORDS IN THE SYSTEM:

Executed contracts, agreements, amendments, extensions, and related correspondence.

AUTHORITY FOR MAINTENANCE OF THE SYSTEM:

42 U.S.C. 7101 et seq., and 50 U.S.C. 2401 et seq.

PURPOSE(S):

For those records described in Categories of Records in the System, such records are maintained and used by the Department to bill individuals for sale of purchase power.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to (1) persons representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a federal, state, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, state or federal agency when records alone or in conjunction with other information, indicates a violation or potential violation of law whether civil, criminal, or regulatory in nature, and whether arising by general statute or particular program pursuant thereto.

6. A record from this system of records may be disclosed to a member of Congress submitting a request involving the constituent when the constituent has requested assistance from the member with respect to the subject matter of the record. The member of Congress must provide a copy of the constituent's request for assistance.

7. A record from the system may be disclosed as a routine use to DOE contractors in performance of their contracts, and their officers and employees who have a need for the record in the performance of their duties. Those provided information under this routine use are subject to the same limitations applicable to Department officers and employees under the Privacy Act.

8. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper files and/or electronic media.

RETRIEVABILITY:

Records are retrieved by name.

SAFEGUARDS:

Paper records are maintained in locked cabinets and desks. Access is limited to those whose official duties require access to the records.

RETENTION AND DISPOSAL:

Records retention and disposal authorities are contained in the National Archives and Records Administration (NARA) General Records Schedule and DOE record schedules that have been approved by NARA.

SYSTEM MANAGER(S) AND ADDRESS:

Administrator, Western Area Power Administration, U.S. Department of Energy, P.O. Box 3402, Golden, CO 80401.

Regional Offices: The Directors of the “System Locations” listed above are the system managers for their respective locations.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” The request should include the requester's complete name, time period for which records are sought, and the office location(s) where the requester believes the records are located.

RECORDS ACCESS PROCEDURES:

Same as Notification Procedures above.

Records are generally kept at locations where the work is performed. In accordance with the DOE Privacy Act regulation, proper identification is required before a request is processed.

CONTESTING RECORD PROCEDURES:

Same as Notification Procedures above.

RECORD SOURCE CATEGORIES:

Subject individuals.

SYSTEM EXEMPTED FROM CERTAIN PROVISIONS OF THE ACT:

None.

DOE-71

SYSTEM NAME:

The Radiation Accident Registry.

SECURITY CLASSIFICATION:

Unclassified.

SYSTEM LOCATION(S):

U.S. Department of Energy, Office of Science, Oak Ridge Office, P.O. Box 2001, Oak Ridge, TN 37831.

CATEGORIES OF INDIVIDUALS COVERED BY THE SYSTEM:

Those persons accidentally exposed to acute dose of ionizing radiation as defined by exposure dose criteria agreed to by DOE including the National Nuclear Security Administration (NNSA) and the Nuclear Regulatory Commission (NRC) by an interagency agreement. The dose criteria established by this agreement include one or more of the following: Greater than or equal to 25 REM (Roentgen Equivalent in Man) to the whole body, active blood forming organs or gonads; greater than or equal to 600 REM to skin of the whole body or extremities; greater than or equal to 75 REM to other tissues or organs from an external source; and greater than or equal to 1/2 NCRP maximum permissible organ burden internally; all those medical administrations of radioisotopes that result in a dose or organ burden equal to or greater than those given above.

CATEGORIES OF RECORDS IN THE SYSTEM:

Official accident reports including reports of those accidents that have occurred within the jurisdiction of the NRC and have been transferred to the DOE for the Accident Registry according to the DOE/NRC agreement; names, addresses, social security numbers, date of birth, and sex; medical records compiled at the time of the accident (such records include physician and hospital records, diagnostic and laboratory test reports, radiographs, EKGs, and radiation exposure report); medical records of illnesses, examinations, including routine follow-up examinations, and investigations that have occurred since the radiation exposure; photographs or facsimiles of radiation-induced injuries; search and contact information for registrants not identified and/or located; consent to release information forms completed by registrants; death certificates; anecdotal information; and correspondence relating to the accident and/or the individuals involved.

AUTHORITY FOR MAINTENANCE OF THE SYSTEM:

42 U.S.C. 7101 et seq.; 50 U.S.C. 2401 et seq.; DOE Order 5500.2B, Emergency Categories, Classes, and Notification and Reporting Requirements, April 30, 1991; 42 U.S.C. 7274i. Program to monitor Department of Energy workers exposed to hazardous and radioactive substances.

PURPOSE(S):

For those records described in Categories of Records in the System, such records are maintained and used by the Department to provide a current record of radiation accidents; to identify specific populations for use in epidemiological and clinical studies; and to conduct medical surveillance during the lifetime of the registrants.

ROUTINE USES OF RECORDS MAINTAINED IN THE SYSTEM, INCLUDING CATEGORIES OF USERS AND THE PURPOSES OF SUCH USES:

1. A record from this system of records may be disclosed to a member of Congress submitting a request involving the constituent when the constituent has requested assistance from the member with respect to the subject matter of the record. The member of Congress must provide a copy of the constituent's request for assistance.

2. A record from this system of records may be disclosed to contractor personnel, grantees, and cooperative agreement holders of components of the Department of Health and Human Services, including the National Institute for Occupational Safety and Health and the National Center for Environmental Health of the Centers for Disease Control and Prevention, and the Agency for Toxic Substances and Disease Registry to facilitate health hazard evaluations, epidemiological studies, or public health activities required by law pursuant to a Memoranda of Understanding between the Department and the Department of Health and Human Services or its components. Those provided information under this routine use are subject to the same limitations applicable to Department officers and employees under the Privacy Act.

3. A record from this system of records may be disclosed as a routine use to DOE contractors, grantees, participants in cooperative agreements, and collaborating researchers, or the employees of these parties, in performance of health studies or related health or environmental duties pursuant to their contracts, grants, and cooperating or collaborating research agreements; federal, state and local health and medical agencies or authorities; to subcontractors in order to determine a subject' s vital status or cause of death; to health care providers to verify a diagnosis or cause of death; or to third parties to obtain current addresses for participants in health-related studies, surveys and surveillances. Those provided information under this routine use are subject to the same limitations applicable to Department officers and employees under the Privacy Act.

4. A record from this system of records may be disclosed as a routine use to members of DOE advisory committees, the Department of Health and Human Services Advisory Committee on Projects Related to Department of Energy Facilities and to designated employees of federal, state, or local government or government-sponsored entities authorized to provide advice to the Department concerning health, safety, or environmental issues. Those provided information under this routine use are subject to the same limitations applicable to Department officers and employees under the Privacy Act.

5. A record from this system may be disclosed as a routine use for the purpose of an investigation, settlement of claims, or the preparation and conduct of litigation to (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

6. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

7. A record from the system may be disclosed as a routine use to the appropriate local, state or federal agency when records alone or in conjunction with other information, indicates a violation or potential violation of law whether civil, criminal, or regulatory in nature, and whether arising by general statute or particular program pursuant thereto.

8. A record from this system of records may be disclosed to foreign governments or international organizations, in accordance with treaties, international conventions, or executive agreements.

9. A record from this system may be disclosed to Department of Health and Human Services, their contractors, grantees, and cooperative agreement holders, pursuant to the Energy Employees Occupational Illness Compensation Program Act of 2000, to estimate radiation doses and other workplace exposures received by Department of Energy and contractor employees. Those provided information under this routine use are subject to the same limitations applicable to Department officers and employees under the Privacy Act.

10. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records, microfilm, and electronic media.

RETRIEVABILITY:

Records are retrieved by name and/or social security number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Manager, U.S. Department of Energy, Office of Science, Oak Ridge Office, P.O. Box 2001, Oak Ridge, TN 37831.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

RECORD SOURCE CATEGORIES:

The individual, medical records, physicians, medical institutions, and reports of incident/accident/accident investigations from private and public sources, radiation dosimetry records, security clearance records, and employment records.

SYSTEM EXEMPTED FROM CERTAIN PROVISIONS OF THE ACT:

None.

DOE-72

SYSTEM NAME:

The DOE Radiation Study Registry.

SECURITY CLASSIFICATION:

Unclassified.

SYSTEM LOCATION(S):

U.S. Department of Energy, Office of Science, Oak Ridge Office, P.O. Box 2001, Oak Ridge, TN 37831.

CATEGORIES OF INDIVIDUALS COVERED BY THE SYSTEM:

Present and former employees, DOE contractor employees, including employees of the National Nuclear Security Administration (NNSA) predecessor agencies and organizations, including the Manhattan District, U.S. Atomic Energy Commission, and Energy Research and Development Administration; and present and former civilian employees in the DOE Naval Reactor Program who received a whole body exposure of ionizing radiation equal to or in excess of 5 REM in any 1 year.

CATEGORIES OF RECORDS IN THE SYSTEM:

Rosters of names of individuals meeting the above criteria for inclusion in the Registry submitted through the DOE field operation officers from DOE owned and operated facilities and sites. In addition to names of such individuals, these rosters include social security number or other identifying information, sex, race, date of birth, date and/or place of death, first date of hire, last date of termination, continuity of hire, year in which they received first dose greater than or equal to 5 REM, actual radiation doses in excess of 5 REM, and total career radiation exposure dose.

Original or copied lifetime medical records from plant and private physicians and hospitals including routine physical examinations, reports of diagnostic and laboratory tests, radiographs, EKGs, etc., or abstracted portions of such records as are required for the purposes of this study.

Contact information for registrants who are no longer employed at qualified sites or who are deceased.

AUTHORITY FOR MAINTENANCE OF THE SYSTEM:

42 U.S.C. 7101 et seq.; 50 U.S.C. 2401 et seq.; DOE Order 5500.2B, Emergency Categories, Classes, and Notification and Reporting Requirements, April 30, 1991; 42 U.S.C. 7274i.

PURPOSE(S):

For those records described in Categories of Records in the System, such records are maintained and used by the Department to identify specific populations for use in epidemiological and clinical studies; and to conduct medical surveillance during the lifetime of the registrants.

ROUTINE USES OF THE RECORDS MAINTAINED IN THE SYSTEM, INCLUDING CATEGORIES OF USERS AND THE PURPOSE OF SUCH USES:

1. A record from the system may be disclosed as a routine use to DOE contractors in performance of their contracts, and their officers and employees who have a need for the record in the performance of their duties. Those provided information under this routine use are subject to the same limitations applicable to Department officers and employees under the Privacy Act.

2. A record from this system of records may be disclosed to a member of Congress submitting a request involving the constituent when the constituent has requested assistance from the member with respect to the subject matter of the record. The member of Congress must provide a copy of the constituent's request for assistance.

3. A record from this system of records may be disclosed to contractor personnel, grantees, and cooperative agreement holders of components of the Department of Health and Human Services, including the National Institute for Occupational Safety and Health and the National Center for Environmental Health of the Centers for Disease Control and Prevention, and the Agency for Toxic Substances and Disease Registry to facilitate health hazard evaluations, epidemiological studies, or public health activities required by law pursuant to a Memoranda of Understanding between the Department and the Department of Health and Human Services or its components. Those provided information under this routine use are subject to the same limitations applicable to Department officers and employees under the Privacy Act.

4. A record from this system of records may be disclosed as a routine use to members of DOE advisory committees, the Department of Health and Human Services Advisory Committee on Projects Related to Department of Energy Facilities and to designated employees of Federal, State, or local government or government-sponsored entities authorized to provide advice to the Department concerning health, safety, or environmental issues. Those provided information under this routine use are subject to the same limitations applicable to Department officers and employees under the Privacy Act.

5. A record from this system may be disclosed as a routine use for the purpose of an investigation, settlement of claims, or the preparation and conduct of litigation to (1) a person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

6. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

7. A record from this system of records may be disclosed as a routine use to the United States Enrichment Corporation and its contractors in performance of their contracts, and their officers and employees who have a need for the record in the performance of their duties subject to the same limitations applicable to DOE officers and employees under the Privacy Act at the following sites: (1) Portsmouth Gaseous Diffusion Plant at Piketon, Ohio, and (2) Paducah Site Office at Paducah, Kentucky.

8. A record from this system may be disclosed to Department of Health and Human Services, their contractors, grantees, and cooperative agreement holders, pursuant to the Energy Employees Occupational Illness Compensation Program Act of 2000, to estimate radiation doses and other workplace exposures received by Department of Energy and contractor employees. Those provided information under this routine use are subject to the same limitations applicable to Department officers and employees under the Privacy Act.

9. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

10. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF THE RECORDS IN THE SYSTEM:

STORAGE:

Records may be stored as paper records, microfilm, and electronic media.

RETRIEVABILITY:

Records are retrieved by name and/or social security number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Manager, U.S. Department of Energy, Office of Science, Oak Ridge Office, P.O. Box 2001, Oak Ridge, TN 37831.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

RECORD SOURCE CATEGORIES:

The individual, medical records, physicians, medical institutions, and reports of incident/accident/accident investigations from private and public sources, radiation dosimetry records, security clearance records, and employment records.

SYSTEM EXEMPTED FROM CERTAIN PROVISIONS OF THE ACT:

None.

DOE-73

SYSTEM NAME:

The US-DTPA Registry.

SECURITY CLASSIFICATION:

Unclassified.

SYSTEM LOCATION(S):

U.S. Department of Energy, Office of Science, Oak Ridge Office, P. O. Box 2001, Oak Ridge, TN 37831.

CATEGORIES OF INDIVIDUALS COVERED BY THE SYSTEM:

Individuals who are or suspected of internal contamination with transuranic elements and have received diethylene triamine pentaacetic acid (DTPA) in the calcium or zinc form during the course of chelation therapy. Administration of the agent DTPA is limited to physicians who are co-investigators with the DOE contractor staff on the Investigative New Drug License of the Food and Drug Administration.

CATEGORIES OF RECORDS IN THE SYSTEM:

The records compiled by the physician administering DTPA in the event of an exposure that was known to have or was suspected of having caused transuranic contamination internally requiring chelation therapy with DTPA. These records include a description of the exposure, the results of serial bioassays and investigations conducted to evaluate the level of internal contamination and the efficacy of subsequent chelation by DTPA.

Name, social security numbers or other identifiers and vital status of treated persons. The name and address of the individual's last known private physicians are included in the DTPA Registry to facilitate the search and contact of individuals; medical records of illnesses, examinations, including routine follow-up examinations, and investigations that have occurred since the initial administration of DTPA; and death certificate.

AUTHORITY FOR MAINTENANCE OF THE SYSTEM:

42 U.S.C. 7101 et seq.; 50 U.S.C. 2401 et seq.; 42 U.S.C. 7274i.

PURPOSE(S):

For those records described in Categories of Records in the System, such records are maintained and used by the Department to provide a current record of individuals treated with DTPA. To identify by epidemiological methods any long-term effects associated with DTPA therapy; and to provide information to Food and Drug Administration in accordance with the Investigative New Drug licenses and issuances, epidemiological and clinical studies; and to conduct medical surveillance during the lifetime of the registrants.

ROUTINE USES OF RECORDS MAINTAINED IN THE SYSTEM, INCLUDING, CATEGORIES OF USERS AND THE PURPOSES OF SUCH USES:

1. A record from the system may be disclosed as a routine use to DOE contractors in performance of their contracts, and their officers and employees who have a need for the record in the performance of their duties. Those provided information under this routine use are subject to the same limitations applicable to Department officers and employees under the Privacy Act.

2. A record from this system of records may be disclosed to a member of Congress submitting a request involving the constituent when the constituent has requested assistance from the member with respect to the subject matter of the record. The member of Congress must provide a copy of the constituent's request for assistance.

3. A record from this system of records may be disclosed to contractor personnel, grantees, and cooperative agreement holders of components of the Department of Health and Human Services, including the National Institute for Occupational Safety and Health and the National Center for Environmental Health of the Centers for Disease Control and Prevention, and the Agency for Toxic Substances and Disease Registry to facilitate health hazard evaluations, epidemiological studies, or public health activities required by law pursuant to Memoranda of Understanding between the Department and the Department of Health and Human Services or its components. Those provided information under this routine use are subject to the same limitations applicable to Department officers and employees under the Privacy Act.

4. A record from this system of records may be disclosed as a routine use to members of DOE Advisory Committees, the Department of Health and Human Services Advisory Committee on Projects Related to Department of Energy Facilities, and to designated employees of Federal, State, or local government or government-sponsored entities authorized to provide advice to the Department concerning health, safety, or environmental issues. Those provided information under this routine use are subject to the same limitations applicable to Department officers and employees under the Privacy Act.

5. A record from this system may be disclosed as a routine use for the purpose of an investigation, settlement of claims, or the preparation and conduct of litigation to (1) a person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

6. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

7. A record from the system may be disclosed as a routine use to the appropriate local, state or federal agency when records alone or in conjunction with other information, indicates a violation or potential violation of law whether civil, criminal, or regulatory in nature, and whether arising by general statute or particular program pursuant thereto.

8. A record from this system may be disclosed to Department of Health and Human Services, their contractors, grantees, and cooperative agreement holders, pursuant to the Energy Employees Occupational Illness Compensation Program Act of 2000, to estimate radiation doses and other workplace exposures received by Department of Energy and contractor employees. Those provided information under this routine use are subject to the same limitations applicable to Department officers and employees under the Privacy Act.

9. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those providing information under this routine use are subject to the same limitations applicable to Department officers and employees under the Privacy Act.

10. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records, microfilm, and electronic media.

RETRIEVABILITY:

Records are retrieved by name and/or social security number.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Manager, U.S. Department of Energy, Office of Science, Oak Ridge Office, P.O. Box 2001, Oak Ridge, TN 37831.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

RECORD SOURCE CATEGORIES:

The individual, medical records, physicians, medical institutions, and reports of incident/accident/accident investigations from private and public sources, radiation dosimetry records, security clearance records, and employment records.

SYSTEM EXEMPTED FROM CERTAIN PROVISIONS OF THE ACT:

None.

DOE-75

SYSTEM NAME:

Call Detail Records.

SECURITY CLASSIFICATION:

Unclassified.

SYSTEM LOCATION(S):

U.S. Department of Energy, Headquarters, 1000 Independence Avenue, SW., Washington, DC 20585.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Bonneville Power Administration, P.O. Box 3621, Portland, OR 97208.

U.S. Department of Energy, Office of Science, Chicago Office, 9800 South Cass Avenue, Argonne, IL 60439.

U.S. Department of Energy, Idaho Operations Office, 1955 Fremont Avenue, Idaho Falls, ID 83415.

U.S. Department of Energy, National Energy Technology Laboratory (Morgantown), P.O. Box 880, Morgantown, WV 26505.

U.S. Department of Energy, National Energy Technology Laboratory (Pittsburgh), P.O. Box 10940, 626 Cochrans Mill Road, Pittsburgh, PA 15236.

U.S. Department of Energy, NNSA Nevada Site Office, P.O. Box 98518, Las Vegas, NV 89193-8518.

U.S. Department of Energy, Office of Science, Oak Ridge Office, P.O. Box 2001, Oak Ridge, TN 37831.

U.S. Department of Energy, Pittsburgh Naval Reactors, P.O. Box 109, Pittsburgh, PA 15122.

U.S. Department of Energy, Richland Operations Office, P.O. Box 550, Richland, WA 99352.

U.S. Department of Energy, Savannah River Operations Office, P.O. Box A, Aiken, SC 29801.

U.S. Department of Energy, Southeastern Power Administration, 1166 Athens Tech Road, Elberton, GA 30635-6711.

U.S. Department of Energy, Southwestern Power Administration, Williams Tower One, One West Third Street, Tulsa, OK 74103.

U.S. Department of Energy, Western Area Power Administration, P.O. Box 281213, Lakewood, CO 80228-8213.

U.S. Department of Energy, Office of Repository Development, P.O. Box 364629, North Las Vegas, NV 89036-8629.

CATEGORIES OF INDIVIDUALS COVERED BY THE SYSTEM:

Employees of DOE including employees of the National Nuclear Security Administration (NNSA) and those employees of other Federal agencies and contractors who are located on the DOE premises and who have assigned station numbers in the on-premises telecommunications system.

CATEGORIES OF RECORDS IN THE SYSTEM:

Originating and terminating call data records relating to use of DOE telephones, including calling station number; date, time call originated, duration of call, and called number; directory records indicating assignment of telephone numbers to employees; and records relating to location of telephones. Reports may be generated from stored call detail records and may include, but are not limited to, station usage summaries, trunk usage summaries, traffic and network busy hour studies, on-net and off-net pricing, exception reports, bill certification, and cost allocation.

AUTHORITY FOR MAINTENANCE OF THE SYSTEM:

42 U.S.C. 7101 et seq. and 50 U.S.C. 2401 et seq.

PURPOSE(S):

For those records described in Categories of Records in the System, such records are maintained and used by the Department to help manage and control the costs of operating the Department's telephone systems. To this end, the program will collect information about the use of the agency's telephone system for local, long distance, and other toll calls and may attempt to assign responsibility to an individual person for particular calls. The information also assists the Department in choosing more efficient and cost effective ways of communicating; in making decisions about acquiring hardware, software, and services; and in developing management strategies for more efficient use of existing telecommunications capabilities. Other uses are to deter use of the telephone systems for unofficial purposes, and to recover the cost of unofficial calls.

ROUTINE USES OF RECORDS MAINTAINED IN THE SYSTEM, INCLUDING CATEGORIES OF USERS AND THE PURPOSES OF SUCH USES:

1. A record from this system may be disclosed as a routine use to representatives of the General Services Administration who are conducting records management inspections under the authority of 44 U.S.C. 2904 and 2906.

2. A record from this system may be disclosed as a routine use to “consumer reporting agencies” as defined in the Fair Credit Reporting Act, 15 U.S.C. 2904 and 2906.

3. A record from the system may be disclosed as a routine use to the appropriate local, state or federal agency when records alone or in conjunction with other information, indicate a violation or potential violation of law whether civil, criminal, or regulatory in nature, and whether arising by general statute or particular program pursuant thereto.

4. A record from this system may be disclosed as a routine use for the purpose of an investigation, settlement of claims, or the preparation and conduct of litigation to (1) a person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

5. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

6. A record from the system may be disclosed as a routine use to a federal, state, or local agency to obtain information relevant to a Departmental decision concerning the hiring or retention of an employee, the issuance of a security clearance, the letting of a contract, or the issuance of a license, grant, or other benefit. The Department must deem such disclosure to be compatible with the purpose for which the Department collected the information.

7. A record from this system of records may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

8. A record from this system of records may be disclosed to a member of Congress submitting a request involving the constituent when the constituent has requested assistance from the member with respect to the subject matter of the record. The member of Congress must provide a copy of the constituent's request for assistance.

9. A record from this system of records may be disclosed to foreign governments or international organizations in accordance with treaties, international conventions, or executive agreements.

10. A record from the system may be disclosed as a routine use to DOE contractors in performance of their contracts, and their officers and employees who have a need for the record in the performance of their duties. Those provided information under this routine use are subject to the same limitations applicable to Department officers and employees under the Privacy Act.

11. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records, microfilm, and electronic media.

RETRIEVABILITY:

Records are retrieved by individual telephone extension number.

SAFEGUARDS:

Paper and microfilm records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Information Management, U.S. Department of Energy, 19901 Germantown Road, Germantown, MD 20874.

Field Offices: The Managers and Directors of the “System Locations” listed above are the system managers for their respective locations.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at location where the work is performed. In accordance with the DOE Privacy Act regulation, proper identification is required before a request is processed.

CONTESTING RECORD PROCEDURES:

Same as Notification Procedures above.

RECORD SOURCE CATEGORIES:

Categories include telephone assignment records; call detail listings; results of administrative inquiries relating to assignment of responsibility for placement of special local and long-distance calls.

SYSTEMS EXEMPTED FROM CERTAIN PROVISIONS OF THE ACT:

None.

DOE-77

SYSTEM NAME:

Physical Fitness Test Records.

SECURITY CLASSIFICATION:

Unclassified.

SYSTEM LOCATION(S):

U.S. Department of Energy, Headquarters, 19901 Germantown Road, Germantown, MD 20874-1290.

U.S. Department of Energy, NNSA Service Center Albuquerque, P.O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Bonneville Power Administration, P.O. Box 3621, Portland, OR 97208.

U.S. Department of Energy, Office of Science, Chicago Office, 9800 South Cass Avenue, Argonne, IL 60439.

U.S. Department of Energy, Idaho Operations Office, 1955 Fremont Avenue, Idaho Falls, ID 83415.

U.S. Department of Energy, National Energy Technology Laboratory (Morgantown), P.O. Box 880, Morgantown, WV 26505.

U.S. Department of Energy, National Energy Technology Laboratory (Pittsburgh), P.O. Box 10940, 626 Cochrans Mill Road, Pittsburgh, PA 15236.

U.S. Department of Energy, NNSA Nevada Site Office, P.O. Box 98518, Las Vegas, NV 89193-8518.

U.S. Department of Energy, Office of Science, Oak Ridge Office, P.O. Box 2001, Oak Ridge, TN 37831.

U.S. Department of Energy, Office of Repository Development, P.O. Box 364629, North Las Vegas, NV 89036-8629.

U.S. Department of Energy, Richland Operations Office, P.O. Box 550, Richland, WA 99352.

U.S. Department of Energy, Savannah River Operations Office, P.O. Box A, Aiken, SC 29801.

U.S. Department of Energy, Southeastern Power Administration, 1166 Athens Tech Road, Elberton, GA 30635-6711.

U.S. Department of Energy, Southwestern Power Administration, Williams Tower One, One West Third Street, Tulsa, OK 74103.

U.S. Department of Energy, Western Area Power Administration, P.O. Box 281213, Lakewood, CO 80228-8213.

CATEGORIES OF INDIVIDUALS COVERED BY THE SYSTEM:

DOE contractor employees (armed uniformed guards).

CATEGORIES OF RECORDS IN THE SYSTEM:

Record of individual's ability to complete the physical fitness test as set forth in applicable DOE directives.

AUTHORITY FOR MAINTENANCE OF THE SYSTEM:

42 U.S.C. 7101 et seq. and 50 U.S.C. 2401 et seq.

PURPOSE(S):

For those records described in Categories of Records in the System, such records are maintained and used by the Department to record physical fitness tests of DOE Federal and contractor employees.

ROUTINE USES OF RECORDS MAINTAINED IN THE SYSTEM, INCLUDING CATEGORIES OF USERS AND THE PURPOSES OF SUCH USES:

1. A record from this system may be disclosed as a routine use for the purpose of an investigation, settlement of claims, or the preparation and conduct of litigation to (1) a person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a federal, state, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, state or federal agency when records alone or in conjunction with other information, indicates a violation or potential violation of law whether civil, criminal, or regulatory in nature, and whether arising by general statute or particular program pursuant thereto.

6. A record from this system of records may be disclosed to a member of Congress submitting a request involving the constituent when the constituent has requested assistance from the member with respect to the subject matter of the record. The member of Congress must provide a copy of the constituent's request for assistance.

7. A record from the system may be disclosed as a routine use to DOE contractors in performance of their contracts, and their officers and employees who have a need for the record in the performance of their duties. Those provided information under this routine use are subject to the same limitations applicable to Department officers and employees under the Privacy Act.

8. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Security Operations, U.S. Department of Energy, 1000 Independence Avenue, SW., Washington, DC 20585.

Field Offices: The Security Officers of the “System Locations” listed above are the system managers for their respective portions.

NOTIFICATION PROCEDURES:

In accordance with the DOE regulation implementing the Privacy Act, at Title 10, Code of Federal Regulations, Part 1008, a request by an individual to determine if a system of records contains information about him/her should be directed to the Director, Headquarters Freedom of Information Act and Privacy Act Group, U.S. Department of Energy, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

RECORD SOURCE CATEGORIES:

The subject individual, physicians, and persons administering the tests.

SYSTEM EXEMPTED FROM CERTAIN PROVISIONS OF THE ACT:

None.

DOE-81

SYSTEM NAME:

Counterintelligence Administrative and Analytical Records and Reports.

SECURITY CLASSIFICATION:

Classified and unclassified.

SYSTEM LOCATION(S):

U.S. Department of Energy, Headquarters, Office of Intelligence, 1000 Independence Avenue, SW., Washington, DC 20585;

U.S. Department of Energy, NNSA Service Center Albuquerque, P.O. Box 5400, Albuquerque, NM 87185-5400.

U.S. Department of Energy, Office of Science, Chicago Office, 9800 Cass Ave., Argonne, IL 60439.

U.S. Department of Energy, Environmental Management Consolidated Business Center (EMCBC), 250 E. Fifth Street, Suite 500, Cincinnati, OH 45202.

U.S. Department of Energy, Golden Field Office, 1617 Cole Boulevard, Golden, CO 80401.

U.S. Department of Energy, Idaho Operations Office, 1955 Fremont Avenue, Idaho Falls, ID 83415.

U.S. Department of Energy, Livermore Site Office, P.O. Box 808, L-062, Livermore, CA 94551.

U.S. Department of Energy, Lockheed Martin Idaho Technology, P.O. Box 1625, M/S 2800, Idaho Falls, ID 83415-2800.

U.S. Department of Energy, NNSA Los Alamos National Laboratory, Mail Station 5000, P.O. Box 1663, Los Alamos, NM 87545.

U.S. Department of Energy, Martin Lockheed Energy Systems, P.O. Box 2009, Oak Ridge, TN 37831-8107.

U.S. Department of Energy, Pantex Plant, Bldg 11-54, P.O. Box 30020, Amarillo, TX 79177.

U.S. Department of Energy, Office of Science, Oak Ridge Office, P.O. Box 2001, Oak Ridge, TN 37831.

U.S. Department of Energy, Pacific Northwest Laboratory, 902 Battelle Blvd., P.O. Box 999, Richland, WA 99352.

U.S. Department of Energy, Richland Operations Office, P.O. Box 550, Richland, WA 99352.

U.S. Department of Energy, Savannah River Operations Office, P.O. Box A, Aiken, SC 29801.

U.S. Department of Energy, NNSA Sandia National Laboratory, P.O. Box 969, M/S 9020, Livermore, CA 94551-0969.

U.S. Department of Energy, NNSA Sandia National Laboratory, Org 7400, P.O. Box 5800, M/S 0173, Albuquerque, NM 87185.

U.S. Department of Energy, Westinghouse Hanford Co., P.O. Box 1970, Richland, WA 99352.

CATEGORIES OF INDIVIDUALS COVERED BY THE SYSTEM:

Current and former DOE employees including employees of the National Nuclear Security Administration (NNSA), contractor employees, and consultants; persons suspected of violating DOE regulations or laws; and, where there are indications of contact with a current or former DOE employee, contractor employee or consultant, persons who are reasonably believed to be officers or employees of, or otherwise acting for or on behalf of, a foreign power; members of an organization reasonably believed to be owned or controlled directly or indirectly by a foreign power; reasonably believed to be targets, hostages, or victims of international terrorist organizations; or reasonably believed to be engaged in or about to engage in clandestine intelligence activities, sabotage, assassinations, or international terrorist activities involving DOE programs, personnel, facilities, information or materials.

CATEGORIES OF RECORDS IN THE SYSTEM:

Analytical, training and investigative records, reports and files; travel reports; reports on foreign contacts; records, reports and files received from other DOE elements and other Federal agencies.

AUTHORITY FOR MAINTENANCE OF THE SYSTEM:

42 U.S.C. 7101 et seq.; 50 U.S.C. 2401 et seq.; Federal Personnel Manual, Chapters 731 and 736.

PURPOSE(S):

For those records described in Categories of Records in the System, such records are maintained and used by the Department in furtherance of the responsibilities of the Office of Counterintelligence (OCI), which include analysis of the foreign intelligence threat; conducting administrative inquiries and investigations to identify and neutralize the foreign intelligence threat to classified and sensitive DOE programs, personnel, information and activities; reporting on foreign contacts and travel, including briefings and debriefings; conducting counterintelligence investigations and producing intelligence on hostile and foreign intelligence entities; counterintelligence related training; and other activities relating to OCI's responsibilities.

ROUTINE USES OF RECORDS MAINTAINED IN THE SYSTEM, INCLUDING CATEGORIES OF USERS AND THE PURPOSES OF SUCH USES:

1. A record from this system may be disclosed as a routine use to the Federal Bureau of Investigation when such records indicate a violation or probable violation of the law.

2. A record from this system may be disclosed as a routine use to other counterintelligence agency components with whom the Office of Counterintelligence is preparing joint analysis of counterintelligence-related threats which may impact the Department.

3. A record from this system may be disclosed as a routine use for the purpose of an investigation, settlement of claims, or the preparation and conduct of litigation to (1) a person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

4. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

5. A record from the system may be disclosed as a routine use to a federal, state, or local agency to obtain information relevant to a Departmental decision concerning the hiring or retention of an employee, the issuance of a security clearance, the letting of a contract, or the issuance of a license, grant, or other benefit. The Department must deem such disclosure to be compatible with the purpose for which the Department collected the information.

6. A record from this system of records may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

7. A record from the system may be disclosed as a routine use to the appropriate local, state or federal agency when records alone or in conjunction with other information, indicates a violation or potential violation of law whether civil, criminal, or regulatory in nature, and whether arising by general statute or particular program pursuant thereto.

8. A record from this system of records may be disclosed to a member of Congress submitting a request involving the constituent when the constituent has requested assistance from the member with respect to the subject matter of the record. The member of Congress must provide a copy of the constituent's request for assistance.

9. A record from this system of records may be disclosed to foreign governments or international organization in accordance with treaties, international conventions, or executive agreements.

10. A record from the system may be disclosed as a routine use to DOE contractors in performance of their contracts, and their officers and employees who have a need for the record in the performance of their duties. Those provided information under this routine use are subject to the same limitations applicable to Department officers and employees under the Privacy Act.

11. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records and electronic media.

RETRIEVABILITY:

Records are retrieved by name, social security number or other personal identifying data.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Director, Office of Counterintelligence, Analytical Division, U.S. Department of Energy, 1000 Independence Avenue, SW., Washington, DC 20585.

Field Offices: The Directors of Field Intelligence Elements of the “System Locations” listed above are the system managers for their respective portions.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at location where the work is performed. In accordance with the DOE Privacy Act regulation, proper identification is required before a request is processed.

RECORD SOURCE CATEGORIES:

The subject individual; present and former DOE employees and contractor employees; publicly available material; other agencies within the Intelligence Community; other offices and elements within DOE; the FBI, and other Federal, State and local law enforcement agencies; sources contacted during administrative inquiries and investigations; and official records.

SYSTEM EXEMPTED FROM CERTAIN PROVISIONS OF THE ACT:

This system is exempt under (k)( 1), (k)(2), and (k)(5) of the Privacy Act to the extent that information within the system meets the criteria of those subsections of the Act. Such information has been exempted from the provisions of subsections (c)(3), and (4), (d), and (e)(1), (e)(4)(G) and (H) and (f) of the Act; See the DOE Privacy Act regulation at Title10, Code of Federal Regulations, Part 1008.

DOE-82

SYSTEM NAME:

Grant and Contract Records for Research Projects, Science Education, and Related Activities.

SECURITY CLASSIFICATION:

Unclassified.

SYSTEM LOCATION(S):

U.S. Department of Energy, 1000 Independence Avenue, SW., Washington, DC 20585.

CATEGORIES OF INDIVIDUALS COVERED BY THE SYSTEM:

(1) Applicant/Grantee organization; Principal Investigator, i.e., the scientist or other individual designated by the applicant or proposer to direct the project; Senior Personnel, i.e., scientists or other individuals designated by the applicant or proposer to perform work on the project; Certifying Representative, i.e., the business representative having the authority to accept the obligation to comply with DOE including the National Nuclear Security Administration terms and conditions if DOE makes a grant or contract award. (2) DOE officials DOE Project Officer, i.e., the individual who is responsible for the review and evaluation of the application or proposal and the monitoring of a resulting grant or contract; DOE Program Official, i.e., the individual who is responsible for review and approval of applications or proposals for funding; DOE Budget Official, i.e., the individual who is responsible for certifying funds availability for approved applications or proposals; DOE Contracting Officer or Contract Specialist, i.e., individuals who are responsible for awarding and administering grants or contracts. (3) Merit/Peer Reviewer, i.e., the individual (Federal or non-Federal) who provides a written review or evaluation of the application or proposal to the DOE Project Officer.

CATEGORIES OF RECORDS IN THE SYSTEM:

Grant applications, contract proposals, technical reviews by peer reviewer, records of grant and contract awards, financial data, social security number, and any other pertinent information needed for the tracking or approval of a grant or contract.

AUTHORITY FOR MAINTENANCE OF THE SYSTEM:

42 U.S.C. 7101 et seq. and 50 U.S.C. 2401 et seq.

PURPOSE(S):

For those records described in Categories of Records in the System, such records are maintained and used by the Department to track and monitor the receipt, review, and disposition of grant applications and contract proposals from universities, non-profit organizations, large and small businesses, other Federal agencies, State and local governments, individuals, and DOE national laboratories seeking Federal financial support for research projects, training, and related activities. The system also tracks and monitors funding authorizations and associated financial data.

ROUTINE USES OF RECORDS MAINTAINED IN THE SYSTEM, INCLUDING CATEGORIES OF USERS AND THE PURPOSES OF SUCH USES:

1. A record from this system may be disclosed as a routine use to expert peer reviewers selected by DOE for their expertise in specific research areas to evaluate the application or proposal in accordance with established evaluation criteria.

2. A record from this system of records may be disclosed to a member of Congress submitting a request involving the constituent when the constituent has requested assistance from the member with respect to the subject matter of the record. The member of Congress must provide a copy of the constituent's request for assistance.

3. A record from the system may be disclosed as a routine use to DOE contractors in performance of their contracts, and their officers and employees who have a need for the record in the performance of their duties. Those provided information under this routine use are subject to the same limitations applicable to Department officers and employees under the Privacy Act.

4. A record from this system may be disclosed as a routine use to an applicant's principal investigator, sponsored programs office, business office, or similar element, via electronic media for the purpose of checking the status of its grant applications or contract proposals which have been submitted to DOE for support. Safeguards will be employed on a case by case basis to allow access only to authorized persons having a need to know.

5. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING AND DISPOSING OF RECORDS IN THE SYSTEM:

STORAGE:

Records may be stored as paper records and electronic media.

RETRIEVABILITY:

Records are retrieved by application or proposal number, project number, award number, name of applicant or awardee, name of principal investigator, social security number, name of peer reviewer, DOE project officer, or budget and reporting classification code.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Director, Grants and Contracts Division, Office of Resource Management, Office of Science, U.S. Department of Energy, Washington, DC 20585.

NOTIFICATION PROCEDURES:

In accordance with the DOE regulation implementing the Privacy Act, at Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures.

RECORD SOURCE CATEGORIES:

Grant applications and contract proposals.

SYSTEM EXEMPTED FROM CERTAIN PROVISIONS OF THE ACT:

None.

DOE-83

SYSTEM NAME:

Allegation-Based Inspection Files of the Office of Inspector General.

SECURITY CLASSIFICATION:

Unclassified and classified.

SYSTEM LOCATION(S):

U.S. Department of Energy, Office of Inspector General, Headquarters, 1000 Independence Avenue, SW., Washington, DC 20585.

U.S. Department of Energy, Office of Inspector General, P.O. Box 5400, Albuquerque, NM 87185-5400.

U.S. Department of Energy, Office of Inspector General, Building 703-41A, Aiken, SC 29802.

U.S. Department of Energy, Office of Inspector General, P.O. Box 2254, Livermore, CA 94551.

U.S. Department of Energy, Office of Inspector General, P.O. Box 2001, Room 502, Oak Ridge, TN 37831.

CATEGORIES OF INDIVIDUALS COVERED BY THE SYSTEM:

Individuals who are the subjects of inspections or inquiries concerning allegations or complaints, individuals who have pertinent knowledge about the inspection or inquiry including DOE employees and National Nuclear Security Administration employees, individuals authorized to furnish information, confidential informants, complainants, Office of Inspector General inspections personnel, and other individuals involved in these inspections.

CATEGORIES OF RECORDS IN THE SYSTEM:

Inspection files predicated on allegations or complaints and which identify subjects or sources of information by name. Inspections performed relate to sensitive allegations of wrongdoing received concerning certain individuals, including agency employees, or other persons or entities with some relationship to the agency. Allegations include, but are not limited to, abuse of authority; misuse of government time, property, or position; conflicts of interest; whistleblower reprisal; or other non-criminal violations of law, rules, or regulations.

AUTHORITY FOR MAINTENANCE OF THE SYSTEM:

42 U.S.C. 7101 et seq.; 50 U.S.C. 2401 et seq.; The Inspector General Act of 1978, as amended, 5 U.S.C. App. 3.

PURPOSE(S):

For those records described in Categories of Records in the System, such records are maintained and used by the Department in furtherance of the responsibilities of the Inspector General. These responsibilities include evaluating the effectiveness and efficiency of an operation, determining compliance with laws and regulations, evaluating Departmental program operations and results, preventing and detecting fraud and abuse in such programs and operations, and assuring the investigation of complaints by contractor employees alleging retaliation for making disclosures protected under 10 CFR Part 708 and 41 U.S.C. § 265.

ROUTINE USES OF RECORDS MAINTAINED IN THE SYSTEM, INCLUDING CATEGORIES OF USERS AND PURPOSES OF SUCH USES:

1. A record from this system may be disclosed as a routine use for the purpose of an investigation, settlement of claims, or the preparation and conduct of litigation to (1) a person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a federal, state, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, state or federal agency when records alone or in conjunction with other information, indicates a violation or potential violation of law whether civil, criminal, or regulatory in nature, and whether arising by general statute or particular program pursuant thereto.

6. A record from this system of records may be disclosed to a member of Congress submitting a request involving the constituent when the constituent has requested assistance from the member with respect to the subject matter of the record. The member of Congress must provide a copy of the constituent's request for assistance.

7. A record from this system of records may be disclosed to foreign governments or international organizations in accordance with treaties, international conventions, or executive agreements.

8. A record from the system may be disclosed as a routine use to DOE contractors in performance of their contracts, and their officers and employees who have a need for the record in the performance of their duties. Those provided information under this routine use are subject to the same limitations applicable to Department officers and employees under the Privacy Act.

9. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper, microfilm, and electronic media.

RETRIEVABILITY:

Records are retrieved by name of individual involved, case number, report title, or subject matter.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Deputy Inspector General for Inspections, U.S. Department of Energy, Room 5B-250, 1000 Independence Avenue, SW., Washington, DC 20585.

Field Offices: The Inspector General of the “System Locations” listed above are the system managers for their respective locations.

NOTIFICATION PROCEDURES:

In accordance with the DOE regulation implementing the Privacy Act, at Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notification Procedures above. Records are generally kept at location where the work is performed. In accordance with the DOE Privacy Act regulation, proper identification is required before a request is processed.

CONTESTING RECORD PROCEDURES:

Same as Notification Procedures above.

RECORD SOURCE CATEGORIES:

Subject individuals; individuals and organizations that have pertinent knowledge about a subject individual or corporate entity; those authorized by an individual to furnish information; confidential informants; and Federal Bureau of Investigation (FBI) and other Federal, State, and local entities.

SYSTEM EXEMPTED FROM CERTAIN PROVISIONS OF THE ACT:

This system is exempt under (k)(1) and (k)(2) of the Privacy Act to the extent that information within the System meets the criteria of those subsections of the Act. Such information has been exempted from the provisions of subsections (c)(3), (d), and (e)(1), (e)(4)(G) and (H) and (f) of the Act; See the DOE Privacy Act regulation at Title 10, Code of Federal Regulations, Part 1008.

DOE-84

SYSTEM NAME:

Counterintelligence Investigative Records.

SECURITY CLASSIFICATION:

Classified and unclassified.

SYSTEM LOCATION(S):

Records maintained in DOE-84, except those pertaining to polygraph examinations and the analysis of electronic communications, will be stored at the following locations:

U.S. Department of Energy, 1000 Independence Avenue, SW., Washington, DC 20585.

U.S. Department of Energy, NNSA Service Center Albuquerque, P.O. 5400, Albuquerque, NM 87185-5400.

U.S. Department of Energy, Office of Science, Chicago Office, 9800 South Cass Avenue, Argonne, IL 60439.

U.S. Department of Energy, Golden Field Office, 1617 Cole Boulevard, Golden, CO 80401.

U.S. Department of Energy, Idaho Operations Office, 1955 Fremont Avenue, Idaho Falls, ID 83415.

U.S. Department of Energy, Livermore Site Office, 7000 East Avenue, P.O. Box 808, Livermore, CA 94551.

U.S. Department of Energy, Lockheed Idaho Technical Center, 765 Lindsay Boulevard, Idaho Falls, ID 83403.

U.S. Department of Energy, NNSA Los Alamos Site Office, M/S B-236, P.O. Box 1663, Los Alamos, NM 87545.

U.S. Department of Energy, NNSA Nevada Site Office, P.O. Box 98518, Las Vegas, NV 89193-8518.

U.S. Department of Energy, Office of Science, Oak Ridge Office, P.O. Box 2001, Oak Ridge, TN 37831.

U.S. Department of Energy, Pacific Northwest National Laboratory, 902 Battelle Blvd., P.O. Box 999, Richland, WA 99352.

U.S. Department of Energy, Richland Operations Office, P.O. Box 550, Richland, WA 99352.

U.S. Department of Energy, NNSA Sandia National Laboratory—Albuquerque, P.O. Box 5400, Albuquerque, NM 87185-5800.

U.S. Department of Energy, NNSA Sandia National Laboratory—California, P.O. Box 969, Livermore, CA 94551.

U.S. Department of Energy, Savannah River Operations Office, P.O. Box A, Aiken, SC 29801.

Records maintained in DOE-84 in connection with DOE administered counterintelligence-scope polygraph examinations, will be maintained only at the following locations:

U.S. Department of Energy, Headquarters, 1000 Independence Avenue, SW., Washington, DC 20585.

U.S. Department of Energy, DOE Test Center, Albuquerque, NM 87106.

Records maintained in DOE-84 in connection with the DOE electronic communications analysis will be maintained only at the following locations:

U.S. Department of Energy, Headquarters, 1000 Independence Avenue, SW., Washington, DC 20585.

U.S. Department of Energy, Office of Science—Oak Ridge Office, P.O. Box 2001, Oak Ridge, TN 37831.

U.S. Department of Energy, Idaho National Laboratory, 2525 N. Freemont Avenue, Idaho Falls, ID 83415.

U.S. Department of Energy, Pacific Northwest National Laboratory, 902 Battelle Blvd., P.O. Box 999, Richland, WA 99352.

CATEGORIES OF INDIVIDUALS COVERED BY THE SYSTEM:

Current and former DOE employees including employees of the National Nuclear Security Administration (NNSA) and contractor employees; applicants for employment at DOE; individuals who may be assigned or detailed to Federal positions at DOE; consultants to DOE; any user of electronic communications systems at the DOE facilities; persons suspected of violating DOE regulations or criminal laws; individuals who voluntarily request a polygraph examination in order to respond to questions that have arisen in the context of a counterintelligence investigation; and those individuals who are (a) reasonably believed to be officers or employees of, or otherwise acting for or on behalf of, a foreign power; (b) members of an organization reasonably believed to be owned or controlled directly or indirectly by a foreign power; (c) reasonably believed to be targets, hostages, or victims of international terrorist organizations; or (d) reasonably believed to be engaged or about to engage in clandestine intelligence activities, sabotage, assassinations, or international terrorist activities involving DOE programs, personnel, facilities, information, or materials and have made personal or impersonal contact with a current or former DOE employee, contractor employee or consultant.

CATEGORIES OF RECORDS IN THE SYSTEM:

Law enforcement records, reports and files; reports on foreign contacts; records, reports and files received from other DOE elements and other Federal agencies related to intelligence activities; counterintelligence evaluation records; polygraph examination records; reports and videotapes of the polygraph session; and electronic mail stored on electronic media.

AUTHORITY FOR MAINTENANCE OF THE SYSTEM:

42 U.S.C. 7101 et seq.; 50 U.S.C. 2401 et seq.; The Atomic Energy Act of 1954, as amended; National Defense Authorization Act of Fiscal Year 2000 Public Law 106-65; the Employee Polygraph Protection Act, Public Law 100-347; 29 U.S.C. 2006(b)(1)(B); the Electronic Communications Privacy Act, Public Law 99-508, 18 U.S.C. 2510 et seq.; Executive Order 12333, United States Intelligence Activities (December 4, 1981); Department of Energy Procedures for Intelligence Activities, approved by the Attorney General under Executive Order 12333 (October 19, 1992); Executive Order 12958, Classified National Security Information (April 17, 1995); Executive Order 12968, Access to Classified Information (August 2, 1995); and Presidential Decision Directive-61.

PURPOSE(S):

For those records described in Categories of Records in the System, such records are maintained and used by the Department to conduct counterintelligence investigations. The records in this system also will be used by the Office of Intelligence and Counterintelligence when participating in joint law enforcement counterintelligence-related investigations with the FBI or other Federal law enforcement agencies or components thereof in order to detect and prevent foreign intelligence threats directed at or involving DOE classified and sensitive information, materials, programs, facilities, personnel, and other Department resources. Finally, the records in this system are collected and maintained by the Office of Counterintelligence in order to fulfill its statutory responsibilities under Section 3154 of the National Defense Authorization Act for Fiscal Year 2000.

ROUTINE USES OF RECORDS MAINTAINED IN THE SYSTEM, INCLUDING CATEGORIES OF USERS AND PURPOSES OF SUCH USES:

1. A record from this system may be disclosed as a routine use to an appropriate Federal, State, local or foreign agency when a record within this system of records, alone or in conjunction with other information, indicates a violation or potential violation of law whether civil, criminal, or regulatory in nature, and whether arising by general statute of particular program pursuant thereto.

2. A record from this system of records may be disclosed, as a routine use, to a federal, state or local agency that maintains relevant information to obtain information relevant to a Department decision concerning the hiring or retention of an employee, the issuance of a security clearance, the letting of a contract, or the issuance of a license, grant, or other benefit. The Department must deem such disclosure to be compatible with the purpose for which the Department collected the information.

3. A record from this system may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from this system may be disclosed as a routine use to DOE contractors in performance of their contracts, and their officers and employees who have a need for the record in the performance of their duties. The contractor and its officers receiving information under this routine use are subject to the same limitations applicable to DOE officers and employees under the Privacy Act.

5. A record from this system of records may be disclosed to a member of Congress submitting a request involving the constituent when the constituent has requested assistance from the member with respect to the subject matter of the record. The member of Congress must provide a copy of the constituent's request for assistance.

6. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as paper records, electronic media, and videotapes.

RETRIEVABILITY:

Records are retrieved by name, e-mail address, and/or social security number.

SAFEGUARDS:

Paper records and videotapes are maintained in locked cabinets. Electronic records are controlled through established DOE computer center procedures (personnel screening and physical security), secured for classified information and are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Director, Office of Counterintelligence, U.S. Department of Energy, 1000 Independence Avenue, SW., Washington, DC 20585.

Field Offices: The Directors of Field Intelligence Elements of the “System Locations” listed above are the system managers for their respective portions of this system.

NOTIFICATION PROCEDURES:

In accordance with the DOE regulation implementing the Privacy Act, at Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notification Procedures above. Records are generally kept at locations where work is performed. In accordance with the DOE Privacy Act regulation, proper identification is required before a request is processed.

CONTESTING RECORD PROCEDURES:

Same as Notification Procedures above.

RECORD SOURCE CATEGORIES:

The subject individual, present and former DOE employees and DOE contractor employees, applicants for employment, individuals assigned or detailed to Federal positions at DOE, and consultants; any user of a DOE electronic communications system; publicly available material; other agencies within the Intelligence Community; other offices within the DOE; the FBI, and other Federal, State and local law enforcement agencies; and sources contacted during investigations.

SYSTEM EXEMPTED FROM CERTAIN PROVISIONS OF THE ACT:

This system is exempt pursuant to subsections (j)(2) and (k)(1), (2) and (5) of the Privacy Act, 5 U.S.C. 552a, to the extent that information within the system meets the requirements of those subsections of the Act. Under subsection (j)(2) of the Privacy Act, this system has been exempted from subsections (c)(3) and (4), (d), (e)(1), (2), and (3), (e)(4)(G) and (H), (e)(8), (f) and (g) of 5 U.S.C. 552a. See DOE the Privacy Act Regulation at 10 CFR Part 1008.12.

To the extent the information in this system of records is exempt pursuant to 5 U.S.C. 552a(k)(1), (2) and (5), the system has been further exempted from subsections (c)(3), (d), (e)(1), (e)(4)(G) and (H) and (f) of 5 U.S.C. 552a under the Privacy Act of 1974. See the DOE Privacy Act Regulation at 10 CFR Part 1008.12(b).

DOE-86

SYSTEM NAME:

Human Radiation Experiments Records.

SECURITY CLASSIFICATION:

Unclassified.

SYSTEM LOCATION(S):

U.S. Department of Energy, Office of Human Radiation Experiments, 1000 Independence Avenue, SW., Washington, DC 20585.

U.S. Department of Energy, Coordination and Information Center, 3084 S. Highland St., Las Vegas, NV 89109.

CATEGORIES OF INDIVIDUALS COVERED BY THE SYSTEM:

Persons who participated in the organizing, conducting, and financing of the Human Radiation Experiments and environmental releases of radiation described in Executive Order 12891, 59 Fed. Reg. 2935 (January 20, 1994). Records are also maintained on persons who were subjects of the experiments or were affected by the releases. Generally, the records pertain to persons in the following categories: (1) Former and current employees of the DOE, including the National Nuclear Security Administration, its predecessor agencies and their contractors and subcontractors; (2) members of the public; (3) persons exposed to radiation as a result of proximity to nuclear facilities or the intentional or accidental release of radiation.

CATEGORIES OF RECORDS IN THE SYSTEM:

Records pertaining to the planning, organizing, financing, conducting, effects and results of experiments and environmental releases, gathered from DOE, its predecessor agencies and their contractors and subcontractors. Such records include correspondence, memoranda, published and unpublished reports, notes, logs, proposals, contracts, minutes of meetings of the Atomic Energy Commission and its advisory committees and subcommittees dealing with radiation, correspondence with members of the public, transcripts of interviews of persons associated with the organizing, financing and conducting of the experiments, reports of Congressional hearings, personal notes, diaries and papers, archival collections, interagency memoranda and agreements, consent forms, medical and laboratory reports, transcripts of medical conferences, and newspaper and magazine articles.

AUTHORITY FOR MAINTENANCE OF THE SYSTEM:

42 U.S.C. 7101 et seq.; 50 U.S.C. 2401 et seq.; 42 U.S.C. 7151; 42 U.S.C. 2201 and 42 U.S.C. 5813 and 5817.

PURPOSE(S):

For those records described in Categories of Records in the System, the purpose of this system of records is to assist members of the public in piecing together their own (or immediate family) history of possible involvement in government-sponsored radiation experiments.

ROUTINE USES OF RECORDS MAINTAINED IN THE SYSTEM, INCLUDING CATEGORIES OF USERS AND THE PURPOSES OF SUCH USES:

1. A record from this system may be disclosed as a routine use to the Advisory Committee on Human Radiation Experiments to perform its assigned task of evaluating the scientific and ethical aspects of the Human Radiation Experiments and environmental releases. A record from this system of records may be disclosed to that Committee to provide it with information concerning experiments or releases of radiation that were sponsored, financed or conducted by DOE, its predecessors, or other Federal agencies, and their contractors and subcontractors. Those provided information under this routine use are subject to the same limitations applicable to Department officers and employees under the Privacy Act.

2. A record from this system may be disclosed as a routine use pertaining to another federal agency if it appears from the record, or other available information, that the other federal agency conducted the Human Radiation Experiment or environmental release or that referral to the other Federal agency is appropriate for remedial purposes.

3. A record from this system may be disclosed as a routine use to DOE contractors and subcontractors conducting epidemiological, industrial safety or hygiene studies to ascertain or determine: (a) How radiation exposure effects the health and well-being of individuals or groups of individuals; and (b) the risks of working with, or being in proximity to, nuclear equipment, devices and facilities and how such risks may be ameliorated. Those provided information under this routine use are subject to the same limitations applicable to Department officers and employees under the Privacy Act.

4. A record from this system may be disclosed as a routine use to the Centers for Disease Control and Prevention, other Federal and State health agencies, and federal and state agencies involved with industrial or employee safety to be used for epidemiological or industrial safety or hygiene studies to ascertain or determine: (a) How radiation exposure effects the health and well-being of individuals or groups of individuals; and (b) the risks of working with, or being in proximity to, nuclear equipment, devices and facilities, and how such risks may be ameliorated.

5. A record from this system may be disclosed as a routine use for the purpose of an investigation, settlement of claims, or the preparation and conduct of litigation to (1) a person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

6. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

7. A record from the system may be disclosed as a routine use to a federal, state, or local agency to obtain information relevant to a Departmental decision concerning the hiring or retention of an employee, the issuance of a security clearance, the letting of a contract, or the issuance of a license, grant, or other benefit. The Department must deem such disclosure to be compatible with the purpose for which the Department collected the information.

8. A record from this system of records may be disclosed to a federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

9. A record from the system may be disclosed as a routine use to the appropriate local, state or federal agency when records alone or in conjunction with other information, indicates a violation or potential violation of law whether civil, criminal, or regulatory in nature, and whether arising by general statute or particular program pursuant thereto.

10. A record from this system of records may be disclosed to a member of Congress submitting a request involving the constituent when the constituent has requested assistance from the member with respect to the subject matter of the record. The member of Congress must provide a copy of the constituent's request for assistance.

11. A record from the system may be disclosed as a routine use to DOE contractors in performance of their contracts, and their officers and employees who have a need for the record in the performance of their duties. Those provided information under this routine use are subject to the same limitations applicable to Department officers and employees under the Privacy Act.

12. A record from this system of records may be disclosed to officials and contractor personnel of the Agency for Toxic Substances and Disease Registry in carrying out that agency's authorized activities at DOE's facilities pursuant to Section 104(I) of the Comprehensive Environmental Response, Compensation, and Liability Act.

13. A record from this system may be disclosed as a routine use to the personnel, contractors, grantees, and cooperative agreement holders of the Department of Labor, the Department of Health and Human Services, the Department of Justice, and other Federal agencies and their components, designated by the President to implement the Federal compensation program established by the Energy Employees Occupational Illness Compensation Program Act, for the purpose of assisting in the adjudication or processing of a claim under that Act. Those provided information under this routine use are subject to the same limitations applicable to Department officers and employees under the Privacy Act.

14. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING AND DISPOSING OF RECORDS IN THE SYSTEM:

STORAGE:

Records may be stored as paper records and electronic media.

RETRIEVABILITY:

The records are retrieved by name or other personal identifier as dictated by the needs of the particular researcher.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

U.S. Department of Energy, Director, Office of Human Radiation Experiments, 1000 Independence Avenue, SW., Washington, DC 20585.

NOTIFICATION PROCEDURES:

In accordance with the DOE regulation implementing the Privacy Act, at Title 10, Code of Federal Regulations, Part 1008, a request by an individual to determine if a system of records contains information about him/her should be directed to the U.S. Department of Energy, Headquarters, Privacy Act Officer. The request should include the requester's complete name, time period for which records are sought, and the office location(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures.

RECORD SOURCE CATEGORIES:

Persons conducting or otherwise having a role in the organization and financing of experiments or releases, present and former DOE and predecessor agency contractors and subcontractors, physicians, medical records, dosimetry records, subject individuals, DOE and its predecessor agency officials and operating offices.

SYSTEM EXEMPTED FROM CERTAIN PROVISIONS OF THE ACT:

None.

DOE-88

SYSTEM NAME:

Epidemiologic and Other Health Studies, Surveys, and Surveillances.

SECURITY CLASSIFICATION:

Unclassified.

SYSTEM LOCATION(S):

U.S. Department of Energy, Office of Health, Safety and Security, Office of Health and Safety, Germantown, MD 20874-1290. Portions also may be located with contractors, other entities involved in conducting or managing health studies, surveys, and surveillances, or other Department offices listed below:

U.S. Department of Energy, Headquarters, 1000 Independence Avenue, SW., Washington, DC 20585.

U.S. Department of Energy, NNSA Service Center Albuquerque, P. O. Box 5400, Albuquerque, NM 87185-5400.

U.S. Department of Energy, NNSA Naval Reactors Field Office, Pittsburgh Naval Reactors, P.O. Box 109, West Mifflin, PA 15122-0109.

U.S. Department of Energy, NNSA Naval Reactors Field Office, Schenectady Naval Reactors, P.O. Box 1069, Schenectady, NY 12301.

U.S. Department of Energy, Bonneville Power Administration, P. O. Box 3621, Portland, OR 97208.

U.S. Department of Energy, Office of Science, Chicago Office, 9800 South Cass Avenue, Argonne, IL 60439.

U.S. Department of Energy, Golden Field Office, 1617 Cole Boulevard, Golden, CO 80401.

U.S. Department of Energy, Environmental Management Consolidated Business Center (EMCBC), 250 E. Fifth Street, Suite 500, Cincinnati, OH 45202.

U.S. Department of Energy, Idaho Operations Office, 1955 Fremont Avenue, Idaho Falls, ID 83415.

U.S. Department of Energy, National Energy Technology Laboratory (Morgantown), 3610 Collins Ferry Road, Morgantown, WV 26507-0880.

U.S. Department of Energy, National Energy Technology Laboratory (Pittsburgh), P.O. Box 10940, 626 Cochrans Mill Road, Pittsburgh, PA 15236.

U.S. Department of Energy, NNSA Nevada Site Office, P.O. Box 98518, Las Vegas, NV 89193-8518.

U.S. Department of Energy, Office of Science, Oak Ridge Office, P.O. Box 2001, Oak Ridge, TN 37831.

U.S. Department of Energy, Pacific Northwest National Laboratory, 902 Battelle Boulevard, P.O. Box 999, Richland, WA 99352.

U.S. Department of Energy, Richland Operations Office, P.O. Box 550, Richland, WA 99352.

U.S. Department of Energy, Office of Repository Development, P.O. Box 364629, North Las Vegas, NV 89036-8629.

U.S. Department of Energy, Savannah River Operations Office, P.O. Box A, Aiken, SC 29801.

U.S. Department of Energy, Southeastern Power Administration, 1166 Athens Tech Road, Elberton, GA 30635-6711.

U.S. Department of Energy, Southwestern Power Administration, Williams Tower One, One West Third Street, Tulsa, OK 74103.

U.S. Department of Energy, Strategic Petroleum Reserve Project Management Office, 900 Commerce Road, East New Orleans, LA 70123.

U.S. Department of Energy, Western Area Power Administration, P.O. Box 281213, Lakewood, CO 80228-8213.

CATEGORIES OF INDIVIDUALS COVERED BY THE SYSTEM:

Data about individuals who were included in any authorized epidemiologic or other health study, survey, or surveillance. Such persons include current and former employees of the Department, including the National Nuclear Security Administration, its predecessor agencies, and their contractors and subcontractors, as well as other individuals included in health studies, surveys, and surveillances pertaining to any potential health hazard (including electromagnetic fields) associated with energy production, transmission, or use. Accordingly, persons having access, or in proximity, to the Department's facilities, persons involved in or effected by energy production activities, and members of the general population selected as control groups also may be included.

CATEGORIES OF RECORDS IN THE SYSTEM:

Specific types of records collected and maintained are determined by the needs of the individual study, survey, or surveillance. Examples include, but are not limited to, questionnaires, demographic information, work history, medical and reproductive history, birth data, radiation and other exposure history, laboratory test results, data from prior studies, surveys, and surveillances, alcohol and tobacco use history, and illness absence information. Information may be collected directly from individuals, as well as extracted as necessary from personnel files and lists, training files, medical records, legal case files, bioassay records, industrial hygiene files, payroll and leave records, radiation and other hazard exposure records, occupational and industrial accident records, employee insurance claims, personnel security clearance questionnaires, personnel assurance program records, and related sources.

AUTHORITY FOR MAINTENANCE OF THE SYSTEM:

42 U.S.C. 7101 et seq.; 50 U.S.C. 2401 et seq.; 42 U.S.C. 7151 and 7297; 42 U.S.C. 2201(c), 2201(I)(3), 5813 and 5817.

PURPOSE(S):

For those records described in Categories of Records in the System, such records are maintained and used by the Department to conduct epidemiological and other health studies, surveys and surveillances, conducted by the Department and the Department of Health and Human Services performing studies for the Department, their contractors, grantees, and collaborating researchers. The health studies pertain to individual and aggregate population health risks from exposures to radiation, or other chemical, physical, or biological hazards that may occur or may have occurred as a result of the Department's, or its predecessor agencies' operations, or as a result of energy production, transmission, or use. Individually identifiable information does not appear in published epidemiological studies or other published health studies, surveys, and surveillances. However, the system will contain records compiled in completing published and unpublished studies, surveys, and surveillances from which information is retrieved by name or other personal identifier.

ROUTINE USES OF RECORDS MAINTAINED IN THE SYSTEM, INCLUDING CATEGORIES OF USERS AND THE PURPOSES OF SUCH USES:

1. A record from this system may be disclosed as a routine use to contractor personnel, grantees, and cooperative agreement holders of components of the Department of Health and Human Services, including the National Institute for Occupational Safety and Health, the National Center for Environmental Health of the Centers for Disease Control and Prevention, and the Agency for Toxic Substances and Disease Registry pursuant to a Memoranda of Understanding between the Department and the Department of Health and Human Services or its components. Those provided information under this routine use are subject to the same limitations applicable to Department officers and employees under the Privacy Act.

2. A record from this system of records may be disclosed as a routine use to contractors, grantees, participants in cooperative agreements and collaborating researchers, or the employees of these parties, when conducting health studies or related health or environmental duties pursuant to their contracts, grants, and cooperating or collaborating research agreements. In order to perform such studies, the Department, its contractors, grantees, participants in cooperative agreements, and collaborating researchers may disclose a record: To federal, state, and local health and medical agencies or authorities; to subcontractors in order to determine a subject's vital status or cause of death; to health care providers to verify a diagnosis or cause of death; or to third parties to obtain current addresses for participants in health-related studies, surveys and surveillances. All recipients of such records are required to comply with the Privacy Act, to follow prescribed measures to protect personal privacy, and to disclose or use personally identifiable information only for the above described research purposes. Those provided information under this routine use are subject to the same limitations applicable to Department officers and employees under the Privacy Act.

3. A record from this system of records may be disclosed to members of Department advisory committees, the Department of Health and Human Services Advisory Committee on Projects Related to Department of Energy Facilities, and to designated employees of federal, state, or local government, or government-sponsored entities, authorized to provide advice to the Department concerning health, safety, or environmental issues. All recipients of such records are required to comply with the Privacy Act, to follow prescribed measures to protect personal privacy, and to disclose or use personally identifiable information only for the purpose of providing advice to the Department or to the Department of Health and Human Services. Those provided information under this routine use are subject to the same limitations applicable to Department officers and employees under the Privacy Act.

4. A record from this system of records may be disclosed as a routine use, to DOE contractors in performance of their contracts, and their officers and employees who have a need for the record in the performance of their duties subject to the same limitations applicable to DOE officers and employees under the Privacy Act.

5. A record from this system may be disclosed as a routine use for the purpose of an investigation, settlement of claims, or the preparation and conduct of litigation to (1) a person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

6. A record from this system may be disclosed as a routine use in court or administrative proceedings to the tribunals, counsel, other parties, witnesses, and the public (in publicly available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

7. A record from the system may be disclosed as a routine use to the appropriate local, state or federal agency when records alone or in conjunction with other information, indicates a violation or potential violation of law whether civil, criminal, or regulatory in nature, and whether arising by general statute or particular program pursuant thereto.

8. A record from this system may be disclosed to Department of Health and Human Services, their contractors, grantees, and cooperative agreement holders, pursuant to the Energy Employees Occupational Illness Compensation Program Act of 2000, to estimate radiation doses and other workplace exposures received by Department of Energy and contractor employees. The Secretary of Health and Human Services and the Secretary of Energy shall each make available to researchers and the general public information on the assumptions, methodology, and data used in establishing radiation doses consistent with the protection of private medical records. Those provided information under this routine use are subject to the same limitations applicable to Department officers and employees under the Privacy Act.

9. A record from this system may be disclosed as a routine use to the personnel, contractors, grantees, and cooperative agreement holders of the Department of Labor, the Department of Health and Human Services, the Department of Justice, and other federal agencies and their components, designated by the President to implement the Federal compensation program established by the Energy Employees Occupational Illness Compensation Program Act, for the purpose of assisting in the adjudication or processing of a claim under that Act. Those provided information under this routine use are subject to the same limitations applicable to Department officers and employees under the Privacy Act.

10. A record from this system may be disclosed as a routine use when (1) it is suspected or confirmed that the security or confidentiality of information in the system of records has been compromised; (2) the Department has determined that as a result of the suspected or confirmed compromise there is a risk of harm to economic or property interests, identity theft or fraud, or harm to the security integrity if this system or other systems or programs (whether maintained by the Department or another agency or entity) that rely upon the compromised information; and (3) the disclosure is made to such agencies, entities, and persons who are reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records may be stored as microfilm, paper records, and electronic media.

RETRIEVABILITY:

Records are retrieved by name, study/surveillance-assigned control number, social security number, or other personal identifier, as dictated by the needs of the particular researcher.

SAFEGUARDS:

Paper records are maintained in locked cabinets and desks. Electronic records are controlled through established DOE computer center procedures (personnel screening and physical security), and they are password protected. Access is limited to those whose official duties require access to the records.

RETENTION AND DISPOSAL:

Records retention and disposal authorities are contained in the National Archives and Records Administration (NARA) General Records Schedule and DOE record schedules that have been approved by NARA.

SYSTEM MANAGER(S) AND ADDRESS:

Director, Office of Illness and Injury Prevention Programs, U.S. Department of Energy, 19901 Germantown Road, Germantown, MD 20874-1290.

NOTIFICATION PROCEDURES:

In accordance with the DOE regulation implementing the Privacy Act, at Title 10, Code of Federal Regulations, Part 1008, a request by an individual to determine if a system of records contains information about him/her should be directed to the U.S. Department of Energy, Headquarters, Privacy Act Officer, or the Privacy Act Officer at the appropriate address identified above under “System Locations.” For records maintained by Laboratories or Field Site Offices, the request should be directed to the Privacy Act Officer for the site that has jurisdiction over the “System Location” as listed in the Correlation. The request should include the requester's complete name, time period for which records are sought, and the office location(s) where the requester believes the records are located.

RECORDS ACCESS PROCEDURES:

Same as Notification Procedures above. Records are generally kept at location where the work is performed. In accordance with the DOE Privacy Act regulation, proper identification is required before a request is processed.

CONTESTING RECORD PROCEDURES:

Same as Notification Procedures.

RECORD SOURCE CATEGORIES:

Subject individual and the individual's employer, including DOE and its predecessor agencies and their contractors and subcontractors.

SYSTEMS EXEMPTED FROM CERTAIN PROVISIONS OF THE ACT:

None.

[FR Doc. E8-31316 Filed 1-8-09; 8:45 am]

BILLING CODE 6450-01-P